FEDERAL COMMUNICATIONS COMMISSION

47 CFR Part 1

[MD Docket No. 22-223; MD Docket No. 22-301; FCC 22-68; FR ID 103797]

Assessment and Collection of Regulatory Fees for Fiscal Year 2022, Report and Order

AGENCY: Federal Communications Commission.

ACTION: Final rule.

SUMMARY: In this document, the Commission revises its Schedule of Regulatory Fees to recover $381,950,000 that Congress has required the Commission to collect for its fiscal year (FY) 2022. Sections 9 and 9A of the Communications Act of 1934, as amended (Act or Communications Act), provides for the annual assessment and collection of regulatory fees by the Commission.

DATES: Effective September 14, 2022. To avoid penalties and interest, regulatory fees should be paid by the due date of September 28, 2022.

FOR FURTHER INFORMATION CONTACT: Roland Helvajian, Office of Managing Director at (202) 418-0444.

SUPPLEMENTARY INFORMATION: This is a summary of the Commission's Report and Order, FCC 22-68, MD Docket No. 22-223 and MD Docket No. 22-301, adopted on September 1, 2022 and released on September 2, 2022. The full text of this document is available for public inspection by downloading the text from the Commission's website at http://transition.fcc.gov/Daily_Releases/Daily_Business/2017/db0906/FCC-17-111A1.pdf.

I. Administrative Matters

A. Final Regulatory Flexibility Analysis

1. As required by the Regulatory Flexibility Act of 1980, the Commission has prepared a Final Regulatory Flexibility Analysis (FRFA) relating to this Report and Order. The FRFA is located at the end of this document.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

2. The Commission has determined, and the Administrator of the Office of Information and Regulatory Affairs, Office of Management and Budget, concurs that these rules are non-major under the Congressional Review Act, 5 U.S.C. 804(2). The Commission will send a copy of this Report and Order to Congress and the Government Accountability Office pursuant to 5 U.S.C. 801(a)(1)(A).

II. Report and Order

3. Each year, the Commission must adopt a schedule of regulatory fees to be collected by the end of September. FY 2022, the Commission is required to collect $381,950,000 in regulatory fees, pursuant to sections 9 and 9A of the Communications Act, and the Commission's FY 2022 Appropriations Act. In this Report and Order, the we adopt the regulatory fee schedule, as set forth in Tables 4 and 5 for FY 2022, to collect $381,950,000 in regulatory fees as required by Congress.

A. Allocating Full-Time Equivalents (FTE or FTEs)

4. We will continue to apportion regulatory fees across fee categories based on the number of non-auction direct FTEs in each core bureau (i.e., the Wireline Competition Bureau, the Wireless Telecommunications Bureau, the Media Bureau, and the International Bureau) and taking into account factors that are “reasonably related to the benefits provided to the payor of the fee by the Commission's activities.” We expect that the work of the non-auctions FTEs in the four core bureaus with oversight and regulation of Commission licensees and regulatees will remain focused on the industry segment regulated by each of those bureaus. For this reason, the Commission closely follows the statutory mandate to start with FTE counts and then potentially adjust fees to reflect other factors related to the benefits provided to the payor of the fee by the Commission's activities. As the Commission stated in the FY 2019 Report and Order, given the Act's requirement that fees must reflect FTE time before adjusting fees to take into account other factors, we continue to find FTE counts by far the most administrable starting point for regulatory fee allocations.

5. NAB and the Joint Broadcasters question our methodology and argue that the Commission assigns a disproportionate share of the costs of the 343 indirect FTEs to the Media Bureau without any analysis performed as to what portion of those indirect FTEs actually work on Media Bureau issues. Specifically, the Joint Broadcasters argue that Media Bureau regulatees' regulatory fees are inflated in order to cover costs for staff time not spent on broadcast-related issues. The Joint Broadcasters contend that the proportional allocation methodology, whereby regulatory fees are allocated based on the number of direct FTEs in the core bureaus, leads to fundamentally unfair results and that broadcasters subsidize the costs of the Commission's indirect bureaus and offices.

6. These commenters fail to recognize the fundamental task assigned to the Commission. The Commission must recover the full S&E appropriation through an offsetting collection. The S&E appropriation does not solely fund staff time spent directly regulating regulatory fee payors. The S&E appropriation funds all non-auctions-related costs, such as salaries and expenses of all non-auctions funded staff; indirect costs, such as overhead functions; statutorily required tasks that do not directly equate with oversight and regulation of a particular regulatee but instead benefit the Commission and the industry as a whole; support costs, such as rent, utilities, and equipment; and the costs incurred in regulating entities that are statutorily exempt from paying regulatory fees (i.e., governmental and nonprofit entities, amateur radio operators, and noncommercial radio and television stations), entities with total annual assessed fees below the de minimis threshold, and entities whose regulatory fees are waived. For that reason, we do not examine whether all indirect FTEs work on Media Bureau issues or on any other core bureau issues. Instead, we recognize that the indirect FTEs' work may not directly address oversight and regulation of just one particular regulatory fee category and may instead cover many different regulatory fee categories or issues not pertaining to any regulated industries. The statute requires the full collection of an amount equal to the annual S&E appropriation and requires that the mechanism used to apportion the collection is based on FTE burden. Thus, all Commission non-auctions FTEs must be accounted for in our regulatory fee assessments because, pursuant to section 9 of the Act, regulatory fees must reflect the “full-time equivalent number of employees within the bureaus and offices of the Commission, adjusted to take into account factors that are reasonably related to the benefits provided to the payor of the fee by the Commission's activities.” In order to allocate regulatory fees based on all the non-auctions FTEs in the Commission's bureaus and offices, the Commission bases this calculation on the number of FTEs within the Commission's core bureaus, i.e., those bureaus that conduct oversight and regulation of issues that benefit the fee payors.

7. The State Broadcasters Associations contend that it is likely that throughout the Commission there are identifiable groups of indirect FTEs working in non-core bureaus and offices, or collaboratively across bureaus and offices, whose work in oversight and regulation can be identifiably shown to only benefit some but not all regulatory fee payors. Accordingly, the State Broadcasters Associations argue that such indirect FTEs, whether handling Universal Service Fund or broadband internet access service issues, should be excluded from the indirect FTEs proportionally allocated to media services categories. Thus, the State Broadcasters Associations propose creating a third regulatory fee category, which they label as “Intersectional FTE.” They propose that this third regulatory category cover FTEs in the non-core bureaus and those in core bureaus who work on similar issues regulated by various bureaus but benefit a discrete group of regulatees. The State Broadcasters Associations argue that the work of indirect FTEs working on long-standing priorities of the Commission, such as Universal Service Fund program issues and broadband internet access service, unfairly burdens regulatory fee payors who do not benefit from these programs yet are required to pay regulatory fees that cover a proportion of such indirect FTEs. Essentially, the State Broadcasters Associations are of the opinion that there are some indirect FTEs who do not work on broadcast issues, and therefore broadcasters should not be assessed regulatory fees that include such indirect FTEs, i.e., their regulatory fees should be reduced.

8. Additionally, the Satellite Coalition claims that regulatory fees are especially burdensome for the satellite industry, as some satellite companies pay millions of dollars per year solely to cover indirect FTE costs. The Satellite Coalition contends that by undertaking a reassessment of whether FTEs currently classified as indirect can be assigned directly to one or more categories of fee payors, the Commission can greatly improve the fee structure's fairness. Similarly, NAB contends that our regulatory fee methodology and allocation of indirect FTEs results in a system that is arbitrary and capricious, inequitable, and unlawful.

9. Again, we note that the regulatory fees must cover the entire appropriation, including those FTEs who may work on issues for which we do not have regulatory fee categories. We therefore continue to find that, consistent with section 9 of the Act, regulatory fees are not based on a precise allocation of specific employees with certain work assignments each year and instead are based on a higher-level approach. As the Commission has explained previously, indirect FTE time covers a wide range of issues; the variety of issues handled by the indirect FTEs in non-core bureaus may also include services that are not specifically correlated with one core bureau, let alone one specific category of regulatees. Indirect FTE work also includes matters that are not specific to any regulatory fee category, and many Commission attorneys, engineers, analysts, and other staff work on a variety of issues during a single fiscal year. For example, indirect FTEs that devote time to broadband internet access services or Universal Service Fund issues may also work on a variety of other issues during the fiscal year. Thus, we affirm the longstanding holding that the non-auctions work of certain bureaus and offices within the Commission are properly designated as indirect. Even if we could calculate indirect FTE time assignments at a granular level with accuracy, using any particular window of time less than the full year would not be accurate for the entire fiscal year. Moreover, we note that basing regulatory fees on specific assignments, instead of overall FTE time, would result in significant unplanned shifts in regulatory fees as assignments change over time.

10. Further, much of the work that could be assigned to a single category of regulatees is likely to be interspersed with the work that FTEs do on behalf of many entities that do not pay regulatory fees, e.g., governmental entities, non-profit organizations, and regulatees that have an exemption. Indirect FTE time covers matters that are not specifically related to a regulated service, but instead support the Commission generally. Additionally, indirect FTE time is devoted to issues that are not specifically limited to one type of regulated industry. Finally, we note that regulatory fees are a zero-sum situation, so any decrease to the fees paid by one category of regulatees, such as broadcasters, necessitates an increase in fees for others. For this reason, there must be a very strong rationale for changing the manner of proportionally allocating indirect FTEs to certain fee categories based on direct FTEs because any such changes will impact the fees of other regulatory fee categories. We disagree with the commenters' contention that our methodology is arbitrary and capricious, inequitable, and unlawful. Instead, we conclude that our methodology is consistent with the requirements of section 9 of the Act that “fees reflect the full-time equivalent number of employees within the bureaus and offices of the Commission.”

11. Additionally, we find that even if the State Broadcasters Associations' proposal were consistent with section 9 of the Act, it would not be administrable given the resources it would take to calculate and the resulting constantly shifting nature of the regulatory fee burdens. The State Broadcasters Associations' proposal would require resources of both staff and presumably information technology devoted to this proposed new system. Additionally, it would require a close monitoring and analysis of all the work of all indirect FTEs in the Commission over the course of the entire year. As NCTA states, “the idea that the Commission should undertake an analysis of hundreds of employees' daily undertakings, monitoring them and changing their indirect allocation to different fee categories as the employees receive new assignments and work on different issues throughout the day is nonsensical.” Thus, we do not believe that added granularity would change the overall result, or improve our regulatory fee methodology, but would simply consume more staff resources and increase the indirect FTE time devoted to regulatory fee administration. Even if we could conduct such a monitoring accurately, it would still be unable to account for the vast majority of indirect FTE time that cannot be allocated specifically to regulatory fee categories. This proposal would result in attributing some indirect FTE time to various regulatory fee categories in a manner that would fluctuate constantly, depending on the work done in bureaus and offices during the year, and others that could not be so attributed at all. We are not adopting a regulatory fee methodology that would result in dramatic swings in fees from one year to the next; instead we take a higher level approach for consistency as well as administrability. Our approach is most accurate when we look at the work of a larger group such as a division, office, or bureau, consistent with the language of section 9 of the Act that “fees reflect the full-time equivalent number of employees within the bureaus and offices of the Commission.”

12. NAB argues that the Media Bureau regulatees have a high regulatory fee burden because, unlike other core bureaus, the Commission has not reclassified any Media Bureau FTEs as indirect. This is inaccurate. In FY 2019, we had such reclassifications from core bureaus, including the Media Bureau. The Commission reassigned staff from other bureaus and offices to the new Office of Economics and Analytics, effective December 11, 2018. This resulted in the reassignment of 95 FTEs (of which 64 were not auctions-funded) as indirect FTEs because all FTEs in the Office of Economics and Analytics are indirect. The Commission also reassigned Equal Employment Opportunity enforcement staff from the Media Bureau to the Enforcement Bureau, effective March 15, 2019, resulting in a reduction of seven direct FTEs in the Media Bureau. These reassignments resulted in a reduction in direct FTEs in the Wireline Competition Bureau (from 123 FTEs to 100.8 FTEs), Wireless Telecommunications Bureau (from 89 FTEs to 80.5 FTEs), and Media Bureau (from 131 FTEs to 115.1 FTEs).

13. NAB also argues that the Commission should ensure that broadcasters bear no responsibility for the 84 direct FTEs in the Media Bureau that the Commission has stated to Congress are working to promote a 100% broadband policy, and that these 84 Media Bureau FTEs should be reclassified as indirect. The statement to Congress to which NAB refers is the description of the Commission's Strategic Goals and the distribution of FTEs for each Strategic Goal. The goal NAB refers to is the Commission's Strategic Goal to “Pursue a “100 Percent” Broadband Policy.” The other goals are to Promote Diversity, Equity, Inclusion, and Accessibility; Empower Consumers; Enhance Public Safety and National Security; Advance America's Global Competitiveness; and Foster Operational Excellence. The Commission, like every other federal agency, adopts strategic goals as part of its long term planning process pursuant to federal financial management requirements. The financial reporting statutes also require agencies to identify the resources that support such strategic goals. The strategic goals are not aligned with a particular regulatory fee category and the exercise is guided by a wholly distinct statutory scheme. In addition, such strategic goals are intended to align with higher level priority goals of the overall federal government. As such, a notation that staff support a specific strategic goal is not a sound rationale for reassigning staff from direct to indirect or vice versa. We therefore reject NAB's contention that planning documents guided by a wholly different statutory scheme form the basis to reassign most or all of the Media Bureau FTEs as indirect.

14. Thus, we decline, at this time, to change the methodology by which we allocate FTEs. Currently, there are 943 indirect FTEs. The indirect FTEs are the FTEs in the Enforcement Bureau (187), Consumer and Governmental Affairs Bureau (111), Public Safety and Homeland Security Bureau (98), Chairwoman's and Commissioners' offices (22), Office of the Managing Director (136), Office of General Counsel (70), Office of the Inspector General (47), Office of Communications Business Opportunities (10), Office of Engineering and Technology (66), Office of Legislative Affairs (8), Office of Workplace Diversity (4), Office of Media Relations (12), Office of Economics and Analytics (78), and Office of Administrative Law Judges (4), along with some FTEs in the Wireline Competition Bureau (38) and the International Bureau (52) that the Commission has previously classified as indirect for regulatory fee purposes.

15. The number of direct FTEs are determined within each core bureau and a percentage of the total amount to be collected in regulatory fees for a given fiscal year is calculated. There are 329 direct FTEs: $32.70 million (8.56% of the total FTE allocation, 28 direct FTEs) in fees from International Bureau regulatees; $81.74 million (21.40% of the total FTE allocation, 70 direct FTEs) in fees from Wireless Telecommunications Bureau regulatees; $129.62 million (33.94% of the total FTE allocation, 111 direct FTEs) from Wireline Competition Bureau regulatees; and $137.89 million (36.10% of the total FTE allocation, 120 direct FTEs) from Media Bureau regulatees. The regulatory fees we adopt here are based on the established methodology, applied to the allocated FTEs, and based on the Commission's appropriation amount of $381,950,000.

B. Space Station and Submarine Cable Regulatory Fees

1. Non-Geostationary Orbit System (NGSO) Regulatory Fees

16. We adopt fee rates for NGSO space stations for FY 2022 and decline to create additional regulatory fee categories for FY 2022. In the Report and Order attached to the FY 2022 NPRM, we adopted a methodology for calculating the regulatory fee for small satellites and small spacecraft (together, small satellites) based on 1/20th (5%) of the average of the non-small satellite NGSO space station regulatory fee rates from the current fiscal year on a per license basis. In the FY 2022 NPRM, we sought comment on the proposed regulatory fee rates for the subcategories of NGSO—small satellite, NGSO—less complex space stations, and NGSO—other space stations for FY 2022, and addressed regulatory fee proposals in the record regarding spacecraft performing on-orbit servicing (OOS) and rendezvous and proximity operations (RPO). We also tentatively concluded that the addition of a new regulatory fee category for OOS and RPO operations would be premature, but sought further comment on whether and how to assess fees for these types of spacecraft, and other types of satellites servicing other satellites, which operate near to the geostationary orbit (GSO) arc.

17. NGSO Fee Allocation. We maintain the 20/80 allocation between “less complex” and “other” NGSO space station fees, respectively, within the NGSO fee category. In 2020, the Commission adjusted the allocation of FTEs among GSO and NGSO space station and earth station operators. The Commission noted the disparity in the number of units between GSO space stations (98) and NGSO systems (seven), and observed that many satellites can be operated under a single NGSO license while counting as a single unit for regulatory fee purposes, but only one satellite can be operated per GSO space station license. To ensure that regulatory fees more closely reflected the FTE oversight and regulation for each space station category, the Commission allocated 80% of space station regulatory fees to GSOs and 20% of the space station regulatory fees to NGSOs. In 2021, the Commission adopted two new fee subcategories: “less complex” NGSO systems and all other NGSO systems identified as “other” NGSO systems, both under the broader category of “Space Stations (Non-Geostationary Orbit).” “Less complex” NGSO systems are defined as NGSO satellite systems planning to communicate with 20 or fewer U.S. authorized earth stations that are primarily used for Earth Exploration Satellite Service (EESS) and/or Automatic Identification System (AIS). “Less complex” NGSO fees and “other” NGSO fees were split within the broader NGSO fee category on a 20/80 basis.

18. In the Report and Order attached to the FY 2022 NPRM, the Commission adopted a fee methodology for the “small satellites” and decided that, as the “small satellite” fee is calculated, considering that “small satellites” are NGSO space stations, the fees generated from this “small satellite” fee category will be deducted from the fee amount to be collected from the total NGSO space stations fees, and the remainder of the NGSO space stations fees will continue to be allocated on a 20/80 basis between “less complex” and “other” NSGO space stations respectively.

19. The Satellite Coalition first claims that the “Commission no longer can assume that EESS systems are less complex because they communicate with fewer than 20 U.S. earth stations.” The Satellite Coalition contends that distinguishing “less complex” and “other” NGSOs based on the number of earth stations is no longer accurate because two of the best-known EESS systems, Spire Global and Planet Labs, already communicate with more than 20 FCC-licensed antennas. The Satellite Coalition also observes that EESS systems are developing substitutes for dedicated, proprietary earth station networks, with some EESS systems relaying data via satellite systems that have established ground infrastructure, others associating with “ground station-as-a-service” organizations, and others downlinking data directly to user terminals, including more ubiquitous mobile terminals. The Satellite Coalition contends that the Commission should require licensees of EESS systems to report the total number of FCC-licensed antennas with which their systems communicate.

20. The EESS Coalition disagrees with the Satellite Coalition and argues that in the year since the Commission's 2021 decision there are “no new arguments or developments” that warrant the alterations to the NGSO fee categories sought by the Satellite Coalition. The EESS Coalition further argues that considerations regarding the number of earth stations as a proxy for the complexity of a system have not altered. The EESS Coalition contends that, under our rules, an “earth station” could not be defined as a single antenna. The EESS Coalition further disagrees that the fee allocation needs to be altered as EESS systems may begin to require more earth stations to meet demand because the Commission previously clarified that systems planning to communicate with greater than 20 earth stations would not meet the definition of “less complex.” Likewise, the EESS Coalition contends that the fact that EESS systems have been improving their technology is not a reason to change the fee allocation when the Satellite Coalition provides no explanation of how or why the introduction of new use cases that are not directly regulated by the Commission, or the use of third-party ground stations, support the conclusion that there are additional burdens on the Commission's responsibilities.

21. As an initial matter, we emphasize that we previously concluded that 20 or fewer planned earth stations is an accurate proxy to determine whether a primarily AIS and/or EESS system is “less complex” and that EESS systems are less burdensome to regulate than other types of services, such as NGSO FSS systems, when those EESS systems plan to communicate with 20 or fewer earth stations. We will address the Satellite Coalition's comments to the extent that it raises new arguments.

22. We find that distinguishing “less complex” EESS systems based on whether those systems plan to communicate with 20 or fewer earth stations is still an accurate proxy. The Satellite Coalition argues that the Commission meant to define earth stations as antennas. Notwithstanding the assertions of the Satellite Coalition, a single call sign, not an antenna, equates to a single earth station license. The Commission's definition of “earth station,” which incorporates the Commission's definition of “station,” demonstrates that an antenna is merely part of an “earth station.” A “station” includes “[o]ne or more transmitters or receivers or a combination of transmitters and receivers, including the accessory equipment, necessary at one location for carrying on a radiocommunication service[.]” While an antenna may be an important piece of equipment in transmitting or receiving signals, additional accessories are needed to successfully carry out a radiocommunication, which, together with one or more antennas, constitute a “station.” Moreover, it is not apparent how the number of antennas at a particular earth station location supports a conclusion that there are additional burdens on the Commission's responsibilities for regulatory fee purposes.

23. In addition, we disagree that we should change the 20/80 allocation now because EESS systems are developing substitutes for dedicated, proprietary earth station networks. While in the future this may result in our reconsideration of planned 20 earth stations as the dividing line between a “less complex” and “other” system, for FY 2022, we agree with the EESS Coalition that we do not have evidence that “less complex” systems' new technology has made those NGSO systems more burdensome to regulate. Based on our current experience, the 20/80 split continues to be accurate and closely reflect the percentage of the FTE time spent to regulate less complex NGSO space stations and “other” NGSO space stations.

24. Finally, we remind all operators that the fee payors have an obligation to pay the correct fee amount corresponding to their actual fee category. If a non-small satellite NGSO system is listed as “less complex” but actually communicates with more than 20 earth stations, such fee payor has an obligation to correct that listing mistake to be billed the fee amount that correspond to “other” NGSO space station fee category. In the FY 2022 NPRM, we listed systems in various categories and gave the fee payors a chance to verify and correct any mistakes in our space stations list. Based on the information we received, we believe all operational “less complex” space stations are now listed in the appropriate category. We note that the public record in the International Bureau Filing System (IBFS) contains the call signs of FCC-licensed earth stations with which “less complex” systems presently communicate, with the particular NGSO system listed as a point of communication. Since we also include earth stations that have been authorized by other U.S. federal government agencies when determining the total number of earth stations with which a “less complex” system communicates, and such information is not typically in IBFS, if needed, we may consider other options to verify the information, including an annual reporting requirement regarding the number of earth stations for future fiscal years, to aid in the administrability of and increase transparency in our maintenance of the list of “less complex” space station systems.

25. Second, the Satellite Coalition also argues that the characteristics that the Commission previously noted that make EESS systems distinct from other NGSO systems, such as those NGSO systems providing fixed-satellite service (FSS), are breaking down. The Satellite Coalition asserts that EESS systems now are developing a global presence and have significant spectrum needs and use multiple bands, while the significance of processing rounds has been diminished. The Satellite Coalition contends that the Commission should not be assessing radically different regulatory fees for NGSO systems that are becoming functionally indistinct and competing for the same or similar customers.

26. The EESS Coalition counters that many of the developments to EESS systems to which the Satellite Coalition cites took place prior to the FY 2021 regulatory fee proceeding during which the 20/80 allocation was adopted. The EESS Coalition further posits that the distinctions between the two regulatory fee categories remain consistent with those analyzed in the FY 2021 Report and Order. For example, processing rounds have not become less intensive. Similarly, EESS systems have not increased their global presence with activities to the extent that the Commission would be required to expend significant staff resources for representation at international forums and multilateral coordination. We conclude that the 20/80 allocation among “less complex” and “other” NGSOs remains fair and our definition of “less complex” does not need to be modified. At this time, we are not persuaded that EESS systems communicating with 20 or fewer earth stations have increased in complexity as to justify a change in our definition or the 20/80 allocation. As the EESS Coalition points out, the work involving the processing rounds remains at around the same level, “less complex” systems' global presence has not increased the FTEs' work at a level that justifies a change, and in some cases the use of spectrum despite increased use of bandwidth of “less complex” systems remains the same. Although the Satellite Coalition argues that some “less complex” EESS operators do not meet the criteria of “less complex” because their systems communicate with greater than 20 planned FCC-licensed antennas, the criteria we identified in the Report and Order attached to the FY 2021 NPRM remain valid. If EESS operators communicate with more than 20 earth stations, they would no longer be considered “less complex.” Given that we determine the complexity of the NGSO system based on the system design provided at the NGSO space station application stage, and that none of our already designated “less complex” systems actually communicate with greater than 20 earth stations, we find that the Satellite Coalition's examples of “less complex” systems that we have already designated as “less complex” do not establish a sufficient basis upon which to change the 20/80 allocation at this time. While we acknowledge that the technology associated with “less complex” EESS system is changing, and this in some instances involves changes including increases in bandwidth, number of earth stations, amount of time in which spectrum is used, or other such changes, the changes identified appear at this time to be expected incremental changes consistent with the general characteristics identified for less complex systems. Accordingly, we find that the 20/80 allocation still fairly represents Commission resources spent and benefits received by operators.

27. Third, the Satellite Coalition argues that adoption of a fee category for small satellites should result in a re-evaluation of the regulatory fees between “less complex” systems and “other” NGSO systems. The Satellite Coalition argues that, because Commission resources devoted to the regulation and oversight of “small satellites” is minimal, “small satellites” are the least complex NGSO systems among the types of constellations that formerly were included in the “less complex” NGSO fee category, and now that “small satellites” have their own fee category, only systems that demand relatively more Commission oversight remain in the “less complex” fee category for FY 2022 and going forward. The EESS Coalition disagrees because the Commission previously “note[d] that while there may be overlap in the types of services being provided in some instances, there are also important differences between small satellites and `less complex' and `other' NGSO space station systems.”

28. We decline to reconsider the “less complex” fee allocation due to the adoption of a small satellite fee category. A new regulatory fee category was created for small satellites in 2019. The 20/80 fee allocation among “less complex” NGSO systems and “other” NGSO systems was not proposed until 2021. As a result, parties had notice that small satellites would be assessed fees separately when we accepted comments regarding the 20/80 NGSO fee allocation. Even when we adopted the 20/80 NGSO fee allocation, we left open the question as to how we would integrate the small satellite fee category into the overall space stations fee category rather than guaranteeing that the fee would be integrated into the “less complex” NGSO fee category. We also did not yet have any operational small satellites that were assessed fees in FY 2021, so small satellite licenses were not factored into the “less complex” allocation. As such, we see no need to reconsider the 20/80 allocation following integration of the small satellite fee category into the overall NGSO space station fee category at this time.

29. Small Satellite Regulatory Fees. We decline to broaden the definition of “small satellites” for regulatory fee purposes. In the Small Satellite Report and Order, the Commission adopted a new, optional licensing process for small satellites and spacecraft, a type of NGSO space station. In that proceeding, the Commission also adopted a small satellite regulatory fee category for licensed and operational space stations authorized under the process adopted in that proceeding. The Commission found that these actions would enable such applicants to choose a streamlined licensing procedure resulting in an easier application process, a lower application fee and a shorter timeline for review than exists for non-small satellite applicants. Satellites licensed through the streamlined process have characteristics that distinguish them from traditional NGSO satellite space stations, such as having a lower mass, shorter duration missions, more limited spectrum needs, and detailed certifications that must be submitted by the applicant.

30. We are assessing regulatory fees for small satellites for the first time in FY 2022 because there were five licenses for operational space stations in this small satellite regulatory fee category as of the start of the fiscal year on October 1, 2021. We are using the methodology adopted in the Report and Order attached to the FY 2022 NPRM to calculate the regulatory fee for small satellites. The fee is based on 1/20th (5%) of the average of the non-small satellite NGSO space station regulatory fee rates from the current fiscal year on a per license basis. This accommodates fluctuations in the number of NGSO space stations fee payors and results in an appropriately low regulatory fee for small satellites. In addition, this averaging methodology provides a middle ground and an opportunity to gain more experience in regulating small satellites, while also recognizing that small satellites are part of a separate fee category and not within either the “less complex” or “other” NGSO space stations fee categories. Our small satellite methodology also takes into account our expectation that FTEs will spend approximately twenty times more time on regulating one non-small NGSO space station system compared to the time spent for regulating one small satellite license.

31. OSK requests that we broaden the definition of “small satellites” for the purposes of regulatory fee assessment to include all systems that meet the criteria enumerated in the Small Satellite Report and Order, regardless of whether they seek license processing under the small satellite processing rules of section 25.122. OSK contends that the substantial difference in regulatory fee treatment between “small satellites” and NGSO—“less complex” (almost $130,000 per year) has significant ramifications for small satellite operators, such as OSK, who elect not to utilize the Commission's new regulatory scheme for small satellites. According to OSK, if we assess regulatory fees based on the actual characteristics of the system, rather than the licensing treatment sought, we can increase efficiency and ensure equitable treatment for similarly situated systems. By not assessing regulatory fees based on the actual characteristics of the system, OSK contends that small satellite operators will be forced to contort their constellations to fit under the section 25.122 framework in order to avoid unreasonable fee burdens, thereby removing all optionality the Commission sought to provide through the streamlined licensing regime.

32. SIA responds that OSK's proposal should be rejected because it would require the Commission to individually determine whether every satellite system that applies for Commission authorization meets the criteria enumerated in the Small Satellite Report and Order, regardless of whether they seek license processing under section 25.122, which would significantly add to the administrative burden of the Commission. SIA adds that, rather than changing the definition of a fee category, applicants with individual licensing issues should make use of the existing processes available for regulatees who are concerned about their fees by petitioning for waiver, deferral, or fee determinations.

33. We decline to broaden the definition of “small satellites” for the purposes of regulatory fee assessment and conclude that only space stations licensed pursuant to the streamlined small satellite licensing process under sections 25.122 and 25.123 of our rules are eligible to be assessed the small satellite regulatory fee. As we noted in the FY 2022 NPRM, the streamlined small satellite rules are designed to lower the regulatory burden and reduce staff resources required for licensing, but the rules also restrict the benefits received by these licensees. For example, license terms are limited to six years, including deorbit time, and only 10 satellites are permitted on a single license. In the Small Satellite Report and Order, the Commission made clear that the licensing process for small satellites is “optional.” The Commission further adopted a new category in the regulatory fee schedule that is separate from the existing fee categories for satellites licensed pursuant the streamlined process and stated that the small satellite fee subcategory would apply to licensed and operational satellite systems “authorized under the new process adopted in this proceeding.” Therefore, licensees that could be eligible to receive authorization pursuant to the streamlined small satellite licensing process but choose not to seek authorization pursuant to the streamlined small satellite licensing process have sufficient awareness that the regulatory fee category associated with licenses obtained through small satellite licensing process is separate. Such licensees must pay the regulatory fees associated with non-small satellites, which in turn reflect a higher regulatory oversight cost and significantly greater benefits for the fee payors.

34. FY 2022 NGSO Space Stations Regulatory Fee Rates. We adopt the below regulatory fee rates for NGSO space stations, as follows for FY 2022:

Table 1—Non-Geostationary Space Station FY 2022 Fee Rates
NGSO—small satellite FY 2022 fee (per license) | NGSO—other space station FY 2022 fee (per system) | NGSO—less complex space station FY 2022 fee (per system)
$12,215 | $340,005 | $141,670

2. Spacecraft Performing On-Orbit Servicing and Rendezvous and Proximity Operations

35. Due to the nature of the OOS and RPO, or more generally in-space servicing industries, we will continue to evaluate each such spacecraft on a case-by-case basis until we gain more experience in understanding how such spacecraft fit into our regulatory structure. In the FY 2022 NPRM, we sought comment on adopting regulatory fee categories for spacecraft performing OOS and RPO. We noted that there have been a limited number of such operations and except for GSO servicing missions. We previously stated that we expect that most OOS and RPO operations will be NGSO. We tentatively concluded that it is too early to identify exactly where operations, such as those in low-Earth orbit (LEO), might fit into the regulatory fee structure in the future.

36. SIA supports our earlier conclusion that it is premature to adopt new fee categories for OOS and RPO, as there is currently too much variation in the industry, and such operations continue to require a case-by-case review. SIA also notes that even Astroscale, which supports a fee for RPO operations, acknowledges that such operations are part of a “nascent infrastructure.”

37. Other commenters favor the creation of a new fee category and propose how we may define the services that may be contained in this new category. Spaceflight argues that OOS missions are a new industry sector involving relatively low-cost systems and a high regulatory fee could limit the commercial applications for such systems. Spaceflight states that OOS might support NGSO or GSO satellites and should be their own category. Spaceflight observes that until recently the fact that these missions have been authorized under Special Temporary Authority (STA) has made Commission regulatory fees a non-issue, but now that the Commission is requiring some of these missions to be licensed under part 25, the issue of the appropriate regulatory fees must be decided. Spaceflight also recommends that the Commission define “OOS Missions” as spacecraft whose primary function is to provide OOS, including concepts of operations such as deployment via orbital transfer vehicle (OTV), hosting, or RPO. Turion adds that the proposed OOS regulatory fee category should include space situational awareness (SSA) and space domain awareness (SDA) and, in the absence of an OOS regulatory fee category, SSA and SDA should fall under a new regulatory fee category, separate from the standard NGSO fee category. Astroscale requests that, rather than using the terms OOS and RPO when discussing the creation of a new fee category, we use the term “in-space servicing” to correlate the language with the In-Space Servicing, Assembly, and Manufacturing (ISAM) National Strategy. Astroscale suggests “in-space servicing” be defined as activities in space “by a servicer spacecraft or servicing agent on a client space object which require rendezvous and/or proximity operations.” Astroscale also contends that the Commission must not continue to regulate in-space servicing systems on a mission-by-mission basis and notes that three distinct ISAM operators have multiple granted or pending full part 25 licenses and 15 STAs have been granted to support commercial ISAM activities since 2016. Astroscale adds that a fee category for in-space servicing is needed to solve existing ambiguity and because ISAM operations challenge the current fee structure established by orbital regime since an in-space servicing spacecraft can change between NGSO and GSO operations over their servicing lifetime.

38. Two commenters support an interim regulatory fee at the same amount as the small satellite fee. Spaceflight and Turion observe that many of the factors used in determining the small satellite regulatory fee, such as interference protection, limited duration, smaller investment, less adjudication, multiple licenses or market grants, and limited number of missions overall, are also present in missions involving their own spacecraft, as well other OOS spacecraft. Spaceflight and Turion propose that an interim regulatory fee should apply per OOS mission license, i.e., 1/20th (5%) of the average of the non-small satellite NGSO and non-OOS regulatory fee rates from the current fiscal year. Turion argues that, if the Commission should label OOS spacecraft as standard NGSOs, despite their meeting the small satellite criteria and not operating as conventional satellites, then they should receive similar regulatory fee treatment to small satellite missions. SIA responds that an interim regulatory fee schedule is unnecessary, as the assessment of how OOS services fit into the current regime at the licensing stage is sufficient for the time being.

39. We are unable to adopt a new regulatory fee for in-space servicing operations for FY 2022 now, as we are required to notify Congress at least 90 days prior to creating such a change to the regulatory fee schedule. Moreover, even absent the notice requirement, we find that the record is not sufficient to support such action at this time. As such, we defer this issue to a future fiscal so that we can more effectively address this issue once the regulatory framework under which space stations performing in-space servicing operations, including OOS, RPO, SSA, and SDA operations, and the scope of those operations, is better understood. As SIA, Spaceflight, and Astroscale acknowledge, in-space servicing is a relatively new industry. Missions, which can include satellite refueling, inspecting and repairing in-orbit spacecraft, capturing and removing debris, and transforming materials through manufacturing while in space, have the potential to benefit all space stations, the sustainability of the outer space environment and the space-based services. We note that these systems are still nascent. For FY 2022, only two in-space servicing spacecraft were operating pursuant to full part 25 licenses, which is a marginal number in comparison to the total number of systems operating pursuant to full part 25 licenses that we are regulating during this fiscal year. We need more experience with these operations and in understanding the FTE time required to support them. At this time, we do not have the experience or the robust record needed to establish definitions and methodologies for a new fee category for these operations that would fairly recover any costs that might be associated with such services. For the same reasons, we decline to adopt an interim fee, including one equivalent to the fee assessed for systems authorized under the streamlined small satellite licensing process. As we gain more experience in oversight and regulation of this industry, we will better understand how to recover any regulatory costs and benefits that might be associated with these operations. We also expect to gain more insight into this industry through the record associated with our Notice of Inquiry regarding commercial and other non-governmental ISAM activities.

3. Submarine Cable Regulatory Fees

40. We reject the Submarine Cable Coalition's request to revise the Commission's regulatory fee methodology for submarine cable operators, which is based upon the lit capacity of the fiber-optic submarine cable. We find that the Submarine Cable Coalition provides no persuasive argument that the Commission's assessment of these regulatory fees based on capacity is contrary to the Communications Act and is not reasonably related to the benefits provided. In the 2009 Submarine Cable Order, based on a consensus proposal made by a large number of submarine cable operators (Consensus Proposal), the Commission adopted a new methodology for assessing International Bearer Circuit (IBC) fees. Instead of assessing IBC fees based on 64 kbps circuits for all types of IBCs, the Commission began assessing regulatory fees for submarine cable operators on a per cable landing license basis, with higher fees for larger capacity submarine cable systems and lower fees for smaller capacity submarine cable systems. The Commission adopted a five-tier structure for assessing fees on submarine cables systems based on lit capacity. The Commission explained that it will define operational submarine cable systems as either “large” or “small” submarine cable systems based on the capacity of each system and the “small” systems will be further subdivided into additional subcategories. The Commission concluded that this methodology served the public interest and was competitively neutral because it included both common carrier and non-common carrier submarine cable operators. The Commission also explained that the methodology would be easier to administer and for submarine cable operators to comply with. The Commission further stated that a lower fee for licensees of smaller cable systems would mitigate concerns that a flat fee may create a barrier to entry for new entrants. In the FY 2020 Report and Order, the Commission found that lit capacity was an appropriate measure by which to assess IBC fees for submarine cables. Subsequently, in the FY 2021 Report and Order, the Commission adopted the same tiers for assessing fees on submarine cable operators for FY 2021 as in FY 2020, which are based on the lit capacity of the fiber-optic submarine cable.

41. The Submarine Cable Coalition reiterates in this proceeding the arguments rejected by the Commission in the FY 2020 and FY 2021 proceedings. The Submarine Cable Coalition contends that the “regulatory fee structure based upon cable system capacity is contrary to the mandate of the Communications Act, is overly burdensome, and is disconnected from the Commission's responsibilities for regulatory oversight of the submarine cable industry.” The Submarine Cable Coalition argues that our methodology “fails to take into consideration that the size of a system is not tied to the number of customers, nor the amount of revenue that it will generate.” According to the Submarine Cable Coalition, “[t]he location of the system, the existence of competing systems, market demands, whether the system is operated on a private basis, and various [other] system specific factors [make] the assessment of the claimed `benefits' by the Commission a highly nuanced and fact-specific endeavor.” The Submarine Cable Coalition further contends that “the Commission must continue to lower the burden on the submarine cable operators” and “[t]his continued large increase on the top end of the scale remains unjustified as the amount of regulatory work that is undertaken by the Commission regarding submarine cable regulatees is fixed—the procedures do not vary by the potential traffic the cable is able to carry, nor has that level of regulatory work increased by any significant metric in the preceding period.” Lumen, on the other hand, states that “capacity is a reasonable way to distinguish those submarine cable providers who benefit more from the Commission's activities from those who benefit less.” Lumen agrees that the fees for IBCs as a group, which includes submarine cable systems, should be reduced, but supports the Commission's longstanding practice of assessing fees based on capacity.

42. We disagree with the Submarine Cable Coalition's contention that the Commission's regulatory fee methodology is contrary to the Communications Act and that the Commission has not developed regulatory fees that are reasonably related to the benefits provided. The Commission has long held that capacity is a reasonable basis to assess regulatory costs among the submarine cable regulatees that benefit from the Commission's work. As the Commission has previously stated, the fee assessment on submarine cables covers the costs for regulatory activity concerning submarine cables as well as the services provided over the submarine cables. We find it reasonable to continue to assess higher regulatory fees on licensees with larger facilities that benefit more from the Commission's work and thus should pay a larger proportion of the Commission's costs. We agree with Lumen's assessment that the Commission's use of capacity to set fees for submarine cables satisfies the requirement of the statute. As Lumen further states, the statute “requires only that the Commission set fees `tak[ing] into account factors that are reasonably related to the benefits provided to the payor of the fee by the Commission's activities' ” and does not require “perfect alignment between fees and benefits.” We find there are no significant reasons in the record or changes in the marketplace to modify our regulatory fee framework for submarine cable systems.

43. Since FY 2009, when the Commission adopted the new methodology for assessing submarine cable fees, the level of lit capacity for submarine cable systems has increased and the Commission has expanded the different tiers to take into account this change and accommodate for this rapid growth in capacity. However, the basic methodology for calculating submarine cable fees based on capacity has not changed. Submarine cable fees are still calculated on the basis of “1” unit, “.5” units, “.25” units and so forth. Furthermore, we note that the regulatory fees for FY 2022 have been reduced from those assessed in FY 2021; the assessment per unit is now $137,715 compared to $151,910 in FY 2021. As discussed above, lit capacity remains a reasonable basis to apportion regulatory costs among the submarine cable regulatees that benefit from the Commission's work, and our fee methodology with respect to submarine cables continues to reasonably reflect the FTE costs for our regulatory activity concerning submarine cables as well as the services provided over the submarine cables. Accordingly, for FY 2022, we adopt the regulatory fees below for submarine cable systems.

Table 2—FY 2022 International Bearer Circuits—Submarine Cable Systems
Submarine cable systems (lit capacity as of December 31, 2021) | Fee ratio | FY 2022 regulatory fees
Less than 50 Gbps | .0625 Units | $8,610
50 Gbps or greater, but less than 250 Gbps | .125 Units | 17,215
250 Gbps or greater, but less than 1,500 Gbps | .25 Units | 34,430
1,500 Gbps or greater, but less than 3,500 Gbps | .5 Units | 68,860
3,500 Gbps or greater, but less than 6,500 Gbps | 1.0 Unit | 137,715
6,500 Gbps or greater | 2.0 Units | 275,430

C. Broadcaster Regulatory Fees for FY 2022

44. FY 2021 Broadband DATA Act. We decline to modify our methodology to continue to exempt broadcasters' from the costs associated with the Commission's broadband work. As part of our FY 2021 appropriation, Congress directed the Commission to assess and collect $374 million in regulatory fees, of which $33 million was specifically earmarked to be made available for implementing the Broadband DATA Act. Among other things, the Broadband DATA Act required the Commission to collect standardized, granular data on the availability and quality of both fixed and mobile broadband internet access services, to create a common dataset of all locations where fixed broadband internet access service can be installed (the Fabric), and to create publicly available coverage maps. As part of its collection of information, the Broadband DATA Act required the Commission to include uniform standards for the reporting of broadband internet access service data from “each provider of terrestrial fixed, fixed wireless, or satellite broadband internet access service.” The statute defines “broadband internet access service” to mean “the same meaning given the term in section 8.1(b) of title 47, Code of Federal Regulations, or any successor regulation.” That Commission rule, in turn, defines “broadband internet access service” as “a mass-market retail service by wire or radio that provides the capability to transmit data to and receive data from all or substantially all internet endpoints, including any capabilities that are incidental to and enable the operation of the communications service, but excluding dial-up internet access service” and this term “also encompasses any service that the Commission finds to be providing a functional equivalent of the service.” Congress recognized that specific Commission resources would be utilized in carrying out the requirements of the Broadband DATA Act. The Committee Report provides that “[t]he Committee provides significant funding for upfront costs associated with implementation of the Broadband DATA Act. The Committee anticipates funding related to the Broadband DATA Act will decline considerably in future years and expects the FCC to repurpose a significant amount of staff currently working on economic, wireline, and wireless issues to focus on broadband mapping.”

45. In the FY 2021 Report and Order, we adjusted the Commission's approach to assessing regulatory fees for broadcasters to account for the unusual circumstances accompanying the Broadband DATA Act earmark. In this limited instance, given the one-time nature and magnitude of the earmark, the statutory text, the legislative history, and the record in this proceeding, we excluded one group of regulatees—broadcasters or “Media Services” licensees—from part of their share of indirect costs. We concluded that, although we modified our methodology with respect to the $33 million earmark, this one-time modification was consistent with the Commission's longstanding goals of implementing a fair, sustainable, and administrable regulatory fee regime. The Commission therefore reduced broadcasters' regulatory fees by approximately 8.88% for FY 2021 and adopted a lower fee factor for full-service television broadcasters for FY 2021. In doing so, all other fee payors within the core bureaus, including cable, DBS, and IPTV providers regulated by the Media Bureau, had to absorb these indirect costs to ensure that the Commission collected the full annual appropriation.

46. NAB argues that the Commission should continue to exempt broadcasters from paying for the Commission's ongoing broadband data mapping work. In FY 2022, however, Congress did not provide an earmark for a particular purpose, and the accompanying direction regarding use of staff resources. Thus, the reason for the methodology change in FY 2021 is not present for FY 2022. We therefore decline to make this modification to our methodology for FY 2022. “Media Services” licensees will be assessed regulatory fees based on the current allocation FTE percentage calculated for FY 2022. NAB also mischaracterizes the Commission's modification in methodology in FY 2021 as a determination that broadcasters do not benefit from broadband related activities. Instead, the Commission recognized that the earmark was limited to a unique mapping task and Congress gave the Commission direction regarding the staff resources it anticipated would be used to carry out the discrete task, which did not include Media FTEs. The Commission did not make a finding that any group of regulatees do not benefit from broadband-related activities.

47. Commenters argue that broadcasters' regulatory fees have increased by approximately 13% from FY 2021 to FY 2022 with no explanation for such an increase by the Commission. This proposed increase of 12%-13% between FY 2021 and FY 2022 regulatory fee rates was due to the reduction in regulatory fee rates for broadcasters (AM, FM, TV, LPTV) due to the Broadband DATA Act earmark in FY 2021. As discussed below, however, these figures are no longer accurate due to a correction to our allocation of direct FTEs that were previously reassigned as indirect in 2017. That said, as we explained above, because the amount the Commission must collect in an offsetting collection changes each year, regulatory fees will typically change each year as a mathematical consequence of the change in amount to be collected in the current year, FTE allocations in the core bureaus, and projected unit estimates. Thus, any regulatory fee increases may not necessarily correlate to the Commission's overall increase in its appropriation for a fiscal year.

48. The NJBA contends that we should consider an across-the-board reduction of all fees for broadcasters given the “emerging technologies and the eloquent simplicity of regulating [the broadcast] industry, along with broadcasters' longstanding special place in the fabric of American society.” Specifically, the NJBA states that the broadcast industry has largely been governed by the market and enjoys a prolific and symbiotic relationship with the public and, unlike the other technologies competing for Commission resources, broadcasters do not charge their audiences ever-increasing user charges, subscription rates and fees for the services they provide. Commenters add that broadcasters have been particularly hard hit by the COVID-19 pandemic, with severe reductions in advertisement revenues. Similarly, NAB explains that broadcasters do not have a subscriber base to whom they can pass on costs and they are required to provide a free service to the public and are dependent on advertising revenues to cover their costs.

49. We recognize that many entities, including broadcasters, sustained economic losses during the COVID-19 pandemic. We also recognize the broadcasters do not have a subscriber base to whom they can pass through regulatory fees. However, we emphasize that we must collect the full FY 2022 appropriation and cannot exempt regulatees from regulatory fees unless they are expressly exempted under the statute. As CTIA observes, pursuant to section 9 of the Act, regulatory fees are based on the level of Commission staffing or staff activity undertaken by the relevant core bureaus; neither Commission policy objectives nor regulatee success in the marketplace are relevant factors in calculating regulatory fees and fulfilling the statutory charge of section 9 of the Act. Thus, we cannot reduce FY 2022 fees across-the-board for one category of fee payor; we cannot re-apportion the fees among categories based on, for example, relative ability to pay, and we cannot exempt regulatees based on their financial circumstances. As we indicated above, regulatory fees are a zero-sum situation. If the Commission freezes one set of regulatees' fees, it will need to increase another set of regulatees' fees to make up for any resulting shortfall, and in doing so, the Commission would be failing to base regulatory fees on FTEs as statutorily required. We therefore decline to make such changes, requested by NAB and others, based on policy considerations inconsistent with section 9 of the Act.

50. UHF/VHF Stations. We decline to adjust the Commission's treatment of VHF stations for purposes of assessing regulatory fees. NJBA observes that, while the Commission in 2014 determined that VHF TV stations had become “less desirable” than UHF stations, the proposed regulatory fee structure provides no acknowledgement of this nor any discount to VHF stations. NJBA contends that many UHF stations are paying less than VHF stations and that UHF stations can offer a variety of services that traditional VHF stations cannot offer (especially low band VHF stations). Therefore, NJBA states that it is more logical that with the ability to offer a wider array of services and thereby obtain greater revenues, UHF stations should be assessed greater regulatory fees commensurate with these additional avenues of revenue attainment that VHF stations that cannot secure.

51. The Commission previously discussed the treatment of VHF stations. Specifically, the Commission observed that, in the FY 2020 NPRM, it declined to categorically lower regulatory fees for VHF stations to account for signal limitations. The Commission concluded that there is nothing inherent in VHF transmission that creates signal deficiencies but that environmental noise issues can affect reception in certain areas and situations. As such, the Commission recognized that the Media Bureau had granted waivers to allow VHF stations that demonstrate signal disruptions to exceed the maximum power level specified for channels 2-6 in 73.622(f)(6) and for channels 7-13 in 73.622(f)(7)—and that it would not penalize such stations by assessing them at their higher power levels needed to overcome such interference but instead at the power levels authorized by our rules. As the Commission determined at that time, such an approach more narrowly targets the issue that NJBA complains about by ensuring that VHF broadcasters that actually experience increased interference can get the relief they need to reach consumers without sweeping other broadcasters into the mix.

52. Methodology for Full Service TV Regulatory Fees. We will continue to use the population-based methodology for full-service television broadcasters as proposed for FY 2022. In FY 2020, the Commission completed the transition to a population-based full-power broadcast television regulatory fee, finding it to be more equitable. As we stated in the FY 2022 NPRM, we do not reopen that decision relating to these regulatory fees being based on population at this time. In the FY 2022 NPRM, we sought comment on the use of population-based fees for full-power broadcast television stations based on the station's terrain-limited contour. We now adopt a factor of .84 of one cent ($.008430) per population served for FY 2022 full-power broadcast television station fees. The population data for each licensee and the population-based fee (population multiplied by the factor of $.008430) for each full-power broadcast television station, including each satellite station, is listed in Table 9. For those VHF stations whose power had to be increased to obtain a clearer signal, the Commission will continue to use a population count based on that station's lower VHF power level rather than at the increased power level.

53. NJBA disagrees with this methodology and contends that a population-based fee approach to assign regulatory fees is incongruent with how a station should be assessed fees in correlation to the revenue it achieves from its Nielsen DMA revenue share. NJBA argues that the DMA approach is a more accurate approach to assessing fees correlating with how stations derive revenue. NJBA's argument is that its members had relatively low revenues compared to major network stations in New York City. Essentially, NJBA appears to seek a waiver for its members of a portion of the regulatory fee based on its individual financial circumstances, i.e., advertising revenue, and we decline to grant this blanket request. Under our rules, parties can seek a waiver, reduction, or deferment on a case-by-case basis of the fee, interest charge, or penalty “in any specific instance for good cause shown, where such action would promote the public interest.”

54. NJBA also notes that the term Noise Limited Contour (NLSC) implies that it is the contour within which a perfect picture would appear at each television receiver. NJBA contends that this approach does not consider the effects on a signal that may result from the distance it may travel; the effects of terrain; building blockages which often occur in major city settings; and interference levels from co-channel and adjacent channel signals. NJBA's argument is that certain stations experience a high degree of interference from environmental noise and signal blockage from tall buildings near its transmitter. We recognize that in various parts of the country, broadcasters may face such interference or signal blockage issues; however, as we discussed in the FY 2020 Report and Order, adjudicating the circumstances of every station in the context of a cross-industrywide rulemaking would be administratively impractical, and the Commission's rule already provides a more appropriate venue for relief. We recognize that the population-based methodology increases fees for some licensees and reduces fees for others, but in the end the population-based metric better conforms with the actual service authorized here—broadcasting television to the American people. NJBA members can seek a waiver, reduction, or deferment on a case-by-case basis of the fee, interest charge, or penalty “in any specific instance for good cause shown, where such action would promote the public interest.”

D. De Minimis Threshold

55. We decline to increase the de minimis threshold amount above $1,000. Section 9(e)(2) of the Act permits the Commission to exempt a party from paying regulatory fees if “in the judgment of the Commission, the cost of collecting a regulatory fee established under this section from a party would exceed the amount collected from such party.” A regulatee's de minimis status is not a permanent exemption from regulatory fees. Rather, each regulatee will need to reevaluate annually to determine whether its total liability for annual regulatory fees falls at or below the de minimis threshold given any changes that the Commission may make in its regulatory fees each fiscal year. As we explained in the FY 2022 NPRM, the Commission's process for collecting delinquent regulatory fee debt involves a number of steps, including data compilation, preparation, and validation; invoicing; debt transfer for third party collection; responding to debtor questions and disputes; and processing payments. The Commission periodically calculates its collection costs for purposes of determining the de minimis threshold by estimating the number of FTE hours spent on each collection task times the value of FTE time expended on the task, to arrive at the estimated total cost of each task. The totals for each task are then added together to determine the total estimated cost of collection. The total estimated cost of collection divided by the estimated number of delinquent regulatory fee debts for that fiscal year yields the average cost of collecting an unpaid regulatory fee.

56. For FY 2019, the last year the Commission reviewed the de minimis threshold, the Commission concluded that its average cost of collection did not exceed $1,000 and, therefore, the $1,000 de minimis threshold was still appropriate. In the FY 2022 NPRM, we sought comment on NAB's proposal to increase the annual $1,000 de minimis threshold. We asked commenters advocating for a higher de minimis threshold to discuss how we should calculate our collection costs and the steps in the Commission's regulatory fee process that should be included in the calculation. For example, we asked whether the calculation should begin when the Commission collects data on a payor's regulatory fee status, prior to the regulatory fee due date, rather than when the regulatory fee becomes delinquent, as is our current practice, and whether the calculation should include the Commission's cost of processing waiver and installment payment requests.

57. NAB, SIA, and the State Broadcasters Associations support a review of the $1,000 de minimis threshold. SIA suggests that, in light of inflation and other economic changes since 2019 when the Commission last addressed the de minimis threshold, the Commission's cost of collecting regulatory fees may have increased. NAB and the State Broadcasters Associations support expanding the Commission's calculation of its regulatory fee collection costs to include the cost of collecting payor fee data, costs incurred prior to the regulatory fee due date and the cost of processing and resolving waiver and installment payment requests. Specifically, NAB, SIA, and Richards each suggest that an appropriate factor in setting the de minimis threshold is to provide a higher threshold of relief to smaller broadcasters. To that end, NAB proposes that the de minimis threshold be increased to $1,200 to ensure that radio broadcasters that were below the de minimis threshold last year, but facing higher FY 2022 regulatory fees, will still be exempt in FY 2022. Richards suggests increasing the de minimis threshold to $3,000 in order to exempt most AM and FM stations serving populations under 500,000, which are the stations Richards believes will be hardest hit by the increase in FY 2022 regulatory fees.

58. We acknowledge that the de minimis threshold has the collateral effect of providing financial relief to some regulatees. However, it does not follow from the wording of section 9(e)(2) of the Act that providing relief for financially strapped regulatees is a factor that can be considered in setting this threshold. Moreover, raising the threshold on such a basis would result in exempting classes or categories of fee payors in a manner contrary to the limited waiver provisions for regulatory fees. Nothing in the text of the statute supports using policy factors outside of the cost of collection in establishing the de minimis threshold. Thus, in response to commenters' request for a review of the de minimis threshold, we calculated the average cost of collecting FY 2021 regulatory fees and included the cost of collecting payor fee data and the cost of processing waiver and installment plan requests, as both NAB and the State Broadcasters Associations suggest. Even including the additional costs (without determining whether they are appropriately included in this calculation), the Commission's average cost of collection has not increased above the $1,000 de minimis threshold. Thus, we conclude that the cost of collecting regulatory fees, including the costs of collecting payor fee data and processing waiver and installment requests, does not justify an increase to the existing $1,000 de minimis threshold.

59. Both NAB and the State Broadcasters Associations suggest that the Commission define the “cost of collection” to encompass all annual costs of administering the regulatory fee program. While we agree with NAB that section 9(e)(2) of the Act does not provide a definition of costs of collection, we do not agree that the cost of collecting a regulatory fee should be expanded to include all of the Commission's costs of administering the regulatory fee program each year. We believe that a common sense interpretation of the language of section 9(e)(2) of the Act includes only those costs incurred by the Commission once the Commission has established that the annual fees are owed, which occurs when the Commission's regulatory fee Report and Order is released. In making this determination, we rely in part on the Debt Collection Improvement Act of 1996, as amended, 31 U.S.C. 3701 et seq. (DCIA), which governs the federal administrative debt collection process for most federal agencies, including the Commission. Under the DCIA, collection of debt begins after an agency has determined that the debt is due. Thus, we would here include costs once the regulatory fee becomes a debt, which occurs when the annual regulatory fee report and order is released. We therefore hold that the Commission's cost of collection for the purpose of establishing a de minimis threshold under section 9(e)(2) of the Act means collection costs incurred by the Commission after the Commission's regulatory fee Report and Order is released, including the costs the Commission incurs collecting payor fee data and processing waiver and installment plan requests.

E. Reclassification of FTEs

60. Universal Service Fund Activities. We decline, at this time, to reclassify certain indirect FTEs as direct FTEs for regulatory fee purposes. Nevertheless, we correct the manner in which we apportion the 38 previously reallocated core bureau FTEs in order to advance the overall implementation of our proportional methodology. In 2017, the Commission allocated as indirect, for regulatory fee purposes, 38 FTEs in the Wireline Competition Bureau who work on non-high cost programs of the Universal Service Fund. The Commission determined that changes in the Universal Service Fund regulatory landscape required it to reexamine whether the FTEs working on universal service issues as Wireline Competition Bureau direct FTEs should be reallocated as indirect. The FTE count was based on an analysis by the Office of Managing Director and Wireline Competition Bureau staff of the number of FTE hours dedicated to working on each of the Universal Service Fund programs. In the FY 2022 NPRM, we sought comment generally on whether prior reclassifications of FTEs from direct to indirect produce a more accurate regulatory fee assessment.

61. Initially, Universal Service Fund programs were focused on wireline services; however, as the Commission observed, by 2017, wireless carriers and broadband providers were also involved in the E-Rate, Lifeline, and Rural Healthcare programs. In addition, the E-Rate, Lifeline, and Rural Healthcare programs tie funding eligibility to the beneficiary, i.e., a school, a library, a low-income individual or family, or a rural health care provider, and not to Commission regulatees. The Commission observed that wireless carriers serve a substantial, if not majority, of Lifeline subscribers. Also, satellite operators, Wi-Fi network installers, and fiber builders can all receive funding through the E-Rate and Rural Health Care universal service programs. Similarly, Multichannel Video Programming Distributors (MVPDs) that also provide supported services, receive universal service funding because they provide telecommunications and broadband internet access services that are eligible for support in those programs. The Commission further noted that contributions to the Universal Service Fund are required from service providers using any technology that has end-user interstate telecommunications. Moreover, applicants in these programs are not regulatees, they are schools and libraries and health care providers; the bulk of the Commission's oversight and regulation of these programs (i.e., the Commission's FTE costs) are not generated by regulatees. The Commission therefore concluded that ITSPs were no longer the sole or even majority contributors or beneficiaries of these three programs. For these reasons, the Commission concluded that reallocating these Wireline Competition Bureau FTEs as indirect FTEs would also be more consistent with how FTEs working on Universal Service Fund issues were treated elsewhere in the Commission.

62. NAB contends that this reclassification of 38 FTEs is a wholesale abandonment of the statutory requirement that fees be adjusted to reflect benefits received by the payor by the Commission's activities. According to NAB, broadcasters have been unfairly forced to pay for a portion of the 38 FTEs in the Wireline Competition Bureau that the Commission determined were working on Universal Service Fund programs. NAB claims that, at a minimum, the Commission must ensure that broadcasters bear no responsibility for the 38 FTEs working on non-high cost USF programs in the Wireline Competition Bureau. NAB further argues that over the last five years broadcasters have likely paid more than $25 million in regulatory fees to support the activities of FTEs that, according to NAB, the Commission agrees do not benefit or regulate broadcasters.

63. We disagree that this example of 38 indirect FTEs who work on non-high cost Universal Service Fund issues was an improper assignment of FTEs under section 9 of the Act. Indirect FTEs work on issues that may include more than one regulated service or work on matters that are not related to services regulated by the Commission. All costs that are not directly related to regulation and oversight by the core bureaus must also be recovered by regulatory fees. This includes salaries and expenses, overhead functions, statutorily required tasks that do not directly equate with oversight and regulation of a particular regulatee but instead benefit the Commission and the industry as a whole, support costs such as rent, utilities, and equipment, and the costs incurred in regulating entities that are statutorily exempt from paying regulatory fees (i.e., governmental and nonprofit entities, amateur radio operators, and noncommercial radio and television stations), entities with total annual assessed fees below the de minimis threshold, and entities whose regulatory fees are waived. Indirect FTEs in the Commission devote their time to a large variety of issues, some of which may not directly affect every Commission regulatee, including broadcasters.

64. With that said, while we continue to find that the Commission was supported in its decision in 2017 to reassign the 38 FTEs in the Wireline Competition Bureau who work on non-high cost programs of the Universal Service Fund as indirect, we agree with broadcast commenters that the method for calculating the fees associated with these indirect FTEs should be corrected given the record in this proceeding, as well as the Commission's prior findings. The Commission has previously acknowledged, in 2016, that broadcasters receive no oversight, regulation, or other benefits of the nature we typically consider relevant for our regulatory fee analysis when looking at the activity of these indirect Universal Service Fund FTEs. Indeed, when the Commission reassigned these 38 non-high-cost Universal Service Fund FTEs in 2017, it dismissed the burden on broadcasters based on the general difficulty in precisely allocating every FTE without revisiting its 2016 acknowledgment. In short, despite these acknowledgments that broadcasters did not benefit from Universal Service Fund activities, the Commission failed to take appropriate measures to ensure that the proportional fee allocation methodology was not adversely impacted by the reassignment of the 38 non-high-cost FTEs. We remedy that today. While we adhere to the principle that our analysis here does not require scientific precision and need only be reasonable, in this instance, the record, the Commission's own prior findings, and our own review clearly substantiate the view that broadcasters do not benefit from these Universal Service Fund-related activities. Furthermore, we have prior experience implementing this type of change given our decision last year to exclude broadcasters from paying regulatory fees associated with the implementation of the Broadband DATA Act. We also note that Commission decisions to reallocate direct FTEs to indirect FTEs without also moving the FTEs into a non-core bureau or office are rare and are only warranted when unique circumstances support refinement of the Commission's general methodology for calculating regulatory fees. As such, we are not routinely faced with circumstances in which updates to our general methodology should be considered. While we acknowledge that other commenters in this proceeding have raised arguments about the Commission's allocation of indirect FTEs more generally, we find that the record currently before us is not sufficiently developed to support affording similar relief to other regulatory fee payors based upon indirect FTE areas of work at this time. However, we believe that these issues would benefit from additional comment, as set forth in the accompanying Notice of Inquiry.

65. Therefore, we will exclude “Media Services” licensees from recovery of the funds associated with the 38 indirect FTEs who work on non-high cost Universal Service Fund issues. We find that this correction to the manner in which we apportion the 38 previously reallocated core bureau FTEs is supported given the nature of this FTE reassignment; the weight of the record with respect to this issue; and the unusual position of broadcasters vis-à-vis other Commission regulatees in this instance. Furthermore, once implemented, this correction is easily repeatable each year, so long as the FTE reassignment remains warranted. In excluding “Media Services” licensees from the recovery of the funds associated with the 38 indirect FTEs who work on non-high cost Universal Service Fund issues, we recognize that all other fee payors within the core bureaus, including cable, DBS and IPTV providers regulated by the Media Bureau, will need to absorb these indirect costs because we are required by Congress to collection the full annual appropriation.

66. Office of Economics and Analytics. In FY 2019, the Commission reassigned staff from other bureaus and offices to establish the Office of Economics and Analytics (OEA), effective December 11, 2018. This resulted in the reassignment of 95 FTEs (of which 64 were not auctions-funded) as indirect FTEs. SIA contends that in any given year the rulemaking proceedings reviewed by OEA are not distributed across bureaus proportionally based on the number of direct FTEs and thus, the benefits from the work of OEA do not necessarily accrue proportionally to all payors. We note that all Commission-level drafts from core and non-core bureaus are reviewed by OEA, and OEA is also responsible for other economic-related activities that benefit the Commission. This function, assisting all bureaus and offices in the Commission with economic analysis, is appropriately considered indirect. CTIA observes that SIA's suggestion, that the Commission allocate OEA FTEs among certain core bureaus based on the type of rulemakings and other matters during a given year, would not proffer accurate FTE time allocations, and it would fail to reflect the wide variety of issues OEA reviews from non-core bureaus.

67. SIA also contends that a large portion of the FTE time in OEA involves auctions and is therefore outside the scope of International Bureau payors and International Bureau regulatees should not be responsible for this portion of indirect FTEs. As we have previously stated, all auctions expenses are separately funded and are not part of the Commission's annual S&E appropriation supported by regulatory fees. Pursuant to statute, the Commission recovers the costs of developing, implementing, and maintaining its section 309(j) spectrum auctions program as an offsetting collection against auction proceeds and subject to an annual cap which is articulated in the annual S&E appropriation. Thus, time devoted to developing and implementing auctions is tracked separately from other non-auctions work performed by FTEs, and is offset by the auction proceeds that the Commission is permitted to retain pursuant to section 309(j)(8) of the Act and the Commission's annual appropriation statute. For this reason, auctions FTEs are not included in the calculation of regulatory fees, and the Commission's methodology excludes all auctions-related FTEs and their overhead from the regulatory fee calculations. To the extent that FTE time within core bureaus is spent on auctions issues and on non-auctions issues, only the non-auctions portion is reflected in the core bureau's FTE count. Thus, only direct non-auctions FTE time is used in the calculation of the regulatory fee rate and consequently impact the overall regulatory fee calculations.

68. Further, SIA suggests that the Commission allocate the indirect FTEs in OEA's Auction Division to regulatory fee payors who benefit from auctions; and classify OEA's Associate Chief, Wireline, and Associate Chief, Media as direct FTEs allocated to Media and Wireline, respectively, and then divide the Associate Chief, Wireless and Spectrum indirect FTEs among the remaining core licensing bureaus. We reject this proposal. As an initial matter, we note that an FTE is a full-time equivalent, not an employee, and is based on the hours of work devoted to the regulation and oversight of the fee categories and not a particular job title. Further, the FTE time working on auctions issues is not included in our regulatory fee calculations and is funded separately. The OEA FTEs numbers attributed to non-auctions work derive from FTE levels in the Data Division, Economic Analysis Division, and Industry Analysis Division, as well as in OEA's Front Office. Staff in OEA review all Commission-level items, from all the Commission's bureaus and offices, including the International Bureau, as well as providing economic analysis to the Commission and drafting white papers. The FTEs in OEA provide economic and data analysis to the entire Commission and are appropriately allocated as indirect FTEs.

F. Commenters' Proposals for New Regulatory Fee Categories

69. In the Notice of Proposed Rulemaking attached to the FY 2021 Report and Order, the Commission sought comment on adopting new regulatory fee categories and on ways to improve our regulatory fee process regarding any and all categories of service. The Commission asked commenters supporting such new fees how to define any new fee category and how to calculate and assess such fees on an annual basis. In the FY 2022 NPRM, we sought additional comment on these issues. Commenters supporting new regulatory fee categories advocate such fees for holders of experimental licenses; broadband internet access service; holders of equipment authorizations; database administrators that charge fees to enable unlicensed operations; and entities using spectrum on an unlicensed basis, including large technology companies. As we discuss below, we reject these proposals to create these new regulatory fee categories. Given the record developed in response to the Notice of Proposed Rulemaking attached to the FY 2021 Report and Order and in response to the FY 2022 NPRM, we find that there is an insufficient basis for adding these new regulatory fee categories at this time.

1. Holders of Experimental Licenses

70. The Satellite Coalition and SIA propose that the Commission adopt a regulatory fee category for holders of experimental licenses and state that this would involve the same process used for other licensed entities: the Commission would calculate the number of FTEs engaged in experimental licensing activities to determine the percentage of the total regulatory fee revenue requirement associated with experimental licensees (including direct and indirect costs) and then divide that amount among experimental license holders. CTIA disagrees and observes that the FTEs in the Office of Engineering and Technology (OET) that work on experimental licenses are appropriately classified as indirect because their duties affect multiple core bureaus and their regulatees, including satellite regulatees authorized by the International Bureau. We are not convinced that an experimental license is the same as other Commission licenses and that it should be subject to a regulatory fee.

71. OET typically grants over 2,000 experimental licenses each year, including Special Temporary Authority (STA). Many commercial services and technologies deployed today were first tested under the experimental licensing program. Where such technologies result in new licensing frameworks or services, the resultant services usually are subject to regulatory fees. The experimental radio service permits broad experimentation, including assessing equipment intended to operate in existing Commission services, proof of concept testing and evaluation of new radio technologies, equipment designs, radio wave propagation characteristics, and service concepts related to the use of the radio spectrum. Thus, many experimental licenses are filed by universities, research and development companies, technology manufacturers, and medical institutions which often are non-profit entities.

72. The Commission issues a variety of experimental licenses that range in duration from a few days to six months for STAs, generally two years for conventional experimental licenses, five years for experimental program licenses, and 10 years for experimental licenses in spectrum bands above 95 GHz. There is no renewal process for STAs. Further, applicants seeking extension of conventional experimental licenses must include sufficient justification for continued experimentation; otherwise, such applicants are referred to the appropriate service bureau to seek a service license. If service rules for the applicable spectrum are needed, applicants may petition the Commission for rulemaking to modify allocations or service rules in such a way as to permit the tested technology to obtain a license to operate. Experimental licenses (except for above 95 GHz licenses) are not permitted to be used to offer commercial service. However, market trials are permitted under certain circumstances to allow applicants to evaluate product performance and customer acceptability prior to the production stage. Further, experimental licenses are issued on a limited, non-harmful interference basis for operation within a band in which (typically) regulatory fee payors enjoy primary or secondary use. Additionally, experimental licenses do not provide the holder with any vested spectrum use rights and the Commission can require licensees to discontinue experimental operations at any time without undertaking any further administrative process, such as an adjudication.

73. OET's experimental authorization processes thus are distinct from authorization processes applicable to other types of licenses and the regulated entities holding them, and essentially fall under OET's functions of evaluating evolving technology for interference potential, facilitating the introduction of nascent technologies, and maintaining the U.S. Table of Frequency Allocations. As such, in reviewing those applications, OET ensures that experimental uses will not interfere with the primary and secondary users in the relevant bands, who, unlike experimental license holders, do have spectrum rights associated with a license in an authorized service. Where the core bureaus regulate the regulatory fee payors, they also provide the benefit of protecting such primary and secondary uses of the spectrum. Thus, while Commission resources are expended on processing experimental applications, these licenses are approved for a proposed experiment or range of experiments, and not for an actual operational service under established service rules providing some level of interference protection. Experimental licensing is often an important option for academic researchers on restricted budgets who are developing new technological solutions. Therefore, imposing regulatory fees on these licensees potentially could stifle a Commission function and policy objective of promoting new, efficient technology by precluding some academic researchers or small start-up technology developers from developing and testing new technologies and systems. Moreover, experimental authorizations present challenges in determining a fair, administrable, and sustainable regulatory fee system. As a starting point, many experimental license applicants are exempt from regulatory fees under the statute. Additionally, given the transient nature of such authorizations, determining what operational period is sufficient to merit assessment of regulatory fees would require significant analysis. Given the varying types of experimental authorizations, and the limited authority granted, it is likely we would have to consider multiple regulatory fee categories and multiple ways of allocating proportional fees to such categories. Commenters have not provided any analysis of the experimental authorizations in the record to allow us to make such determinations here. Moreover, in addition to the exempt status of many applicants, it is likely we would find that many experimental authorizations, if subject to regulatory fees, do not result in any collection because the payor's total assessment falls under the de minimis threshold. Thus, we find that the record here is not sufficient for the Commission to establish a fair and administrable system for assessing regulatory fees for such experimental licenses.

74. Further, as we stated previously, OET provides engineering and technical expertise to the Commission as a whole and supports each of the agency's four core bureaus. FTEs within OET are appropriately classified as indirect because the FTE time devoted to OET work affects multiple core bureaus within the Commission and its regulatees. Because the experimental license typically is not used for a commercial service, and OET oversight helps to ensure that experimental licensees do not interfere with other (non-experimental) licensees, “it is consistent with the principles of section 9 of the Communications Act for other (non-experimental) licensees to pay the costs of OET's work on experimental licenses. OET's FTE work on experimental licenses already is captured under the Commission's current regulatory fee framework. Moreover, we find that the Satellite Coalition's and SIA's proposals for such a new fee category could discourage communications industry innovation, and thus undermine the rationale for the Experimental Radio Service. We therefore decline to adopt a new regulatory fee category for holders of experimental licenses.

2. Broadband Internet Access Service

75. We also decline to create a new regulatory fee category for broadband internet access services at this time. There is no specific bureau or office in the Commission with oversight of all broadband services, because these oversight activities are spread out among all core bureaus, and broadband issues are a part of a variety of Commission initiatives and proceedings. NAB and Satellite Coalition argue that the Commission should expand the base of regulatory fee categories to include a broadband internet access service fee category to which the Commission should allocate all broadband-related costs.

76. Specifically, NAB contends that the Commission should revise its methodology to reallocate broadband costs among only those fee payors that benefit from the Commission's broadband activities. NAB argues that requiring broadcasters to pay for these costs is unfair since broadcasters do not benefit from the Commission's broadband activities. NAB suggests that the Commission modify its existing information collection systems to obtain the data necessary to assess regulatory fees on either a subscription or revenue basis. NAB contends that broadband internet access service providers began submitting data, including subscription counts, in the annual Broadband Data Collection and that the Commission could use this information to assess fees on a per-subscriber basis. NAB further proposes that we place this regulatory fee category within the Wireline Competition Bureau and reallocate FTEs that work primarily on broadband related issues in the other core and noncore bureaus and offices of the Commission to this fee category, to the extent necessary.

77. In the FY 2021 Report and Order, in addressing the assessment of regulatory fees to cover the costs of implementation of the Broadband DATA Act as part of the Commission's FY 2021 appropriation, we specifically stated that we do not have sufficient information to form the basis of designating a new broadband regulatory fee category. We indicated the information that we do not presently possess but that would be important in designating a new regulatory fee category and determining the unit measure within a fee category would include the amount of broadband internet access services offered by entities that also provide services subject to existing regulatory fees and by entities that provide broadband internet access services that are not currently subject to regulatory fees. Commenters still have not provided us with this information or identified Commission regulatory efforts involving FTEs specific to this industry segment to support a separate regulatory fee category for this service.

78. Further, we are unconvinced that a broadband internet access service regulatory fee category is necessary or that such a category appropriately belongs in the Wireline Competition Bureau. Broadband internet access services are offered through various technical means and by widely differing entities and to distinct user groups, e.g., wireless service providers, wireline service providers (including VoIP), cable operators, and satellite operators, to consumers and businesses, on both a retail and a wholesale basis. This service is not only offered by different types of providers, but is also delivered to end users in different ways. Commenters have not shown that a particular group of FTEs within the Commission is providing oversight and regulation for broadband internet access services and that other parties (besides these broadband internet access service providers) are responsible for all of the regulatory fees associated with those FTEs. It appears that the contrary is true: broadband internet access services are involved in many Commission initiatives and proceedings and such services are offered by service providers regulated by all the core bureaus and already responsible for regulatory fees. Therefore, to include this proposed regulatory fee category under the Wireline Competition Bureau, as suggested by NAB, would increase the Wireline Competition Bureau's regulatory fee contribution based on time spent not only by staff in the Wireline Competition Bureau on broadband matters, but by staff in the other offices and bureaus within the Commission.

79. The Satellite Coalition, in arguing that the Commission adopt a broadband internet access service regulatory fee category, contends that the Commission has already calculated that 550 FTEs across a wide variety of offices and bureaus work on the Commission's broadband policy as part of its Strategic Goal to bring affordable, high-speed broadband to 100% of the country. We do not agree with Satellite Coalition's contention that the 2022 Strategic Goals apply to assessing regulatory fees. The Commission's Strategic Goals do not pertain to any specific regulatory fee category, but rather are developed and used as part of planning exercises mandated by a wholly unrelated statutory scheme. As we indicated above, such strategic goals are intended to align with higher level priority goals of the overall federal government. Thus, staff support of a specific strategic goal is not a sound rationale for adopting a new regulatory fee category.

80. Additionally, NAB argues that broadening the base of regulatory fee payors to include broadband internet access service providers would ensure a more fair and sustainable regulatory fee system. However, NAB's proposal does not establish a sufficient basis for the creation of such a category and that a broadband internet access services regulatory fee category, if adopted, would be fair, administrable, or sustainable for the reasons elaborated above. As NCTA notes, the Commission has taken historic actions to discount broadband internet access service for those who cannot afford it and now would not be the time to unravel that work by adopting a new set of regulatory fees that would increase the cost-burden of these services. We also are not persuaded that such a new regulatory fee category, if adopted, would reduce broadcasters' regulatory fees. Given the various uncertainties, we find it unlikely that adding a new fee category for broadband internet access service would make a significant difference in the broadcasters' regulatory fees. The total amount we collect from each core bureau is based on the number of non-auctions FTEs in each bureau, and adding a new broadband internet access fee category or categories would not change the number of Media Bureau FTEs working on broadcast issues. Moreover, as indicated above, broadband internet access services are a part of many Commission initiatives and proceedings and such services are offered by service providers regulated by all the core bureaus (and these providers already pay regulatory fees on their regulated services). For these reasons, particularly due to the lack of information in the record to support the need for adoption of such a new regulatory fee category, we are not creating a new fee category for broadband internet access services at this time. Specifically, we find that section 9 of the Act does not require creation of this category and commenters have not shown, on the basis of the record in this proceeding, that such a category would satisfy the factors that the Commission has relied on when it has found a basis to create a new regulatory fee category.

3. Holders of Equipment Authorizations

81. We decline to adopt the Satellite Coalition's proposal that the Commission adopt a regulatory fee category for holders of equipment authorizations. Satellite Coalition argues that the costs associated with equipment authorizations can be assessed on equipment manufacturers that benefit from Commission staff who implement policies designed to ensure compliance with relevant regulatory standards. We find, however, that OET FTE time on equipment authorizations is appropriately classified as indirect because such work affects multiple core bureaus and their regulatees, including satellite regulatees authorized by the International Bureau. OET provides engineering and technical expertise to the Commission as a whole and supports each of the four core bureaus. Notably, part of OET's role is to participate in matters “not within the jurisdiction of any single bureau” or “affecting more than one bureau,” similar to other offices with indirect FTEs such as the Office of General Counsel and the Office of Economics and Analytics. Some of OET's duties and responsibilities that affect multiple core bureaus and their regulatees include maintaining the U.S. Table of Frequency Allocations; managing the Experimental Licensing and Equipment Authorization programs; regulating the operation of devices; and conducting engineering and technical studies. The matters handled by OET benefit the Commission's work as a whole as well as all service sectors to which the Commission's core bureaus devote FTE resources.

82. The equipment authorization program is one of the principal ways the Commission ensures that radio frequency devices operate effectively without causing harmful interference and otherwise comply with the Commission's rules. The Commission's equipment authorization program promotes efficient use of the radio spectrum and addresses various responsibilities associated with certain treaties and international regulations, while ensuring that radio frequency (RF) devices in the United States comply with the Commission's technical requirements before they can be marketed in or imported to the United States. As a general matter, for an RF device to be marketed or operated in the United States, it must have been authorized for use by the Commission, although a limited number of categories of RF equipment are exempt from this requirement. The Commission's equipment authorization program provides for two pathways: certification and supplier's declaration of conformity (SDoC). Applicants for equipment certification are required to file their applications, which must include certain specified information, with an FCC-recognized Telecommunications Certification Body (TCB). The Commission, through its Office of Engineering and Technology (OET), oversees the certification process, and provides guidance to applicants, TCBs, and test labs with regard to required testing and other information associated with certification procedures and processes, including guidance provided via correspondence or found in pre-approval guidance or OET's knowledge database system (KDB). The SDoC procedures, which are available for specific equipment generally considered to have reduced potential to cause RF interference, provide for equipment to be authorized based on the responsible party's self-declaration that the equipment complies with the pertinent Commission requirements. Because the SDoC process is based on self-declaration, there is no direct oversight of that process by OET staff. As we noted in the FY 2021 Report and Order, OET FTE resources for equipment authorizations are typically limited to overseeing the equipment authorization program.

83. Because there are multiple categories of equipment authorization procedures, including exemption and self-authorization, the implementation of regulatory fees assessed to holders of equipment authorizations presents challenges in determining a fair, administrable, and sustainable fee system.. Additionally, equipment authorization generally applies to the functionality of a particular device, not the production of each unit (i.e., an entity needs to complete the equipment authorization process only once for a device regardless of how many units of such devices are produced). Thus, unlike licenses, equipment authorizations are obtained once and are not subject to validity for a defined time period. Further, the equipment authorization procedures that are applicable to RF devices permitted to be imported or marketed into the U.S. do not require the Commission to collect information from or communicate directly with the manufacturer of every device. Commenters have not provided sufficient analysis in the record to allow us to determine a fair, administrable, and sustainable regulatory fee system for the holders of equipment authorization. For these reasons, we find that the OET FTEs are appropriately categorized as indirect and we reject the proposal to adopt a new fee category for holders of equipment authorizations.

4. Operators of Databases of Spectrum Used on an Unlicensed Basis

84. We also decline to adopt the Satellite Coalition's proposal that the Commission adopt a new regulatory fee category for database operators that charge fees to enable unlicensed use of certain frequency bands. The Satellite Coalition asserts that these operators benefit from Commission rulemakings that enable them to administer unlicensed use of spectrum, and thus, that they should contribute their share to the Commission's budget. It argues that pursuant to the RAY BAUM'S Act we are no longer limited to looking at FTEs in core bureaus when determining regulatory fees. The Wi-Fi Alliance disagrees and contends that the proposal to impose fees on operators of databases would impede use of 6 GHz spectrum, which in many cases will require access to an automated frequency coordination operator and its database.

85. As we have previously discussed, pursuant to section 9 of the Act, regulatory fees are to be derived by determining “the full-time equivalent number of employees within the bureaus and offices of the Commission, adjusted to take into account factors that are reasonably related to the benefits provided to the payor of the fee by the Commission's activities.” Specifically, section 9 of the Act directs the Commission to consider “factors that are reasonably related to the benefits provided to the payor of the fee by the Commission's activities.” The Commission's FTE activities for these database operators includes the establishment of database rules and ensuring that database administrators have the technical expertise to develop and operate the relevant databases. After a database is set up, Commission involvement with the operator is generally sporadic. The function of the databases is to prevent harmful interference from occurring to incumbent licensed operations by unlicensed use of certain frequency bands thereby enabling the more efficient use of radio spectrum. The services provided by operators of databases are essentially available to any user of the relevant frequency bands on an unlicensed basis. We note that users of those databases pay operators to access the databases, and are required to use such databases to prevent harmful interference to other users. The Commission often recognizes multiple database administrators. In those cases, users can patronize any database administrator and there is no guarantee how much, if any, coordination a particular database administrator will undertake and, thus, no guarantee that a database administrator will even receive benefits from its relationship with the Commission.

86. Moreover, the suggestion that we create a regulatory fee category for only these database administrators ignores the fact that, under the Commission's rules, there are a variety of database administrators and spectrum coordinators (e.g., television white space devices, 6 GHz devices, and fixed, personal/portable, and mobile devices). Thus, focusing only on database administrators enabling the use of spectrum on an unlicensed basis would result in indirectly assessed regulatory fees on certain users of spectrum on an unlicensed basis. As explained below, we decline to create a regulatory fee category for users of spectrum on an unlicensed basis, either directly or indirectly.

87. Further, the Commission's FTE activities related to operators of databases of spectrum on an unlicensed basis benefit a wide variety of industry segments, both licensed and unlicensed, and is consistent with the treatment of these FTEs, which work primarily in the Office of Engineering and Technology, as indirect. Thus, we do not find that there are sufficient benefits (i.e., FTE work in oversight or regulation) provided each fiscal year to these database operators by the Commission's activities of such a magnitude that it warrants creation of a regulatory fee category for database operators at this time. We acknowledge that in establishing the regime that allows for such database operators to support Commission licensees, FTE time is devoted to adopting a regulatory regime that allows for the database operators to perform a such functions. This is, however, generally a one-time effort and it would arbitrary to assess fees year after year based on such one-time efforts. We therefore decline to adopt a new regulatory fee category for operators of these databases.

5. Users of Spectrum on an Unlicensed Basis

88. We decline to adopt NAB's proposal to adopt a new regulatory fee category for users of spectrum on an unlicensed basis, including large technology companies. Commenters generally oppose NAB's proposal. The Wi-Fi Alliance states that there is no basis for creating a new fee category to include, directly or indirectly, users of spectrum on an unlicensed basis, and doing so would not be fair, administrable, or sustainable. Other commenters also oppose the proposal to adopt a regulatory fee category for the use of spectrum on an unlicensed basis. NCTA observes that no commenter has even clarified who they think falls into the fee category, let alone presented any type of proposal or detailed explanation of how the Commission might assess such fees.

89. NAB has not provided a sufficient basis, consistent with section 9 of the Act, for the adoption of a new regulatory fee category for users of spectrum on an unlicensed basis. The Commission has adopted new fee categories based in part on the benefits to the payor, i.e., FTE work in oversight and regulation, on several occasions. In those instances, the Commission determined that significant FTE resources of a core bureau were being spent on oversight and regulatory activities with respect to a specific service necessitating a new regulatory fee category. Those circumstances are not present here. As noted above, FTEs in OET, which is responsible for oversight and regulation of spectrum used on an unlicensed basis, have historically been classified as “indirect” FTEs because OET's work benefits the Commission and the industry as a whole and is not specifically focused on the regulatees and licensees of a core bureau. Even when we consider only FTE time working on oversight and regulation of spectrum used on an unlicensed basis and devices capable of operating wholly or in part on such spectrum, the treatment of such costs as indirect is appropriate. Many devices, including those operating wholly or in part on an unlicensed basis, are exempt from equipment authorization requirements. Moreover, devices that are not exempt are tested by third party labs and, if certification is required, certified by Telecommunications Certification Bodies. As such, OET's oversight requires only a portion of FTE resources, thus supporting our continued treatment of such costs as part of overall OET indirect costs, as opposed to segregable direct costs, and the Commission's current regulatory framework does not include an easy way to distinguish devices that operate on an unlicensed (as opposed to licensed) basis.

90. In interpreting and applying section 9 of the Act, the Commission has developed a framework to ensure that the resulting fee category fee schedules are fair, administrable, and sustainable. Thus, in evaluating new regulatory fee categories, we consider if assertion of our authority would be fair, administrable, and sustainable while examining any “benefit” provided to the payor by the Commission's FTE activities in oversight and regulation. On the basis of the record developed here, we find that NAB's proposal for a new fee category for users of spectrum on an unlicensed basis does not satisfy these factors.

91. The Commission has explained that a regulatory fee category is unfair if it combines either uses or users that are too different from one another. The Commission bases regulatory fee categories on services or facilities used. Use of spectrum on an unlicensed basis is nearly ubiquitous in modern-day society, and confers widespread benefits. Because of the large variety of uses of spectrum on an unlicensed basis, including for non-communications purposes, there is no specific user, service, or facility using this spectrum that could form the basis for a regulatory fee category of similar services. Entities use spectrum on an unlicensed basis in a variety of ways, including healthcare, security systems, thermostats, alarm systems, baby monitors, fitness trackers, home appliances, garage door openers, cordless phones, in-vehicle rear seat passenger detection systems, wireless power transfer, law enforcement radars, microwave ovens, Wi-Fi networks, Bluetooth speakers, Internet of Things (IoT) industrial networks, and other consumer devices. Chip makers, component makers, device makers, device users, internet providers, content providers, mobile network operators, vendors, enterprise users, and consumers all use spectrum on an unlicensed basis in various ways and such users include individuals, state and local governments, corporations, non-profit organizations, schools, libraries, and other groups. The variety of users and spectrum bands used on an unlicensed basis creates a broad group of potential payors. Moreover, the Commission itself does not distinguish between these numerous and expanding uses of spectrum on an unlicensed basis in its regulations. Thus, grouping all users of spectrum on an unlicensed basis together, including devices such as baby monitors, garage door openers, field disturbance sensors, medical imaging systems, cordless phones, Wi-Fi networks, Bluetooth speakers, Internet of Things (IoT) industrial networks, and consumer devices would not result in a fair or rational way to assess regulatory fees.

92. Second, we find that such a fee for users of spectrum on an unlicensed basis would be virtually impossible to define or administer, based on the record developed in this proceeding. To adopt a fee on the use of spectrum on an unlicensed basis would be imposing a fee on billions of devices related to a wide variety of applications and industries, a base which continually grows and evolves over time. As commenters observe, because of the large variety of uses of spectrum on an unlicensed basis, it is difficult to determine who would be responsible for paying such regulatory fees as the Commission has no way of identifying the owner and user of the unlicensed devices using this spectrum, and there is no specific service with which to form a regulatory fee category of similar services. We find that the variety of uses of spectrum on an unlicensed basis creates such a broad group of potential payors as to render it virtually meaningless to attempt to identify them because it would be hard to find a consumer or a business that does not use spectrum on an unlicensed basis nearly every day. As the Wi-Fi Alliance observes, imposing new regulatory fees on users of spectrum on an unlicensed basis could affect an unreasonably wide range of entities and individuals, including consumers.

93. With such a large group of users of spectrum on an unlicensed basis, adopting a new regulatory fee category for these users would be the equivalent of asking every industry and consumer to pay this fee, resulting in a regulatory fee scheme far more extensive than our current regulatory fee system and would reach all households and businesses. Such a fee would be logistically infeasible to collect, at least on the basis of this record.

94. NAB argues that users of spectrum on an unlicensed basis place a significant ongoing burden on Commission resources in furtherance of their businesses because the Commission will be involved in amending and monitoring the spectrum use process, responding to requests from the innovation economy to use spectrum in new ways and for new technologies, and enforcing its rules, not only to prevent interference to licensed users, but to ensure the end user can actually use the devices and products. We are not convinced that the mere fact that FTE time involved in oversight and regulation of such spectrum use is a sufficient reason to adopt a new regulatory fee category. As discussed above, there is no particular service, industry, or other discrete group of potential regulatory fee payors for the use of spectrum on an unlicensed basis, because essentially all consumers and manufacturers have devices that use spectrum on an unlicensed basis. Moreover, the Commission previously has observed that regulatees rely on consistency of treatment in regulatory fees from year to year and thus the Commission has hesitated to make changes which would result in rapid shifts in regulatory fees. We therefore find that, in this instance, creating such categories does not serve the Commission's goal of having an administrable framework.

95. Additionally, a regulatory fee category related to use of spectrum on an unlicensed basis, assessed on devices, if adopted, would not be sustainable for the same reasons elaborated above. Ever-changing technology results in increased use of spectrum on an unlicensed basis over time and the Commission would have to continually re-assess this regulatory fee category to ensure that it is being implemented in a fair and equitable manner among all regulatory fee payors. With respect to the logistics of imposing an annual regulatory fee on users of devices capable of using spectrum on an unlicensed basis, it is unclear whether and how device manufacturers or distributors would be responsible for paying such a fee. The Commission establishes rules for and administers the equipment authorization program to ensure that RF devices used in the United States operate effectively without causing harmful interference and otherwise comply with the Commission's rules. However, under the current equipment authorization regime, the Commission does not collect information from or communicate with all device manufacturers because, many devices only require SDoC s or are exempt from authorization because they pose a limited potential of causing harmful interference. Further, the Commission has no reasonable means by which to comprehensively identify each and every individual user of RF devices on an unlicensed basis. Thus, it would be nearly impossible for the Commission to annually assess and collect the regulatory fees each year in a fair and sustainable manner consistent with section 9 of the Communications Act.

96. Finally, NAB contends that the Commission cannot continue to place the burden of paying for use of spectrum on an unlicensed basis on broadcasters who are forced to compete with some of the world's largest technology companies unencumbered by regulatory fee burdens in the name of administrative simplicity. Some “Big Tech” companies are a subset of the users of spectrum on an unlicensed basis. Thus, our above reasons for declining to adopt a regulatory fee category for users of spectrum on an unlicensed basis apply equally to any such “Big Tech” companies on the sole basis of being users of spectrum on an unlicensed basis, as proposed by commenters.

97. Further, we decline to create a new regulatory fee category for the use of spectrum on an unlicensed basis premised on competitive considerations in the advertising industry. We have described above the record evidence demonstrating the broad and varied universe of users of spectrum on an unlicensed basis. There is no evidence in the record of any discernable and practicable overlap between the universe of users of spectrum on an unlicensed basis and the advertising industry, and commenters do not explain how the Commission separately regulates or expends FTE resources on those that might be competing with broadcasters for advertising revenues. Thus, competition for advertising revenues is not a sufficient basis for creating a new regulatory fee category under section 9 of the Act. Accordingly, as we discussed above, we find that a new regulatory fee category for users of spectrum on an unlicensed basis, on the basis of the instant record, is not statutorily required and would be inconsistent with section 9 of the Act and the Commission's precedent thereunder, and we decline to adopt such regulatory fee categories at this time. We recognize the value in encouraging the development and innovation of technologies and decline to take such unprecedented action without a sufficient basis for making this change to the regulatory fee schedule.

G. Advancing Diversity, Equity, Inclusion, and Accessibility

98. In the FY 2022 NPRM, we sought comment on how our proposals may promote or inhibit advances in diversity, equity, inclusion, and accessibility, as well the scope of the Commission's relevant legal authority. NCTA raises some concerns that establishing new regulatory fee categories for users of spectrum on an unlicensed basis or on broadband internet access services could interfere with the Commission's efforts to advance diversity, equity, inclusivity, and accessibility. NCTA also asserts that establishing these new regulatory fee categories will frustrate the Commission's efforts to encourage the creation of innovative technologies and foster diversity in ownership of communications facilities and services. While we recognize the concerns raised by NCTA, we emphasize that such diversity and equity considerations do not impact our methodology for establishing regulatory fee rates. Such considerations do not allow the Commission to shift fees from one party of fee payors to another nor to raise fees for any purpose other than as an offsetting collection in the amount of our annual S&E appropriation, consistent with the requirements of section 9 of the Act. Moreover, because we decline to adopt these new regulatory fee categories proposed by commenters in this item, for reasons previously discussed in prior sections, we need not address the concerns raised by NTCA in this proceeding.

H. Flexibility for Regulatory Payors Due to COVID-19 Pandemic

99. In 2020 and 2021, we provided relief to regulatees experiencing financial hardship caused or exacerbated by the COVID-19 pandemic. In light of the ongoing pandemic and the likely continuing economic effect on certain Commission regulatees, we find good cause exists to provide again the following temporary relief measures for FY 2022. We anticipate that many regulatees will avail themselves of these measures, as they did in FY 2020 and FY 2021, and that implementing the measures will provide needed relief to those regulatees. First, we waive the requirement under section 1.1166 of the Commission's rules that regulatees seeking waiver (or reduction) and deferral of their regulatory fees on financial grounds related to the pandemic file separate pleadings for each form of relief sought. Instead, regulatees may combine their requests for relief in a single pleading. Second, we waive the paper filing requirement under section 1.1166 and instruct regulatees to instead file their requests electronically, to regfeerelief@fcc.gov. Third, parties seeking to pay their regulatory fees over time may submit their installment payment requests to regfeerelief@fcc.gov, and combine their installment payment requests with requests for waiver, reduction and deferral, in a single pleading. Fourth, OMD will continue to exercise its delegated authority to partially waive section 1.1910 of the Commission's rules (i.e., the red-light rule) to allow regulatees on red light and experiencing financial hardship to nonetheless request waiver, reduction, deferral, and/or installment payment of their FY 2022 regulatory fees. In doing so, we maintain the requirement that such regulatees resolve all delinquent debt they owe to the Commission in advance of the Commission's decision on their relief requests. Fifth, OMD will continue to use its existing authority to reduce the interest rate normally charged on installment payment of regulatory fee debt owed to the Commission to a nominal rate and forgo the down payment normally required to grant installment payment requests. Finally, we partially waive the requirement that fee payors submit all documentation supporting a request for waiver, deferral or reduction of regulatory fees at the same time the underlying request is submitted. This allows fee payors to provide supplemental documents if requested by OMD as necessary to render decisions on regulatees' requests for relief. We direct the Managing Director to release one or more public notices describing in more detail the relief we have described herein.

100. We remind regulatees that we cannot relax the standard for granting a waiver or deferral of fees, penalties, or other charges for late payment of regulatory fees under section 9A of the Act. Under the statute, the Commission may only waive a regulatory fee, penalty, or interest charge if it finds there is good cause for the waiver and that the waiver is in the public interest. The Commission has only granted financial hardship waivers when the requesting party has shown it “lacks sufficient funds to pay the regulatory fees and to maintain its service to the public.” Other statutory limitations include that the Commission must act on waiver requests individually, and cannot extend the deadline we set for payment of fees beyond September 30.

III. Procedural Matters

101. Included below are procedural items as well as our current payment and collection methods.

102. Credit Card Transaction Levels. In accordance with Treasury Financial Manual, Volume I, Part 5, Chapter 7000, Section 7055.20—Transaction Maximums, the highest amount that can be charged on a credit card for transactions with federal agencies is $24,999.99. Transactions greater than $24,999.99 will be rejected. This limit applies to single payments or bundled payments of more than one bill. Multiple transactions to a single agency in one day may be aggregated and treated as a single transaction subject to the $24,999.99 limit. Customers who wish to pay an amount greater than $24,999.99 should consider available electronic alternatives such as Visa or MasterCard debit cards, ACH debits from a bank account, and wire transfers. Each of these payment options is available after filing regulatory fee information in the CORES system. Further details will be provided regarding payment methods and procedures at the time of FY 2022 regulatory fee collection in Fact Sheets, https://www.fcc.gov/regfees.

103. Payment Methods. During the fee season for collecting regulatory fees, regulatees can pay their fees by credit card through Pay.gov, ACH, debit card, or by wire transfer. Additional payment instructions are posted on the Commission's website at http://transition.fcc.gov/fees/regfees.html. The receiving bank for all wire payments is the U.S. Treasury, New York, NY (TREAS NYC). Any other form of payment (e.g., checks, cashier's checks, or money orders) will be rejected. For payments by wire, an FCC Form 159-E should still be transmitted via fax so that the Commission can associate the wire payment with the correct regulatory fee information. The fax should be sent to the Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at http://transition.fcc.gov/fees/wiretran.html.

104. De Minimis Regulatory Fees, Section 9(e)(2) Exemption. Under the de minimis rule, and pursuant to our analysis under section 9(e)(2) of the Act, a regulatee is exempt from paying regulatory fees if the sum total of all of its annual regulatory fee liabilities is $1,000 or less for the fiscal year. The de minimis threshold applies only to filers of annual regulatory fees, not regulatory fees paid through multi-year filings, and it is not a permanent exemption. Each regulatee will need to reevaluate the total annual fee liability each fiscal year to determine whether it meets the de minimis exemption.

105. Standard Fee Calculations and Payment Dates. The Commission will accept fee payments made in advance of the window for the payment of regulatory fees. The responsibility for payment of fees by service category is as follows:

• Media Services: Regulatory fees must be paid for initial construction permits that were granted on or before October 1, 2021 for AM/FM radio stations and VHF/UHF broadcast television stations. Regulatory fees must be paid for all broadcast facility licenses granted on or before October 1, 2021.

• Wireline (Common Carrier) Services: Regulatory fees must be paid for authorizations that were granted on or before October 1, 2021. In instances where a permit or license is transferred or assigned after October 1, 2021, responsibility for payment rests with the holder of the permit or license as of the fee due date. Audio bridging service providers are included in this category. For Responsible Organizations (RespOrgs) that manage Toll Free Numbers (TFN), regulatory fees should be paid on all working, assigned, and reserved toll free numbers as well as toll free numbers in any other status as defined in section 52.103 of the Commission's rules. The unit count should be based on toll free numbers managed by RespOrgs on or about December 31, 2021.

• Wireless Services: CMRS cellular, mobile, and messaging services (fees based on number of subscribers or telephone number count): Regulatory fees must be paid for authorizations that were granted on or before October 1, 2021. The number of subscribers, units, or telephone numbers on December 31, 2021 will be used as the basis from which to calculate the fee payment. In instances where a permit or license is transferred or assigned after October 1, 2021, responsibility for payment rests with the holder of the permit or license as of the fee due date.

• Wireless Services, Multi-year fees: The first seven regulatory fee categories in our Schedule of Regulatory Fees pay “small multi-year wireless regulatory fees.” Entities pay these regulatory fees in advance for the entire amount period covered by the ten-year terms of their initial licenses, and pay regulatory fees again only when the license is renewed, or a new license is obtained. We include these fee categories in our rulemaking to publicize our estimates of the number of “small multi-year wireless” licenses that will be renewed or newly obtained in FY 2022.

• Multichannel Video Programming Distributor Services (cable television operators, CARS licensees, DBS, and IPTV): Regulatory fees must be paid for the number of basic cable television subscribers as of December 31, 2021. Regulatory fees also must be paid for CARS licenses that were granted on or before October 1, 2021. In instances where a permit or license is transferred or assigned after October 1, 2021, responsibility for payment rests with the holder of the permit or license as of the fee due date. For providers of DBS service and IPTV-based MVPDs, regulatory fees should be paid based on a subscriber count on or about December 31, 2021. In instances where a permit or license is transferred or assigned after October 1, 2021, responsibility for payment rests with the holder of the permit or license as of the fee due date.

• International Services (Earth Stations and Space Stations): Regulatory fees must be paid for (1) earth stations, (2) geostationary orbit space stations and non-geostationary orbit satellite systems, and 3) small satellite space stations that were licensed and operational on or before October 1, 2021. In instances where a permit or license is transferred or assigned after October 1, 2021, responsibility for payment rests with the holder of the permit or license as of the fee due date.

• International Services (Submarine Cable Systems, Terrestrial and Satellite Services): Regulatory fees for submarine cable systems are to be paid on a per cable landing license basis based on lit circuit capacity as of December 31, 2021. Regulatory fees for terrestrial and satellite IBCs are to be paid based on active (used or leased) international bearer circuits as of December 31, 2021 in any terrestrial or satellite transmission facility for the provision of service to an end user or resale carrier. When calculating the number of such active circuits, entities must include circuits used by themselves or their affiliates. For these purposes, “active circuits” include backup and redundant circuits as of December 31, 2021. Whether circuits are used specifically for voice or data is not relevant for purposes of determining that they are active circuits. In instances where a permit or license is transferred or assigned after October 1, 2021, responsibility for payment rests with the holder of the permit or license as of the fee due date.

106. Commercial Mobile Radio Service (CMRS) and Mobile Services Assessments. The Commission compiled data from the Numbering Resource Utilization Forecast (NRUF) report that is based on “assigned” telephone number (subscriber) counts that have been adjusted for porting to net Type 0 ports (“in” and “out”). We have included non-geographic numbers in the calculation of the number of subscribers for each CMRS provider in Table 4 and the CMRS regulatory fee rate. CMRS provider regulatory fees are calculated and should be paid based on the inclusion of non-geographic numbers. CMRS providers can adjust the total number of subscribers, if needed. This information of telephone numbers (subscriber count) will be posted on the Commission's electronic filing and payment system (Fee Filer).

107. A carrier wishing to revise its telephone number (subscriber) count can do so by accessing Fee Filer and follow the prompts to revise their telephone number counts. Any revisions to the telephone number counts should be accompanied by an explanation or supporting documentation. The Commission will then review the revised count and supporting documentation and either approve or disapprove the submission in Fee Filer. If the submission is disapproved, the Commission will contact the provider to afford the provider an opportunity to discuss its revised subscriber count and/or provide additional supporting documentation. If we receive no response from the provider, or we do not reverse our initial disapproval of the provider's revised count submission, the fee payment must be based on the number of subscribers listed initially in Fee Filer. Once the timeframe for revision has passed, the telephone number counts are final and are the basis upon which CMRS regulatory fees are to be paid. Providers can view their final telephone counts online in Fee Filer. A final CMRS assessment letter will not be mailed out.

108. Because some carriers do not file the NRUF report, they may not see their telephone number counts in Fee Filer. In these instances, the carriers should compute their fee payment using the standard methodology that is currently in place for CMRS Wireless services (i.e., compute their telephone number counts as of December 31, 2020), and submit their fee payment accordingly. Whether a carrier reviews its telephone number counts in Fee Filer or not, the Commission reserves the right to audit the number of telephone numbers for which regulatory fees are paid. In the event that the Commission determines that the number of telephone numbers that are paid is inaccurate, the Commission will bill the carrier for the difference between what was paid and what should have been paid.

109. Effective Date. Providing a 30-day period after Federal Register publication before this Report and Order becomes effective as normally required by 5 U.S.C. 553(d) will not allow sufficient time to collect the FY 2022 fees before FY 2022 ends on September 30, 2022. For this reason, pursuant to 5 U.S.C. 553(d)(3), we find there is good cause to waive the requirements of section 553(d), and this Report and Order will become effective upon publication in the Federal Register. Because payments of the regulatory fees will not actually be due until late September, persons affected by the Report and Order will still have a reasonable period in which to make their payments and thereby comply with the rules established herein.

IV. List of Tables

Table 3—List of Commenters
Name of commenter | Abbreviated name | Date filed
Alabama Broadcasters Association, Alaska Broadcasters Association, Arizona Broadcasters Association, Arkansas Broadcasters Association, California Broadcasters Association, Colorado Broadcasters Association, Connecticut Broadcasters Association, Florida Association of Broadcasters, Georgia Association of Broadcasters, Hawaii Association of Broadcasters, Idaho State Broadcasters Association, Illinois Broadcasters Association, Indiana Broadcasters Association, Iowa Broadcasters Association, Kansas Association of Broadcasters, Kentucky Broadcasters Association, Louisiana Association of Broadcasters, Maine Association of Broadcasters, MD/DC/DE Broadcasters Association, Massachusetts Broadcasters Association, Michigan Association of Broadcasters, Minnesota Broadcasters Association, Mississippi Association of Broadcasters, Missouri Broadcasters Association, Montana Broadcasters Association, Nebraska Broadcasters Association, Nevada Broadcasters Association, New Hampshire Association of Broadcasters, New Jersey Broadcasters Association, New Mexico Broadcasters Association, The New York State Broadcasters Association, Inc., North Carolina Association of Broadcasters, North Dakota Broadcasters Association, Ohio Association of Broadcasters, Oklahoma Association of Broadcasters, Oregon Association of Broadcasters, Pennsylvania Association of Broadcasters, Radio Broadcasters Association of Puerto Rico, Rhode Island Broadcasters Association, South Carolina Broadcasters Association, South Dakota Broadcasters Association, Tennessee Association of Broadcasters, Texas Association of Broadcasters, Utah Broadcasters Association, Vermont Association of Broadcasters, Virginia Association of Broadcasters, Washington State Association of Broadcasters, West Virginia Broadcasters Association, Wisconsin Broadcasters Association, and Wyoming Association of Broadcasters | State Broadcasters Associations | 7/5/22
Cable & Wireless Networks; GlobeNet Cabos Submarinos Americas, Inc.; GU Holdings, Inc. (wholly-owned subsidiary of Google LLC); Hawaiki Submarine Cable USA LLC; SETAR; Tata Communications (Americas), Inc | Submarine Cable Coalition | 7/5/22
Computer & Communications Industry Association (CCIA); Digital Media Association (DiMA), INCOMPAS, and Internet Association | INCOMPAS, CCIA, and DiMA | 7/5/22
K. M. Richards | Richards | 6/6/22
National Association of Broadcasters | NAB | 7/5/22
New Jersey Broadcasters Association | NJBA | 7/5/22
Orbital Sidekick, Inc | OSK | 7/5/22
O3b Limited; SES Americom, Inc.; Telesat Canada; and WorldVu Satellites Limited d/b/a OneWeb | Satellite Coalition | 7/5/22
Satellite Industry Association | SIA | 7/5/22
Spaceflight, Inc | Spaceflight | 7/5/22
Reply Comments
AGM California, Inc.; AGM Nevada, LLC; Alabama Media, LLC; Brayden Madison Broadcasting, L.L.C.; Coxswain Media, LLC; Davis Broadcasting Inc. of Columbus; Equity Communications, LP; Florida Keys Media, LLC; Galaxy Syracuse Licensee LLC; Galaxy Utica Licensee LLC; Golden Isles Broadcasting; Gulf South Radio, Inc.; Heh Communications, LLC; Holladay Broadcasting of Louisiana, LLC; Inland Empire Broadcasting Corp.; Jam Communications, Inc.; Kensington Digital Media, L.L.C.; Kensington Digial Media Of Indiana, L.L.C.; KLAX Licensing, Inc.; KLOS Radio Holdings, LLC; KPWR Radio Holdings, LLC; KRZZ Licensing, Inc.; KWHY-22 Broadcasting, LLC; KXOL Licensing, Inc.; KXOS Radio Holdings, LLC; L.M. Communications, Inc.; L.M. Communications of Kentucky, LLC; L.M. Communications of South Carolina, Inc.; Meridian Media Group, LLC; Meruelo Radio Holdings, LLC; Mississippi Broadcasters, LLC; New South Radio, Inc.; Partnership Radio, L.L.C.; Pathfinder Communications Corporation; QBS Broadcasting, LLC; Sarkes Tarzian, Inc.; SBR Broadcasting Corporation; Serge Martin Enterprises, Inc.; Spanish Broadcasting System Holding Company, Inc.; Talking Stick Communications, L.L.C.; WCMQ Licensing, Inc.; Winton Road Broadcasting Co., LLC; WKLC, Inc.; WLEY Licensing, Inc.; WMEG Licensing, Inc.; WPAT Licensing, Inc.; WPYO Licensing, Inc.; WRMA Licensing, Inc.; WRXD Licensing, Inc.; WSBS Licensing, Inc.; WSKQ Licensing, Inc.; WSUN Licensing, Inc.; WXDJ Licensing, Inc | Joint Broadcasters | 7/18/22
American Lighting Association, Association of Equipment Manufacturers, Association of Home Appliance Manufacturers, National Electrical Manufacturers Association, North American Association of Food Equipment Manufacturers, Outdoor Power Equipment Institute, Plumbing Manufacturers International, Power Tool Institute, and Wi-SUN Alliance | Joint Manufacturers | 7/18/22
Astroscale U.S | Astroscale | 7/18/22
CTIA—The Wireless Association® | CTIA | 7/18/22
Lumen | Lumen | 7/18/22
Maxar Technologies Inc.; Amazon Web Services, Inc.; Planet Labs PBC; BlackSky Global LLC; Care Weather Technologies, Inc.; Hedron Space Inc.; HawkEye 360, Inc.; Spire Global Inc.; Astro Digital US, Inc.; Umbra Lab, Inc.; and Loft Orbital Solutions Inc | EESS Coalition | 7/18/22
National Association of Broadcasters | NAB | 7/18/22
National Religious Broadcasters | NRB | 7/13/22
NCTA—The Internet & Television Association | NCTA | 7/18/22
O3b Limited; SES Americom, Inc.; Telesat Canada; and WorldVu Satellites Limited d/b/a OneWeb | Satellite Coalition | 7/18/22
Satellite Industry Association | SIA | 7/18/22
Spaceflight, Inc | Spaceflight | 7/18/22
TechFreedom | TechFreedom | 7/18/22
Turion Space Corp | Turion | 7/18/22
Wi-Fi Alliance® | Wi-Fi Alliance | 7/18/22
WISPA—Broadband Without Boundaries | WISPA | 7/18/22

Ex Partes
Name or abbreviated name of Filer | Ex Parte filing | Date filed
NAB | Letter from Rick Kaplan, Chief Legal Officer and Executive Vice President, NAB, to Marlene H. Dortch, Secretary, FCC | 7/27/22
NAB | Letter from Rick Kaplan, Chief Legal Officer and Executive Vice President, NAB, to Marlene H. Dortch, Secretary, FCC | 7/28/22
OneWeb, SES, and Telesat | Letter from Karis A. Hastings, SatCom Law, LLC, to Marlene H. Dortch, Secretary, FCC | 8/5/22
OneWeb, SES, and Telesat | Letter from Karis A. Hastings, SatCom Law, LLC, to Marlene H. Dortch, Secretary, FCC | 8/8/22
NAB | Letter from Rick Kaplan, Chief Legal Officer and Executive Vice President, NAB, to Marlene H. Dortch, Secretary, FCC | 8/9/22
Telesat | Letter from Elisabeth Neasmith, Director, Telesat, to Marlene H. Dortch, Secretary, FCC | 8/12/22
East Arkansas Broadcasters | Letter from Bobby Caldwell, CEO, East Arkansas Broadcasters, to Marlene H. Dortch, Secretary, FCC | 8/12/22
WNRP (AM) | Letter from David E. Hoxeng, Owner, WNRP (AM), to Marlene H. Dortch, Secretary, FCC | 8/12/22
State Broadcasters Associations | Letter from Lauren Lynch Flick, attorney for the State Broadcasters Associations, to Marlene H. Dortch, Secretary, FCC | 8/12/22
Wheeler Broadcasting | Letter from Leonard Wheeler, President, Wheeler Broadcasting, to Marlene H. Dortch, Secretary, FCC | 8/15/22
South Seas Broadcasting and Delta Radio | Letter from Larry Fuss, owner, South Seas Broadcasting and Delta Radio, to Marlene H. Dortch, Secretary, FCC | 8/15/22
State Broadcasters Associations | Letter from Lauren Lynch Flick, attorney for the State Broadcasters Associations, to Marlene H. Dortch, Secretary, FCC | 8/15/22
State Broadcasters Associations | Letter from Lauren Lynch Flick, attorney for the State Broadcasters Associations, to Marlene H. Dortch, Secretary, FCC | 8/15/22
NAB | Letter from Rick Kaplan, Chief Legal Officer and Executive Vice President, NAB, to Marlene H. Dortch, Secretary, FCC | 8/15/22
Bryan Broadcasting | Letter from Ben Downs, Vice President and General Manager, Bryan Broadcasting, to Marlene H. Dortch, Secretary, FCC | 8/15/22
Bustos Media | Letter from Amador S. Bustos, President, Bustos Media Holdings, LLC, to Marlene H. Dortch, Secretary, FCC | 8/18/22
Kaspar Broadcasting | Letter from Russ Kaspar, President, Kaspar Broadcasting Co., Inc. to Marlene H. Dortch, Secretary, FCC | 8/18/22
State Broadcasters Associations | Letter from Lauren Lynch Flick, attorney for the State Broadcasters Associations, to Marlene H. Dortch, Secretary, FCC | 8/19/22
Cromwell Radio | Letter from Bayard H. Walters, President, Cromwell Group, Inc., to Jessica Rosenworcel, Chairwoman, FCC | 8/22/22
Mountain Top Media | Letter from Cindy May Johnson, President, Mountain Top Media, LLC, to Marlene H. Dortch, Secretary, FCC | 8/22/22

Table 4—Calculation of FY 2022 Revenue Requirements and Pro-Rata Fees
[Regulatory fees for the categories shaded in gray are collected by the Commission in advance to cover the term of the license and are submitted at the time the application is filed.]
Fee category | FY 2022 payment units | Yrs | FY 2021 revenue estimate | Pro-rated FY 2022 revenue requirement | Computed FY 2022 regulatory fee | Rounded FY 2022 reg. fee | Expected FY 2022 revenue
PLMRS (Exclusive Use) | 750 | 10 | 75,000 | 187,500 | 25.00 | 25 | 187,500
PLMRS (Shared use) | 12,500 | 10 | 990,000 | 1,250,000 | 10.00 | 10 | 1,250,000
Microwave | 18,000 | 10 | 4,750,000 | 4,500,000 | 25.00 | 25 | 4,500,000
Marine (Ship) | 6,900 | 10 | 922,500 | 1,035,000 | 15.00 | 15 | 1,035,000
Aviation (Aircraft) | 4,200 | 10 | 390,000 | 420,000 | 10.00 | 10 | 420,000
Marine (Coast) | 210 | 10 | 16,000 | 84,000 | 40.00 | 40 | 84,000
Aviation (Ground) | 350 | 10 | 110,000 | 70,000 | 20.00 | 20 | 70,000
AM Class A ¹ | 62 | 1 | 290,745 | 316,755 | 5,109 | 5,110 | 316,820
AM Class B ¹ | 1,443 | 1 | 3,610,880 | 3,930,011 | 2,724 | 2,725 | 3,932,175
AM Class C ¹ | 825 | 1 | 1,291,125 | 1,407,030 | 1,706 | 1,705 | 1,406,625
AM Class D ¹ | 1,421 | 1 | 4,267,835 | 4,648,721 | 3,271 | 3,270 | 4,646,670
FM Classes A, B1 and C3 ¹ | 3,125 | 1 | 8,886,395 | 9,804,141 | 3,137 | 3,135 | 9,796,875
FM Classes B, C, C0, C1 and C2 ¹ | 3,137 | 1 | 11,100,080 | 12,005,143 | 3,827 | 3,825 | 11,999,025
AM Construction Permits ² | 5 | 1 | 3,660 | 3,275 | 655 | 655 | 3,275
FM Construction Permits ² | 16 | 1 | 58,850 | 18,320 | 1,145 | 1,145 | 18,320
Digital Television ⁵ (including Satellite TV) | 3.283 billion population | 1 | 25,416,380 | 27,674,061 | .0084303 | .008430 | 27,673,145
Digital TV Construction Permits ² | 4 | 1 | 20,400 | 20,800 | 5,199 | 5,200 | 20,800
LPTV/Class A/Translators FM Trans/Boosters | 5,466 | 1 | 1,649,920 | 1,799,713 | 329.3 | 330 | 1,803,780
CARS Stations | 135 | 1 | 233,250 | 231,341 | 1,714 | 1,715 | 231,525
Cable TV Systems, including IPTV and DBS | 66,500,000 | 1 | 76,244,000 | 76,851,478 | 1.1557 | 1.16 | 77,140,000
Interstate Telecommunication Service Providers | $27,700,000,000 | 1 | 120,400,000 | 125,327,520 | 0.004524 | 0.00452 | 125,204,000
Toll Free Numbers | 34,700,000 | 1 | 4,020,000 | 4,306,310 | 0.12410 | 0.12 | 4,164,000
CMRS Mobile Services (Cellular/Public Mobile) | 535,000,000 | 1 | 75,600,000 | 73,140,629 | 0.1367 | 0.14 | 74,900,000
CMRS Messaging Services | 1,500,000 | 1 | 136,000 | 120,000 | 0.0800 | 0.080 | 120,000
BRS ³ | 1,225 | 1 | 756,250 | 722,750 | 590 | 590 | 722,750
LMDS | 350 | 1 | 206,910 | 206,500 | 590 | 590 | 206,500
Per Gbps circuit Int'l Bearer Circuits. Terrestrial (Common and Non-Common) and Satellite (Common and Non-Common) | 12,000 | 1 | 468,700 | 467,047 | 38.92 | 39 | 468,000
Submarine Cable Providers (See chart at bottom of Appendix C) ⁴ | 64.438 | 1 | 8,839,554 | 8,873,891 | 137,713 | 137,715 | 8,874,010
Earth Stations | 2,900 | 1 | 1,785,000 | 1,798,221 | 620.1 | 620 | 1,798,000
Space Stations (Geostationary) | 139 | 1 | 17,177,685 | 17,244,609 | 124,062 | 124,060 | 17,244,340
Space Stations (Non-Geostationary, Other) | 10 | 1 | 3,435,550 | 3,400,062 | 340,006 | 340,005 | 3,400,050
Space Stations (Non-Geostationary, Less Complex) | 6 | 1 | 858,865 | 850,015 | 141,669 | 141,670 | 850,020
Space Stations (Non-Geostationary, Small Satellite) | 5 | 1 | 0 | 61,075 | 12,215 | 12,215 | 61,075
****** Total Estimated Revenue to be Collected |  |  | 373,920,077 | 384,066,626 |  |  | 384,549,196
****** Total Revenue Requirement |  |  | 374,000,000 | 381,950,000 |  |  | 381,950,000
Difference |  |  | (79,923) | 2,116,626 |  |  | 2,599,196
Notes on Table 2
¹ The fee amounts listed in the column entitled “Rounded New FY 2022 Regulatory Fee” constitute a weighted average broadcast regulatory fee by class of service. The actual FY 2022 regulatory fees for AM/FM radio station are listed on a grid located at the end of Table 3.
² The AM and FM Construction Permit revenues and the Digital (VHF/UHF) Construction Permit revenues were adjusted, respectively, to set the regulatory fee to an amount no higher than the lowest licensed fee for that class of service. Reductions in the Digital (VHF/UHF) Construction Permit revenues, and in the AM and FM Construction Permit revenues, were offset by increases in the revenue totals for Digital television stations by market size, and in the AM and FM radio stations by class size and population served, respectively.
³ The MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, para. 6 (2004).
⁴ The chart at the end of Table 3 lists the submarine cable bearer circuit regulatory fees (common and non-common carrier basis) that resulted from the adoption of the Assessment and Collection of Regulatory Fees for Fiscal Year 2008, Report and Order and Further Notice of Proposed Rulemaking, 24 FCC Rcd 6388 (2008) and Assessment and Collection of Regulatory Fees for Fiscal Year 2008, Second Report and Order, 24 FCC Rcd 4208 (2009). The Submarine Cable fee in Table 2 is a weighted average of the various fee payers in the chart at the end of Table 3.
⁵ The actual digital television regulatory fees to be paid by call sign are identified in Table 7.

Table 5—FY 2022 Schedule of Regulatory Fees
[Regulatory fees for the categories shaded in gray are collected by the Commission in advance to cover the term of the license and are submitted at the time the application is filed.]
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) (Includes Non-Geographic telephone numbers) | .14.
CMRS Messaging Services (per unit) (47 CFR parts 20, 22, 24 and 90) | .08.
Broadband Radio Service (formerly MMDS/MDS) (per license) (47 CFR part 27) | 590.
Local Multipoint Distribution Service (per call sign) (47 CFR, part 101) | 590.
AM Radio Construction Permits | 655.
FM Radio Construction Permits | 1,145.
AM and FM Broadcast Radio Station Fees | See Table Below.
Digital TV (47 CFR part 73) VHF and UHF Commercial Fee Factor | $.008430. See Appendix G for fee amounts due, also available at https://www.fcc.gov/licensing-databases/fees/regulatory-fees.
Digital TV Construction Permits | 5,200.
Low Power TV, Class A TV, TV/FM Translators and FM Boosters (47 CFR part 74) | 330.
CARS (47 CFR part 78) | 1,715.
Cable Television Systems (per subscriber) (47 CFR part 76), Including IPTV and Direct Broadcast Satellite (DBS) | 1.16.
Interstate Telecommunication Service Providers (per revenue dollar) | .00452.
Toll Free (per toll free subscriber) (47 CFR section 52.101 (f) of the rules) | .12.
Earth Stations (47 CFR part 25) | 620.
Space Stations (per operational station in geostationary orbit) (47 CFR part 25) also includes DBS Service (per operational station) (47 CFR part 100) | 124,060.
Space Stations (per operational system in non-geostationary orbit) (47 CFR part 25) (Other) | 340,005.
Space Stations (per operational system in non-geostationary orbit) (47 CFR part 25) (Less Complex) | 141,670.
Space Stations (per license/call sign in non-geostationary orbit) (47 CFR part 25) (Small Satellite) | 12,215.
International Bearer Circuits—Terrestrial/Satellites (per Gbps circuit) | 39.
Submarine Cable Landing Licenses Fee (per cable system) | See Table Below.

FY 2022 Radio Station Regulatory Fees
Population served | AM Class A | AM Class B | AM Class C | AM Class D | FM Classes A, B1 & C3 | FM Classes B, C, C0, C1 & C2
<=25,000 | $1,050 | $755 | $655 | $720 | $1,145 | $1,310
25,001-75,000 | 1,575 | 1,135 | 985 | 1,080 | 1,720 | 1,965
75,001-150,000 | 2,365 | 1,700 | 1,475 | 1,620 | 2,575 | 2,950
150,001-500,000 | 3,550 | 2,550 | 2,215 | 2,435 | 3,870 | 4,430
500,001-1,200,000 | 5,315 | 3,820 | 3,315 | 3,645 | 5,795 | 6,630
1,200,001-3,000,000 | 7,980 | 5,740 | 4,980 | 5,470 | 8,700 | 9,955
3,000,001-6,000,000 | 11,960 | 8,600 | 7,460 | 8,200 | 13,040 | 14,920
>6,000,000 | 17,945 | 12,905 | 11,195 | 12,305 | 19,570 | 22,390

FY 2022 International Bearer Circuits—Submarine Cable Systems
Submarine cable systems (capacity as of December 31, 2021) | Fee ratio | FY 2022 Regulatory fees
Less than 50 Gbps | .0625 Units | $8,610
50 Gbps or greater, but less than 250 Gbps | .125 Units | 17,215
250 Gbps or greater, but less than 1,500 Gbps | .25 Units | 34,430
1,500 Gbps or greater, but less than 3,500 Gbps | .5 Units | 68,860
3,500 Gbps or greater, but less than 6,500 Gbps | 1.0 Unit | 137,715
6,500 Gbps or greater | 2.0 Units | 275,430

Table 6—Sources of Payment Unit Estimates for FY 2022

In order to calculate individual service fees for FY 2022, we adjusted FY 2021 payment units for each service to more accurately reflect expected FY 2022 payment liabilities. We obtained our updated estimates through a variety of means and sources. For example, we used Commission licensee data bases, actual prior year payment records and industry and trade association projections, where available. The databases we consulted include our Universal Licensing System (ULS), International Bureau Filing System (IBFS), Consolidated Database System (CDBS), Licensing and Management System (LMS) and Cable Operations and Licensing System (COALS), as well as reports generated within the Commission such as the Wireless Telecommunications Bureau's Numbering Resource Utilization Forecast. Regulatory fee payment units are not all the same for all fee categories. For most fee categories, the term “units” reflect licenses or permits that have been issued, but for other fee categories, the term “units” reflect quantities such as subscribers, population counts, circuit counts, telephone numbers, and revenues. As more current data is received after the Notice of Proposed Rulemaking (NPRM) is released, the Commission sometimes adjusts the NPRM fee rates to reflect the new information in the Report and Order. This is intended to make sure that the fee rates in the Report and Order reflect more recent and accurate information.

We sought verification for these estimates from multiple sources and, in all cases, we compared FY 2022 estimates with actual FY 2021 payment units to ensure that our revised estimates were reasonable. Where appropriate, we adjusted and/or rounded our final estimates to take into consideration the fact that certain variables that impact on the number of payment units cannot yet be estimated with sufficient accuracy. These include an unknown number of waivers and/or exemptions that may occur in FY 2022 and the fact that, in many services, the number of actual licensees or station operators fluctuates from time to time due to economic, technical, or other reasons. When we note, for example, that our estimated FY 2022 payment units are based on FY 2021 actual payment units, it does not necessarily mean that our FY 2022 projection is exactly the same number as in FY 2021. We have either rounded the FY 2022 number or adjusted it slightly to account for these variables.

Fee category | Sources of payment unit estimates
Land Mobile (All), Microwave, Marine (Ship and Coast), Aviation (Aircraft and Ground), Domestic Public Fixed | Based on Wireless Telecommunications Bureau (WTB) projections of new applications and renewals taking into consideration existing Commission licensee data bases. Aviation (Aircraft) and Marine (Ship) estimates have been adjusted to take into consideration the licensing of portions of these services on a voluntary basis.
CMRS Cellular/Mobile Services | Based on WTB projection reports, and FY 2021 payment data.
CMRS Messaging Services | Based on WTB reports, and FY 2021 payment data.
AM/FM Radio Stations | Based on CDBS data, adjusted for exemptions, and actual FY 2021 payment units.
Digital TV Stations (Combined VHF/UHF units) | Based on LMS data, fee rate adjusted for exemptions, and population figures are calculated based on individual station parameters.
AM/FM/TV Construction Permits | Based on CDBS data, adjusted for exemptions, and actual FY 2021 payment units.
LPTV, Translators and Boosters, Class A Television | Based on LMS data, adjusted for exemptions, and actual FY 2021 payment units.
BRS (formerly MDS/MMDS)LMDS | Based on WTB reports and actual FY 2021 payment units. Based on WTB reports and actual FY 2021 payment units.
Cable Television Relay Service (CARS) Stations | Based on data from Media Bureau's COALS database and actual FY 2021 payment units.
Cable Television System Subscribers, Including IPTV Subscribers | Based on publicly available data sources for estimated subscriber counts, trend information from past payment data, and actual FY 2021 payment units.
Interstate Telecommunication Service Providers | Based on FCC Form 499-A worksheets due in April 2022, and any data assistance provided by the Wireline Competition Bureau.
Earth Stations | Based on International Bureau licensing data and actual FY 2021 payment units.
Space Stations (GSOs and NGSOs) | Based on International Bureau data reports and actual FY 2021 payment units.
International Bearer Circuits | Based on assistance provided by the International Bureau, any data submissions by licensees, adjusted as necessary, and actual FY 2021 payment units.
Submarine Cable Licenses | Based on International Bureau license information, and actual FY 2021 payment units.

Table 7—Factors, Measurements, and Calculations That Determine Station Signal Contours and Associated Population Coverages

AM Stations

For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @ 1 km) for the antenna system. The standard, or augmented standard if pertinent, horizontal plane radiation pattern was calculated using techniques and methods specified in sections 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2010 block centroids were contained in the polygon. (A block centroid is the center point of a small area containing population as computed by the U.S. Census Bureau.) The sum of the population figures for all enclosed blocks represents the total population for the predicted principal community coverage area.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials. The resulting distance to principal community contours were used to form a geographical polygon. Population counting was accomplished by determining which 2010 block centroids were contained in the polygon. The sum of the population figures for all enclosed blocks represents the total population for the predicted principal community coverage area.

Table 8—Satellite Charts for FY 2022 Regulatory Fees
[U.S.-licensed space stations]
Licensee | Call sign | Satellite name | Type
DIRECTV Enterprises, LLC | S2922 | SKY-B1 | GSO.
DIRECTV Enterprises, LLC | S2640 | DIRECTV T11 | GSO.
DIRECTV Enterprises, LLC | S2711 | DIRECTV RB-1 | GSO.
DIRECTV Enterprises, LLC | S2632 | DIRECTV T8 | GSO.
DIRECTV Enterprises, LLC | S2669 | DIRECTV T9S | GSO.
DIRECTV Enterprises, LLC | S2641 | DIRECTV T10 | GSO.
DIRECTV Enterprises, LLC | S2797 | DIRECTV T12 | GSO.
DIRECTV Enterprises, LLC | S2930 | DIRECTV T15 | GSO.
DIRECTV Enterprises, LLC | S2673 | DIRECTV T5 | GSO.
DIRECTV Enterprises, LLC | S2133 | SPACEWAY 2 | GSO.
DIRECTV Enterprises, LLC | S3039 | DIRECTV T16 | GSO.
DISH Operating L.L.C | S2931 | ECHOSTAR 18 | GSO.
DISH Operating L.L.C | S2738 | ECHOSTAR 11 | GSO.
DISH Operating L.L.C | S2694 | ECHOSTAR 10 | GSO.
DISH Operating L.L.C | S2740 | ECHOSTAR 7 | GSO.
DISH Operating L.L.C | S2790 | ECHOSTAR 14 | GSO.
EchoStar Satellite Operating Corporation | S2811 | ECHOSTAR 15 | GSO.
EchoStar Satellite Operating Corporation | S2844 | ECHOSTAR 16 | GSO.
EchoStar Satellite Services L.L.C | S2179 | ECHOSTAR 9 | GSO.
ES 172 LLC | S2610 | EUTELSAT 174A | GSO.
ES 172 LLC | S3021 | EUTELSAT 172B | GSO.
Horizon-3 Satellite LLC | S2947 | HORIZONS-3e | GSO.
Hughes Network Systems, LLC | S2663 | SPACEWAY 3 | GSO.
Hughes Network Systems, LLC | S2834 | ECHOSTAR 19 | GSO.
Hughes Network Systems, LLC | S2753 | ECHOSTAR XVII | GSO.
Intelsat License LLC/ViaSat, Inc | S2160 | GALAXY 28 | GSO.
Intelsat License LLC, Debtor-in-Possession | S2414 | INTELSAT 10-02 | GSO.
Intelsat License LLC, Debtor-in-Possession | S2972 | INTELSAT 37e | GSO.
Intelsat License LLC, Debtor-in-Possession | S2854 | NSS-7 | GSO.
Intelsat License LLC, Debtor-in-Possession | S2409 | INELSAT 905 | GSO.
Intelsat License LLC, Debtor-in-Possession | S2405 | INTELSAT 901 | GSO.
Intelsat License LLC, Debtor-in-Possession | S2408 | INTELSAT 904 | GSO.
Intelsat License LLC, Debtor-in-Possession | S2804 | INTELSAT 25 | GSO.
Intelsat License LLC, Debtor-in-Possession | S2959 | INTELSAT 35e | GSO.
Intelsat License LLC, Debtor-in-Possession | S2237 | INTELSAT 11 | GSO.
Intelsat License LLC, Debtor-in-Possession | S2785 | INTELSAT 14 | GSO.
Intelsat License LLC, Debtor-in-Possession | S2380 | INTELSAT 9 | GSO.
Intelsat License LLC, Debtor-in-Possession | S2831 | INTELSAT 23 | GSO.
Intelsat License LLC, Debtor-in-Possession | S2915 | INTELSAT 34 | GSO.
Intelsat License LLC, Debtor-in-Possession | S2863 | INTELSAT 21 | GSO.
Intelsat License LLC, Debtor-in-Possession | S2750 | INTELSAT 16 | GSO.
Intelsat License LLC, Debtor-in-Possession | S2715 | GALAXY 17 | GSO.
Intelsat License LLC, Debtor-in-Possession | S2154 | GALAXY 25 | GSO.
Intelsat License LLC, Debtor-in-Possession | S2253 | GALAXY 11 | GSO.
Intelsat License LLC, Debtor-in-Possession | S2381 | GALAXY 3C | GSO.
Intelsat License LLC, Debtor-in-Possession | S2887 | INTELSAT 30 | GSO.
Intelsat License LLC, Debtor-in-Possession | S2924 | INTELSAT 31 | GSO.
Intelsat License LLC, Debtor-in-Possession | S2647 | GALAXY 19 | GSO.
Intelsat License LLC, Debtor-in-Possession | S2687 | GALAXY 16 | GSO.
Intelsat License LLC, Debtor-in-Possession | S2733 | GALAXY 18 | GSO.
Intelsat License LLC, Debtor-in-Possession | S2385 | GALAXY 14 | GSO.
Intelsat License LLC, Debtor-in-Possession | S2386 | GALAXY 13 | GSO.
Intelsat License LLC, Debtor-in-Possession | S2422 | GALAXY 12 | GSO.
Intelsat License LLC, Debtor-in-Possession | S2387 | GALAXY 15 | GSO.
Intelsat License LLC, Debtor-in-Possession | S2704 | INTELSAT 5 | GSO.
Intelsat License LLC, Debtor-in-Possession | S2817 | INTELSAT 18 | GSO.
Intelsat License LLC, Debtor-in-Possession | S2960 | JCSAT-RA | GSO.
Intelsat License LLC, Debtor-in-Possession | S2850 | INTELSAT 19 | GSO.
Intelsat License LLC, Debtor-in-Possession | S2368 | INTELSAT 1R | GSO.
Intelsat License LLC, Debtor-in-Possession | S2988 | TELKOM-2 | GSO.
Intelsat License LLC, Debtor-in-Possession | S2789 | INTELSAT 15 | GSO.
Intelsat License LLC, Debtor-in-Possession | S2423 | HORIZONS 2 | GSO.
Intelsat License LLC, Debtor-in-Possession | S2846 | INTELSAT 22 | GSO.
Intelsat License LLC, Debtor-in-Possession | S2847 | INTELSAT 20 | GSO.
Intelsat License LLC, Debtor-in-Possession | S2948 | INTELSAT 36 | GSO.
Intelsat License LLC, Debtor-in-Possession | S2814 | INTELSAT 17 | GSO.
Intelsat License LLC, Debtor-in-Possession | S2410 | INTELSAT 906 | GSO.
Intelsat License LLC, Debtor-in-Possession | S2406 | INTELSAT 902 | GSO.
Intelsat License LLC, Debtor-in-Possession | S2939 | INTELSAT 33e | GSO.
Intelsat License LLC, Debtor-in-Possession | S2382 | INTELSAT 10 | GSO.
Intelsat License LLC, Debtor-in-Possession | S2751 | NEW DAWN | GSO.
Intelsat License LLC, Debtor-in-Possession | S3023 | INTELSAT 39 | GSO.
Leidos, Inc | S2371 | LM-RPS2 | GSO.
Ligado Networks Subsidiary, LLC | S2358 | SKYTERRA-1 | GSO.
Ligado Networks Subsidiary, LLC | AMSC-1 | MSAT-2 | GSO.
Novavision Group, Inc | S2861 | DIRECTV KU-79W | GSO.
Satellite CD Radio LLC | S2812 | FM-6 | GSO.
SES Americom, Inc | S2415 | NSS-10 | GSO.
SES Americom, Inc | S2162 | AMC-3 | GSO.
SES Americom, Inc | S2347 | AMC-6 | GSO.
SES Americom, Inc | S2826 | SES-2 | GSO.
SES Americom, Inc | S2807 | SES-1 | GSO.
SES Americom, Inc | S2892 | SES-3 | GSO.
SES Americom, Inc | S2180 | AMC-15 | GSO.
SES Americom, Inc | S2445 | AMC-1 | GSO.
SES Americom, Inc | S2135 | AMC-4 | GSO.
SES Americom, Inc | S2713 | AMC-18 | GSO.
SES Americom, Inc | S2433 | AMC-11 | GSO.
SES Americom, Inc./Alascom, Inc | S2379 | AMC-8 | GSO.
Sirius XM Radio Inc | S2710 | FM-5 | GSO.
Sirius XM Radio Inc | S3033 | XM-7 | GSO.
Sirius XM Radio Inc | S3034 | XM-8 | GSO.
Skynet Satellite Corporation | S2933 | TELSTAR 12V | GSO.
Skynet Satellite Corporation | S2357 | TELSTAR 11N | GSO.
ViaSat, Inc | S2747 | VIASAT-1 | GSO.
XM Radio LLC | S2617 | XM-3 | GSO.
XM Radio LLC | S2616 | XM-4 | GSO.

Non-U.S.-Licensed Space Stations—Market Access Through Petition for Declaratory Ruling
Licensee | Call sign | Satellite common name | Satellite type
ABS Global Ltd | S2987 | ABS-3A | GSO.
DBSD Services Ltd | S2651 | DBSD G1 | GSO.
Empresa Argentina de Soluciones Satelitales S.A | S2956 | ARSAT-2 | GSO.
European Telecommunications Satellite Organization | S3031 | EUTELSAT 133 WEST A | GSO.
Eutelsat S.A | S3056 | EUTELSAT 8 WEST B | GSO.
Gamma Acquisition L.L.C | S2633 | TerreStar 1 | GSO.
Hispamar Satélites, S.A | S2793 | AMAZONAS-2 | GSO.
Hispamar Satélites, S.A | S2886 | AMAZONAS-3 | GSO.
Hispasat, S.A | S2969 | HISPASAT 30W-6 | GSO.
Inmarsat PLC | S2932 | Inmarsat-4 F3 | GSO.
Inmarsat PLC | S2949 | Inmarsat-3 F5 | GSO.
Intelsat License LLC | S3058 | HISPASAT 143W-1 | GSO.
New Skies Satellites B.V | S2756 | NSS-9 | GSO.
New Skies Satellites B.V | S2870 | SES-6 | GSO.
New Skies Satellites B.V | S3048 | NSS-6 | GSO.
New Skies Satellites B.V | S2828 | SES-4 | GSO.
New Skies Satellites B.V | S2950 | SES-10 | GSO.
Satelites Mexicanos, S.A. de C.V | S2695 | EUTELSAT 113 WEST A | GSO.
Satelites Mexicanos, S.A. de C.V | S2926 | EUTELSAT 117 WEST B | GSO.
Satelites Mexicanos, S.A. de C.V | S2938 | EUTELSAT 115 WEST B | GSO.
Satelites Mexicanos, S.A. de C.V | S2873 | EUTELSAT 117 WEST A | GSO.
SES Satellites (Gibraltar) Ltd | S2676 | AMC 21 | GSO.
SES Americom, Inc | S3037 | NSS-11 | GSO.
SES Americom, Inc | S2964 | SES-11 | GSO.
SES DTH do Brasil Ltda | S2974 | SES-14 | GSO.
SES Satellites (Gibraltar) Ltd | S2951 | SES-15 | GSO.
Embratel Tvsat Telecommunicacoes S.A | S2677 | STAR ONE C1 | GSO.
Embratel Tvsat Telecommunicacoes S.A | S2678 | STAR ONE C2 | GSO.
Embratel Tvsat Telecommunicacoes S.A | S2845 | STAR ONE C3 | GSO.
Telesat Brasil Capacidade de Satelites Ltda | S2821 | ESTRELA DO SUL 2 | GSO.
Telesat Canada | S2674 | ANIK F1R | GSO.
Telesat Canada | S2703 | ANIK F3 | GSO.
Telesat Canada | S2646/S2472 | ANIK F2 | GSO.
Telesat International Ltd | S2955 | TELSTAR 19 VANTAGE | GSO.
Viasat, Inc | S2902 | VIASAT-2 | GSO.

Non-U.S.-Licensed Space Stations—Market Access Through Earth Station Licenses
ITU name (if available) | Common name | Call sign | GSO/NGSO
APSTAR VI | APSTAR 6 | M292090 | GSO.
AUSSAT B 152E | OPTUS D2 | M221170 | GSO.
CAN-BSS3 and CAN-BSS | ECHOSTAR 23 | SM1987/SM2975 | GSO.
Ciel Satellite Group | Ciel-2 | E050029 | GSO.
Eutelsat 65 West A | Eutelsat 65 West A | E160081 | GSO.
INMARSAT 4F1 | INMARSAT 4F1 | KA25 | GSO.
INMARSAT 5F2 | INMARSAT 5F2 | E120072 | GSO.
INMARSAT 5F3 | INMARSAT 5F3 | E150028 | GSO.
JCSAT-2B | JCSAT-2B | M174163 | GSO.
NIMIQ 5 | NIMIQ 5 | E080107 | GSO.
QUETZSAT-1(MEX) | QUETZSAT-1 | NUS1101 | GSO.
Superbird C2 | Superbird C2 | M334100 | GSO.
WILDBLUE-1 | WILDBLUE-1 | E040213 | GSO.
Yamal 300K | Yamal 300K | M174162 | GSO.

Non-Geostationary Space Stations (NGSO)
ITU name (if available) | Common name | Call sign | NGSO
U.S.-Licensed NGSO Systems
ORBCOMM License Corp | ORBCOMM | S2103 | Other.
Iridium Constellation LLC | IRIDIUM | S2110 | Other.
Space Exploration Holdings, LLC | SPACEX Ku/Ka-Band | S2983/S3018 | Other.
Swarm Technologies | SWARM | S3041 | Other.
Planet Labs | Flock/Skysats | S2912 | Less Complex.
Maxar License | WorldView 1, 2 and 3, GeoEye-1 | S2129/S2348 | Less Complex.
BlackSky Global | Global | S3032 | Less Complex.
Astro Digital U.S., Inc | LANDMAPPER | S3014 | Less Complex.
Hawkeye 360 | HE360 | S3042 | Less Complex.
Non-U.S.-Licensed NGSO Systems—Market Access Through Petition for Declaratory Ruling
Telesat Canada | TELESAT Ku/Ka-Band | S2976 | Other.
Kepler Communications, Inc | KEPLER | S2981 | Other.
WorldVu Satellites Ltd | ONEWEB | S2963 | Other.
Myriota Pty. Ltd | MYRIOTA | S3047 | Other.
O3b Ltd | O3b | S2935 | Other.
NGSO Systems That Are Partly U.S.-Licensed and Partly Non-U.S.-Licensed With Market Access Through Petition for Declaratory Ruling
Globalstar License LLC | GLOBALSTAR | S2115 | Other.
Spire Global | LEMUR & MINAS | S2946/S3045 | Less Complex.
NGSO Systems Licensed Under the Streamlined Small Satellite Rules
Capella Space Corp | Capella-2, Capella-3, Capella-4 | S3073 | Small Satellite.
Capella Space Corp | Capella-5, Capella-6 | S3080 | Small Satellite.
Loft Orbital Solutions Inc | YAM-2 | S3052 | Small Satellite.
Loft Orbital Solutions Inc | YAM-3 | S3072 | Small Satellite.
R2 Space, Inc | XR-1 | S3067 | Small Satellite.

Table 9—FY 2022 Full-Service Broadcast Television Stations by Call Sign
Facility Id. | Call sign | Service area population | Terrain limited population | Terrain limited fee amount ($)
3246 | KAAH-TV | 955,391 | 879,906 | 7,418
18285 | KAAL | 589,502 | 568,169 | 4,790
11912 | KAAS-TV | 220,262 | 219,922 | 1,854
56528 | KABB | 2,474,296 | 2,456,689 | 20,710
282 | KABC-TV | 17,540,791 | 16,957,292 | 142,950
1236 | KACV-TV | 372,627 | 372,330 | 3,139
33261 | KADN-TV | 877,965 | 877,965 | 7,401
8263 | KAEF-TV | 138,085 | 122,808 | 1,035
2728 | KAET | 4,217,217 | 4,184,386 | 35,274
2767 | KAFT | 1,204,376 | 1,122,928 | 9,466
62442 | KAID | 711,035 | 702,721 | 5,924
4145 | KAII-TV | 188,810 | 165,396 | 1,394
67494 | KAIL | 1,947,635 | 1,914,765 | 16,141
13988 | KAIT | 861,149 | 845,812 | 7,130
40517 | KAJB | 383,886 | 383,195 | 3,230
65522 | KAKE | 803,937 | 799,254 | 6,738
804 | KAKM | 380,240 | 379,105 | 3,196
148 | KAKW-DT | 2,615,956 | 2,531,813 | 21,343
51598 | KALB-TV | 943,307 | 942,043 | 7,941
51241 | KALO | 954,557 | 910,409 | 7,675
40820 | KAMC | 391,526 | 391,502 | 3,300
8523 | KAMR-TV | 366,476 | 366,335 | 3,088
65301 | KAMU-TV | 346,892 | 342,455 | 2,887
2506 | KAPP | 319,797 | 283,944 | 2,394
3658 | KARD | 703,234 | 700,887 | 5,908
23079 | KARE | 3,924,944 | 3,907,483 | 32,940
33440 | KARK-TV | 1,212,038 | 1,196,196 | 10,084
37005 | KARZ-TV | 1,113,486 | 1,095,224 | 9,233
32311 | KASA-TV | 1,161,837 | 1,119,457 | 9,437
41212 | KASN | 1,175,627 | 1,159,721 | 9,776
7143 | KASW | 4,174,437 | 4,160,497 | 35,073
55049 | KASY-TV | 1,145,133 | 1,100,391 | 9,276
33471 | KATC | 1,348,897 | 1,348,897 | 11,371
13813 | KATN | 97,466 | 97,128 | 819
21649 | KATU | 3,030,547 | 2,881,993 | 24,295
33543 | KATV | 1,257,777 | 1,234,933 | 10,410
50182 | KAUT-TV | 1,637,333 | 1,636,330 | 13,794
21488 | KAUU | 381,413 | 380,355 | 3,206
6864 | KAUZ-TV | 381,671 | 379,435 | 3,199
73101 | KAVU-TV | 319,618 | 319,484 | 2,693
49579 | KAWB | 186,919 | 186,845 | 1,575
49578 | KAWE | 136,033 | 133,937 | 1,129
58684 | KAYU-TV | 809,464 | 750,766 | 6,329
29234 | KAZA-TV | 14,973,535 | 13,810,130 | 116,419
17433 | KAZD | 6,776,778 | 6,774,172 | 57,106
1151 | KAZQ | 1,097,010 | 1,084,327 | 9,141
35811 | KAZT-TV | 436,925 | 359,273 | 3,029
4148 | KBAK-TV | 1,510,400 | 1,263,910 | 10,655
16940 | KBCA | 479,260 | 479,219 | 4,040
53586 | KBCB | 1,256,193 | 1,223,883 | 10,317
69619 | KBCW | 8,227,562 | 7,375,199 | 62,173
22685 | KBDI-TV | 4,042,177 | 3,683,394 | 31,051
56384 | KBEH | 17,736,497 | 17,695,306 | 149,171
65395 | KBFD-DT | 953,207 | 834,341 | 7,033
169030 | KBGS-TV | 159,269 | 156,802 | 1,322
61068 | KBHE-TV | 140,860 | 133,082 | 1,122
48556 | KBIM-TV | 205,701 | 205,647 | 1,734
29108 | KBIN-TV | 912,921 | 911,725 | 7,686
33658 | KBJR-TV | 275,585 | 271,298 | 2,287
83306 | KBLN-TV | 297,384 | 134,927 | 1,137
63768 | KBLR | 1,964,979 | 1,915,861 | 16,151
53324 | KBME-TV | 123,571 | 123,485 | 1,041
10150 | KBMT | 743,009 | 742,369 | 6,258
22121 | KBMY | 119,993 | 119,908 | 1,011
49760 | KBOI-TV | 715,191 | 708,374 | 5,972
55370 | KBRR | 149,869 | 149,868 | 1,263
66414 | KBSD-DT | 155,012 | 154,891 | 1,306
66415 | KBSH-DT | 102,781 | 100,433 | 847
19593 | KBSI | 756,501 | 754,722 | 6,362
66416 | KBSL-DT | 49,814 | 48,483 | 409
4939 | KBSV | 1,352,166 | 1,262,708 | 10,645
62469 | KBTC-TV | 3,697,981 | 3,621,965 | 30,533
61214 | KBTV-TV | 734,008 | 734,008 | 6,188
6669 | KBTX-TV | 4,404,648 | 4,401,048 | 37,101
35909 | KBVO | 1,498,015 | 1,312,360 | 11,063
58618 | KBVU | 135,249 | 120,827 | 1,019
6823 | KBYU-TV | 2,389,548 | 2,209,060 | 18,622
33756 | KBZK | 123,523 | 109,131 | 920
21422 | KCAL-TV | 17,499,483 | 16,889,157 | 142,376
11265 | KCAU-TV | 714,315 | 706,224 | 5,953
14867 | KCBA | 3,088,394 | 2,369,803 | 19,977
27507 | KCBD | 414,804 | 414,091 | 3,491
9628 | KCBS-TV | 17,853,152 | 16,656,778 | 140,417
49750 | KCBY-TV | 89,156 | 73,211 | 617
33710 | KCCI | 1,109,952 | 1,102,514 | 9,294
9640 | KCCW-TV | 284,280 | 276,935 | 2,335
63158 | KCDO-TV | 2,798,103 | 2,650,225 | 22,341
62424 | KCDT | 698,389 | 657,101 | 5,539
83913 | KCEB | 417,491 | 417,156 | 3,517
57219 | KCEC | 3,831,192 | 3,613,287 | 30,460
10245 | KCEN-TV | 1,795,767 | 1,757,018 | 14,812
13058 | KCET | 16,875,019 | 15,402,588 | 129,844
18079 | KCFW-TV | 177,697 | 140,192 | 1,182
132606 | KCGE-DT | 123,930 | 123,930 | 1,045
60793 | KCHF | 1,118,671 | 1,085,205 | 9,148
33722 | KCIT | 382,477 | 381,818 | 3,219
62468 | KCKA | 953,680 | 804,362 | 6,781
41969 | KCLO-TV | 138,413 | 132,157 | 1,114
47903 | KCNC-TV | 3,794,400 | 3,541,089 | 29,851
71586 | KCNS | 8,270,858 | 7,381,656 | 62,227
33742 | KCOP-TV | 17,386,133 | 16,647,708 | 140,340
19117 | KCOS | 1,014,396 | 1,014,205 | 8,550
63165 | KCOY-TV | 664,655 | 459,468 | 3,873
33894 | KCPQ | 4,439,875 | 4,312,133 | 36,351
53843 | KCPT | 2,507,879 | 2,506,224 | 21,127
33875 | KCRA-TV | 10,612,483 | 6,500,774 | 54,802
9719 | KCRG-TV | 1,136,762 | 1,107,130 | 9,333
60728 | KCSD-TV | 273,553 | 273,447 | 2,305
59494 | KCSG | 174,814 | 164,765 | 1,389
33749 | KCTS-TV | 4,177,824 | 4,115,603 | 34,695
41230 | KCTV | 2,547,456 | 2,545,645 | 21,460
58605 | KCVU | 684,900 | 674,585 | 5,687
10036 | KCWC-DT | 44,216 | 39,439 | 332
64444 | KCWE | 2,459,924 | 2,458,302 | 20,723
51502 | KCWI-TV | 1,043,811 | 1,042,642 | 8,789
42008 | KCWO-TV | 50,707 | 50,685 | 427
166511 | KCWV | 207,398 | 207,370 | 1,748
24316 | KCWX | 3,961,268 | 3,954,787 | 33,339
68713 | KCWY-DT | 80,904 | 80,479 | 678
22201 | KDAF | 6,648,507 | 6,645,226 | 56,019
33764 | KDBC-TV | 1,015,564 | 1,015,162 | 8,558
79258 | KDCK | 43,088 | 43,067 | 363
166332 | KDCU-DT | 753,204 | 753,190 | 6,349
38375 | KDEN-TV | 3,376,799 | 3,351,182 | 28,250
17037 | KDFI | 6,684,439 | 6,682,487 | 56,333
33770 | KDFW | 6,659,312 | 6,657,023 | 56,119
29102 | KDIN-TV | 1,088,376 | 1,083,845 | 9,137
25454 | KDKA-TV | 3,611,796 | 3,450,690 | 29,089
60740 | KDKF | 71,413 | 64,567 | 544
4691 | KDLH | 263,422 | 260,394 | 2,195
41975 | KDLO-TV | 208,354 | 208,118 | 1,754
55379 | KDLT-TV | 639,284 | 628,281 | 5,296
55375 | KDLV-TV | 96,873 | 96,620 | 815
25221 | KDMD | 375,328 | 373,408 | 3,148
78915 | KDMI | 1,141,990 | 1,140,939 | 9,618
56524 | KDNL-TV | 2,987,219 | 2,982,311 | 25,141
24518 | KDOC-TV | 17,503,793 | 16,701,233 | 140,791
1005 | KDOR-TV | 1,112,060 | 1,108,556 | 9,345
60736 | KDRV | 519,706 | 440,002 | 3,709
61064 | KDSD-TV | 64,314 | 59,635 | 503
53329 | KDSE | 42,896 | 41,432 | 349
56527 | KDSM-TV | 1,096,220 | 1,095,478 | 9,235
49326 | KDTN | 6,602,327 | 6,600,186 | 55,640
83491 | KDTP | 26,564 | 24,469 | 206
33778 | KDTV-DT | 7,959,349 | 7,129,638 | 60,103
67910 | KDTX-TV | 6,680,738 | 6,679,424 | 56,308
126 | KDVR | 3,644,912 | 3,521,884 | 29,689
18084 | KECI-TV | 211,745 | 193,803 | 1,634
51208 | KECY-TV | 399,372 | 394,379 | 3,325
58408 | KEDT | 513,683 | 513,683 | 4,330
55435 | KEET | 177,313 | 159,960 | 1,348
37103 | KEKE | 97,959 | 94,560 | 797
41983 | KELO-TV | 705,364 | 646,126 | 5,447
34440 | KEMO-TV | 8,270,858 | 7,381,656 | 62,227
2777 | KEMV | 619,889 | 559,135 | 4,714
26304 | KENS | 2,544,094 | 2,529,382 | 21,323
63845 | KENV-DT | 47,220 | 40,677 | 343
18338 | KENW | 87,017 | 87,017 | 734
50591 | KEPB-TV | 576,964 | 523,655 | 4,414
56029 | KEPR-TV | 453,259 | 433,260 | 3,652
49324 | KERA-TV | 6,681,083 | 6,677,852 | 56,294
40878 | KERO-TV | 1,285,357 | 1,164,979 | 9,821
61067 | KESD-TV | 166,018 | 159,195 | 1,342
25577 | KESQ-TV | 1,334,172 | 572,057 | 4,822
50205 | KETA-TV | 1,702,441 | 1,688,227 | 14,232
62182 | KETC | 2,913,924 | 2,911,313 | 24,542
37101 | KETD | 3,323,570 | 3,285,231 | 27,694
2768 | KETG | 426,883 | 409,511 | 3,452
12895 | KETH-TV | 6,088,821 | 6,088,677 | 51,328
55643 | KETK-TV | 1,031,567 | 1,030,122 | 8,684
2770 | KETS | 1,185,111 | 1,166,796 | 9,836
53903 | KETV | 1,355,714 | 1,350,740 | 11,387
92872 | KETZ | 526,890 | 523,877 | 4,416
68853 | KEYC-TV | 544,900 | 531,079 | 4,477
33691 | KEYE-TV | 2,732,257 | 2,652,529 | 22,361
60637 | KEYT-TV | 1,419,564 | 1,239,577 | 10,450
83715 | KEYU | 339,348 | 339,302 | 2,860
34406 | KEZI | 1,113,171 | 1,065,880 | 8,985
34412 | KFBB-TV | 93,519 | 91,964 | 775
125 | KFCT | 795,114 | 788,747 | 6,649
51466 | KFDA-TV | 385,064 | 383,977 | 3,237
22589 | KFDM | 732,665 | 732,588 | 6,176
65370 | KFDX-TV | 381,703 | 381,318 | 3,215
49264 | KFFV | 4,020,926 | 3,987,153 | 33,612
12729 | KFFX-TV | 409,952 | 403,692 | 3,403
83992 | KFJX | 515,708 | 505,647 | 4,263
42122 | KFMB-TV | 3,947,735 | 3,699,981 | 31,191
53321 | KFME | 393,045 | 392,472 | 3,309
74256 | KFNB | 80,382 | 79,842 | 673
21613 | KFNE | 54,988 | 54,420 | 459
21612 | KFNR | 10,988 | 10,965 | 92
66222 | KFOR-TV | 1,616,459 | 1,615,614 | 13,620
33716 | KFOX-TV | 1,023,999 | 1,018,549 | 8,586
41517 | KFPH-DT | 347,579 | 282,838 | 2,384
81509 | KFPX-TV | 963,969 | 963,846 | 8,125
31597 | KFQX | 186,473 | 163,637 | 1,379
59013 | KFRE-TV | 1,721,275 | 1,705,484 | 14,377
51429 | KFSF-DT | 7,348,828 | 6,528,430 | 55,035
66469 | KFSM-TV | 906,728 | 884,919 | 7,460
8620 | KFSN-TV | 1,836,607 | 1,819,585 | 15,339
29560 | KFTA-TV | 818,859 | 809,173 | 6,821
83714 | KFTC | 61,990 | 61,953 | 522
60537 | KFTH-DT | 6,080,688 | 6,080,373 | 51,258
60549 | KFTR-DT | 17,560,679 | 16,305,726 | 137,457
61335 | KFTS | 74,936 | 65,126 | 549
81441 | KFTU-DT | 113,876 | 109,731 | 925
34439 | KFTV-DT | 1,794,984 | 1,779,917 | 15,005
664 | KFVE | 82,902 | 73,553 | 620
592 | KFVS-TV | 895,871 | 873,777 | 7,366
29015 | KFWD | 6,666,428 | 6,660,565 | 56,149
35336 | KFXA | 875,538 | 874,070 | 7,368
17625 | KFXB-TV | 373,280 | 368,466 | 3,106
70917 | KFXK-TV | 934,043 | 931,791 | 7,855
84453 | KFXL-TV | 862,531 | 854,678 | 7,205
56079 | KFXV | 1,225,732 | 1,225,732 | 10,333
41427 | KFYR-TV | 130,881 | 128,301 | 1,082
25685 | KGAN | 1,083,213 | 1,057,597 | 8,916
34457 | KGBT-TV | 1,239,001 | 1,238,870 | 10,444
7841 | KGCW | 949,575 | 945,476 | 7,970
24485 | KGEB | 1,186,225 | 1,150,201 | 9,696
34459 | KGET-TV | 917,927 | 874,332 | 7,371
53320 | KGFE | 114,564 | 114,564 | 966
7894 | KGIN | 230,535 | 228,338 | 1,925
83945 | KGLA-DT | 1,645,641 | 1,645,641 | 13,873
34445 | KGMB | 953,398 | 851,088 | 7,175
58608 | KGMC | 1,936,675 | 1,914,168 | 16,136
36914 | KGMD-TV | 94,323 | 93,879 | 791
36920 | KGMV | 193,564 | 162,230 | 1,368
10061 | KGNS-TV | 267,236 | 259,548 | 2,188
34470 | KGO-TV | 8,637,074 | 7,929,294 | 66,844
56034 | KGPE | 1,699,131 | 1,682,082 | 14,180
81694 | KGPX-TV | 685,626 | 624,955 | 5,268
25511 | KGTF | 161,885 | 160,568 | 1,354
40876 | KGTV | 3,960,667 | 3,682,219 | 31,041
36918 | KGUN-TV | 1,398,527 | 1,212,484 | 10,221
34874 | KGW | 3,026,617 | 2,878,510 | 24,266
63177 | KGWC-TV | 80,475 | 80,009 | 674
63162 | KGWL-TV | 38,125 | 38,028 | 321
63166 | KGWN-TV | 469,467 | 440,388 | 3,712
63170 | KGWR-TV | 51,315 | 50,957 | 430
4146 | KHAW-TV | 95,204 | 94,851 | 800
60353 | KHBS | 631,770 | 608,052 | 5,126
27300 | KHCE-TV | 2,353,883 | 2,348,391 | 19,797
26431 | KHET | 959,060 | 944,568 | 7,963
21160 | KHGI-TV | 233,973 | 229,173 | 1,932
36917 | KHII-TV | 953,895 | 851,585 | 7,179
29085 | KHIN | 1,041,244 | 1,039,383 | 8,762
17688 | KHME | 181,345 | 179,706 | 1,515
47670 | KHMT | 175,601 | 170,957 | 1,441
47987 | KHNE-TV | 203,931 | 202,944 | 1,711
34867 | KHNL | 953,398 | 851,088 | 7,175
60354 | KHOG-TV | 765,360 | 702,984 | 5,926
4144 | KHON-TV | 953,207 | 886,431 | 7,473
34529 | KHOU | 6,083,336 | 6,081,785 | 51,269
4690 | KHQA-TV | 318,469 | 316,134 | 2,665
34537 | KHQ-TV | 822,371 | 774,821 | 6,532
30601 | KHRR | 1,227,847 | 1,166,890 | 9,837
34348 | KHSD-TV | 188,735 | 185,202 | 1,561
24508 | KHSL-TV | 625,904 | 608,850 | 5,133
69677 | KHSV | 2,059,794 | 2,020,045 | 17,029
64544 | KHVO | 94,226 | 93,657 | 790
23394 | KIAH | 6,099,694 | 6,099,297 | 51,417
34564 | KICU-TV | 8,233,041 | 7,174,316 | 60,479
56028 | KIDK | 305,509 | 302,535 | 2,550
58560 | KIDY | 116,614 | 116,596 | 983
53382 | KIEM-TV | 174,390 | 160,801 | 1,356
66258 | KIFI-TV | 324,422 | 320,118 | 2,699
16950 | KIFR | 2,180,045 | 2,160,460 | 18,213
10188 | KIII | 569,864 | 566,796 | 4,778
29095 | KIIN | 1,365,215 | 1,335,707 | 11,260
34527 | KIKU | 953,896 | 850,963 | 7,174
63865 | KILM | 17,256,205 | 15,804,489 | 133,232
56033 | KIMA-TV | 308,604 | 260,593 | 2,197
66402 | KIMT | 654,083 | 643,384 | 5,424
67089 | KINC | 2,002,066 | 1,920,903 | 16,193
34847 | KING-TV | 4,074,288 | 4,036,926 | 34,031
51708 | KINT-TV | 1,015,582 | 1,015,274 | 8,559
26249 | KION-TV | 2,400,317 | 855,808 | 7,214
62427 | KIPT | 171,405 | 170,455 | 1,437
66781 | KIRO-TV | 4,058,101 | 4,030,968 | 33,981
62430 | KISU-TV | 311,827 | 307,651 | 2,593
12896 | KITU-TV | 712,362 | 712,362 | 6,005
64548 | KITV | 953,207 | 839,906 | 7,080
59255 | KIVI-TV | 710,819 | 702,619 | 5,923
47285 | KIXE-TV | 467,518 | 428,118 | 3,609
13792 | KJJC-TV | 82,749 | 81,865 | 690
14000 | KJLA | 17,929,100 | 16,794,896 | 141,581
20015 | KJNP-TV | 98,403 | 98,097 | 827
53315 | KJRE | 16,187 | 16,170 | 136
59439 | KJRH-TV | 1,416,108 | 1,397,311 | 11,779
55364 | KJRR | 45,515 | 44,098 | 372
7675 | KJTL | 379,594 | 379,263 | 3,197
55031 | KJTV-TV | 406,283 | 406,260 | 3,425
13814 | KJUD | 31,229 | 30,106 | 254
36607 | KJZZ-TV | 2,388,965 | 2,209,183 | 18,623
83180 | KKAI | 953,400 | 919,742 | 7,753
58267 | KKAP | 957,786 | 923,172 | 7,782
24766 | KKCO | 206,018 | 172,628 | 1,455
35097 | KKJB | 629,939 | 624,784 | 5,267
22644 | KKPX-TV | 7,588,288 | 6,758,490 | 56,974
35037 | KKTV | 2,892,126 | 2,478,864 | 20,897
35042 | KLAS-TV | 2,094,297 | 1,940,030 | 16,354
52907 | KLAX-TV | 367,212 | 366,839 | 3,092
3660 | KLBK-TV | 387,783 | 387,743 | 3,269
65523 | KLBY | 31,102 | 31,096 | 262
38430 | KLCS | 16,875,019 | 15,402,588 | 129,844
77719 | KLCW-TV | 381,889 | 381,816 | 3,219
51479 | KLDO-TV | 250,832 | 250,832 | 2,115
37105 | KLEI | 175,045 | 138,087 | 1,164
56032 | KLEW-TV | 164,908 | 148,256 | 1,250
35059 | KLFY-TV | 1,355,890 | 1,355,409 | 11,426
54011 | KLJB | 1,027,104 | 1,012,309 | 8,534
11264 | KLKN | 1,161,979 | 1,122,111 | 9,459
52593 | KLML | 270,089 | 218,544 | 1,842
47975 | KLNE-TV | 123,324 | 123,246 | 1,039
38590 | KLPA-TV | 414,699 | 414,447 | 3,494
38588 | KLPB-TV | 749,053 | 749,053 | 6,315
749 | KLRN | 2,374,472 | 2,353,440 | 19,839
11951 | KLRT-TV | 1,171,678 | 1,152,541 | 9,716
8564 | KLRU | 2,614,658 | 2,575,518 | 21,712
8322 | KLSR-TV | 564,415 | 508,157 | 4,284
31114 | KLST | 199,067 | 169,551 | 1,429
24436 | KLTJ | 6,034,131 | 6,033,867 | 50,865
38587 | KLTL-TV | 423,574 | 423,574 | 3,571
38589 | KLTM-TV | 694,280 | 688,915 | 5,808
38591 | KLTS-TV | 947,141 | 944,257 | 7,960
68540 | KLTV | 1,069,690 | 1,051,361 | 8,863
12913 | KLUJ-TV | 1,195,751 | 1,195,751 | 10,080
57220 | KLUZ-TV | 1,079,718 | 1,019,302 | 8,593
11683 | KLVX | 2,044,150 | 1,936,083 | 16,321
82476 | KLWB | 1,065,748 | 1,065,748 | 8,984
40250 | KLWY | 541,043 | 538,231 | 4,537
64551 | KMAU | 213,060 | 188,953 | 1,593
51499 | KMAX-TV | 10,767,605 | 7,132,240 | 60,125
65686 | KMBC-TV | 2,506,035 | 2,504,622 | 21,114
35183 | KMCB | 69,357 | 66,203 | 558
41237 | KMCC | 2,064,592 | 2,010,262 | 16,947
42636 | KMCI-TV | 2,429,392 | 2,428,626 | 20,473
38584 | KMCT-TV | 267,004 | 266,880 | 2,250
22127 | KMCY | 71,797 | 71,793 | 605
162016 | KMDE | 35,409 | 35,401 | 298
26428 | KMEB | 221,810 | 203,470 | 1,715
39665 | KMEG | 708,748 | 704,130 | 5,936
35123 | KMEX-DT | 17,628,354 | 16,318,720 | 137,567
40875 | KMGH-TV | 3,815,224 | 3,574,344 | 30,132
35131 | KMID | 383,449 | 383,439 | 3,232
16749 | KMIR-TV | 2,760,914 | 730,764 | 6,160
63164 | KMIZ | 532,025 | 530,008 | 4,468
53541 | KMLM-DT | 293,290 | 293,290 | 2,472
52046 | KMLU | 711,951 | 708,107 | 5,969
47981 | KMNE-TV | 47,232 | 44,189 | 373
24753 | KMOH-TV | 199,885 | 184,283 | 1,554
4326 | KMOS-TV | 804,745 | 803,129 | 6,770
41425 | KMOT | 81,517 | 79,504 | 670
70034 | KMOV | 3,035,077 | 3,029,405 | 25,538
51488 | KMPH-TV | 1,725,397 | 1,697,871 | 14,313
73701 | KMPX | 6,678,829 | 6,674,706 | 56,268
44052 | KMSB | 1,321,614 | 1,039,442 | 8,762
68883 | KMSP-TV | 3,832,040 | 3,805,141 | 32,077
12525 | KMSS-TV | 1,068,120 | 1,066,388 | 8,990
43095 | KMTP-TV | 5,252,062 | 4,457,617 | 37,578
35189 | KMTR | 589,948 | 520,666 | 4,389
35190 | KMTV-TV | 1,346,549 | 1,344,796 | 11,337
77063 | KMTW | 761,521 | 761,516 | 6,420
35200 | KMVT | 184,647 | 176,351 | 1,487
32958 | KMVU-DT | 308,150 | 231,506 | 1,952
86534 | KMYA-DT | 200,764 | 200,719 | 1,692
51518 | KMYS | 2,273,888 | 2,267,913 | 19,119
54420 | KMYT-TV | 1,314,197 | 1,302,378 | 10,979
35822 | KMYU | 133,563 | 130,198 | 1,098
993 | KNAT-TV | 1,157,630 | 1,124,619 | 9,481
24749 | KNAZ-TV | 332,321 | 227,658 | 1,919
47906 | KNBC | 17,859,647 | 16,555,232 | 139,561
81464 | KNBN | 145,493 | 136,995 | 1,155
9754 | KNCT | 1,751,838 | 1,726,148 | 14,551
82611 | KNDB | 118,154 | 118,122 | 996
82615 | KNDM | 72,216 | 72,209 | 609
12395 | KNDO | 314,875 | 270,892 | 2,284
12427 | KNDU | 475,612 | 462,556 | 3,899
17683 | KNEP | 101,389 | 95,890 | 808
48003 | KNHL | 277,777 | 277,308 | 2,338
125710 | KNIC-DT | 2,398,296 | 2,383,294 | 20,091
59363 | KNIN-TV | 708,289 | 703,838 | 5,933
48525 | KNLC | 2,981,508 | 2,978,979 | 25,113
48521 | KNLJ | 655,000 | 642,705 | 5,418
84215 | KNMD-TV | 1,135,642 | 1,108,358 | 9,343
55528 | KNME-TV | 1,148,741 | 1,105,095 | 9,316
47707 | KNMT | 2,887,142 | 2,794,995 | 23,562
48975 | KNOE-TV | 733,097 | 729,703 | 6,151
49273 | KNOP-TV | 87,904 | 85,423 | 720
10228 | KNPB | 604,614 | 462,732 | 3,901
55362 | KNRR | 25,957 | 25,931 | 219
35277 | KNSD | 3,861,660 | 3,618,321 | 30,502
19191 | KNSN-TV | 611,981 | 459,485 | 3,873
23302 | KNSO | 1,824,786 | 1,803,796 | 15,206
35280 | KNTV | 8,525,818 | 8,027,505 | 67,672
144 | KNVA | 2,550,225 | 2,529,184 | 21,321
33745 | KNVN | 495,902 | 470,252 | 3,964
69692 | KNVO | 1,247,014 | 1,247,014 | 10,512
29557 | KNWA-TV | 822,906 | 804,682 | 6,783
59440 | KNXV-TV | 4,183,943 | 4,173,022 | 35,179
59014 | KOAA-TV | 1,608,528 | 1,203,731 | 10,147
50588 | KOAB-TV | 207,070 | 203,371 | 1,714
50590 | KOAC-TV | 1,957,282 | 1,543,401 | 13,011
58552 | KOAM-TV | 595,307 | 584,921 | 4,931
53928 | KOAT-TV | 1,132,372 | 1,105,116 | 9,316
35313 | KOB | 1,152,841 | 1,113,162 | 9,384
35321 | KOBF | 201,911 | 166,177 | 1,401
8260 | KOBI | 562,463 | 519,063 | 4,376
62272 | KOBR | 211,709 | 211,551 | 1,783
50170 | KOCB | 1,629,783 | 1,629,152 | 13,734
4328 | KOCE-TV | 17,446,133 | 16,461,581 | 138,771
84225 | KOCM | 1,434,325 | 1,433,605 | 12,085
12508 | KOCO-TV | 1,716,569 | 1,708,085 | 14,399
83181 | KOCW | 83,807 | 83,789 | 706
18283 | KODE-TV | 740,156 | 731,512 | 6,167
66195 | KOED-TV | 1,497,297 | 1,459,833 | 12,306
50198 | KOET | 658,606 | 637,640 | 5,375
51189 | KOFY-TV | 5,252,062 | 4,457,617 | 37,578
34859 | KOGG | 190,829 | 161,310 | 1,360
166534 | KOHD | 201,310 | 197,662 | 1,666
35380 | KOIN | 3,028,482 | 2,881,460 | 24,291
35388 | KOKH-TV | 1,627,116 | 1,625,246 | 13,701
11910 | KOKI-TV | 1,366,220 | 1,352,227 | 11,399
48663 | KOLD-TV | 1,216,228 | 887,754 | 7,484
7890 | KOLN | 1,225,400 | 1,190,178 | 10,033
63331 | KOLO-TV | 959,178 | 826,985 | 6,971
28496 | KOLR | 1,076,144 | 1,038,613 | 8,756
21656 | KOMO-TV | 4,132,260 | 4,087,435 | 34,457
65583 | KOMU-TV | 551,658 | 542,544 | 4,574
35396 | KONG | 4,006,008 | 3,985,271 | 33,596
60675 | KOOD | 113,416 | 113,285 | 955
50589 | KOPB-TV | 3,059,231 | 2,875,815 | 24,243
2566 | KOPX-TV | 1,501,110 | 1,500,883 | 12,652
64877 | KORO | 560,983 | 560,983 | 4,729
6865 | KOSA-TV | 340,978 | 338,070 | 2,850
34347 | KOTA-TV | 174,876 | 152,861 | 1,289
8284 | KOTI | 298,175 | 97,132 | 819
35434 | KOTV-DT | 1,417,753 | 1,403,838 | 11,834
56550 | KOVR | 10,784,477 | 7,162,989 | 60,384
51101 | KOZJ | 429,982 | 427,991 | 3,608
51102 | KOZK | 839,841 | 834,308 | 7,033
3659 | KOZL-TV | 992,495 | 963,281 | 8,120
35455 | KPAX-TV | 206,895 | 193,201 | 1,629
67868 | KPAZ-TV | 4,190,080 | 4,176,323 | 35,206
6124 | KPBS | 3,584,237 | 3,463,189 | 29,195
50044 | KPBT-TV | 340,080 | 340,080 | 2,867
77452 | KPCB-DT | 30,861 | 30,835 | 260
35460 | KPDX | 2,970,703 | 2,848,423 | 24,012
12524 | KPEJ-TV | 368,212 | 368,208 | 3,104
41223 | KPHO-TV | 4,195,073 | 4,175,139 | 35,196
61551 | KPIC | 156,687 | 105,807 | 892
86205 | KPIF | 265,080 | 258,174 | 2,176
25452 | KPIX-TV | 8,226,463 | 7,360,625 | 62,050
58912 | KPJK | 7,884,411 | 6,955,179 | 58,632
166510 | KPJR-TV | 3,402,088 | 3,372,831 | 28,433
13994 | KPLC | 1,406,085 | 1,403,853 | 11,834
41964 | KPLO-TV | 55,827 | 52,765 | 445
35417 | KPLR-TV | 2,991,598 | 2,988,106 | 25,190
12144 | KPMR | 1,731,370 | 1,473,251 | 12,420
47973 | KPNE-TV | 92,675 | 89,021 | 750
35486 | KPNX | 4,180,982 | 4,176,442 | 35,207
77512 | KPNZ | 2,394,311 | 2,208,707 | 18,619
73998 | KPOB-TV | 144,525 | 143,656 | 1,211
26655 | KPPX-TV | 4,186,998 | 4,171,450 | 35,165
53117 | KPRC-TV | 6,099,422 | 6,099,076 | 51,415
48660 | KPRY-TV | 42,521 | 42,426 | 358
61071 | KPSD-TV | 19,886 | 18,799 | 158
53544 | KPTB-DT | 322,780 | 320,646 | 2,703
81445 | KPTF-DT | 84,512 | 84,512 | 712
77451 | KPTH | 660,556 | 655,373 | 5,525
51491 | KPTM | 1,414,998 | 1,414,014 | 11,920
33345 | KPTS | 832,000 | 827,866 | 6,979
50633 | KPTV | 2,998,460 | 2,847,263 | 24,002
82575 | KPTW | 80,374 | 80,012 | 675
1270 | KPVI-DT | 271,379 | 264,204 | 2,227
58835 | KPXB-TV | 6,062,458 | 6,062,238 | 51,105
68695 | KPXC-TV | 3,362,518 | 3,341,951 | 28,173
68834 | KPXD-TV | 6,555,157 | 6,553,373 | 55,245
33337 | KPXE-TV | 2,437,178 | 2,436,024 | 20,536
5801 | KPXG-TV | 3,026,219 | 2,882,598 | 24,300
81507 | KPXJ | 1,138,632 | 1,135,626 | 9,573
61173 | KPXL-TV | 2,257,007 | 2,243,520 | 18,913
35907 | KPXM-TV | 3,507,312 | 3,506,503 | 29,560
58978 | KPXN-TV | 17,256,205 | 15,804,489 | 133,232
77483 | KPXO-TV | 953,329 | 913,341 | 7,699
21156 | KPXR-TV | 828,915 | 821,250 | 6,923
10242 | KQCA | 10,077,891 | 6,276,197 | 52,908
41430 | KQCD-TV | 35,623 | 33,415 | 282
18287 | KQCK | 3,220,160 | 3,162,711 | 26,662
78322 | KQCW-DT | 1,128,198 | 1,123,324 | 9,470
35525 | KQDS-TV | 304,935 | 301,439 | 2,541
35500 | KQED | 8,195,398 | 7,283,828 | 61,403
35663 | KQEH | 8,195,398 | 7,283,828 | 61,403
8214 | KQET | 2,981,040 | 2,076,157 | 17,502
5471 | KQIN | 596,371 | 596,277 | 5,027
17686 | KQME | 188,783 | 184,719 | 1,557
61063 | KQSD-TV | 32,526 | 31,328 | 264
8378 | KQSL | 196,316 | 139,439 | 1,175
20427 | KQTV | 1,494,987 | 1,401,160 | 11,812
78921 | KQUP | 697,016 | 551,824 | 4,652
306 | KRBC-TV | 229,395 | 229,277 | 1,933
166319 | KRBK | 983,888 | 966,187 | 8,145
22161 | KRCA | 17,540,791 | 16,957,292 | 142,950
57945 | KRCB | 8,783,441 | 8,503,802 | 71,687
41110 | KRCG | 684,989 | 662,418 | 5,584
8291 | KRCR-TV | 423,000 | 402,594 | 3,394
10192 | KRCW-TV | 2,966,912 | 2,842,523 | 23,962
49134 | KRDK-TV | 349,941 | 349,929 | 2,950
52579 | KRDO-TV | 2,622,603 | 2,272,383 | 19,156
70578 | KREG-TV | 149,306 | 95,141 | 802
34868 | KREM | 817,619 | 752,113 | 6,340
51493 | KREN-TV | 810,039 | 681,212 | 5,743
70596 | KREX-TV | 145,700 | 145,606 | 1,227
70579 | KREY-TV | 74,963 | 65,700 | 554
48589 | KREZ-TV | 148,079 | 105,121 | 886
43328 | KRGV-TV | 1,247,057 | 1,247,029 | 10,512
82698 | KRII | 133,840 | 132,912 | 1,120
29114 | KRIN | 949,313 | 923,735 | 7,787
25559 | KRIS-TV | 565,052 | 563,805 | 4,753
22204 | KRIV | 6,078,936 | 6,078,846 | 51,245
14040 | KRMA-TV | 3,722,512 | 3,564,949 | 30,053
14042 | KRMJ | 174,094 | 159,511 | 1,345
20476 | KRMT | 2,956,144 | 2,864,236 | 24,146
84224 | KRMU | 85,274 | 72,499 | 611
20373 | KRMZ | 36,293 | 33,620 | 283
47971 | KRNE-TV | 47,473 | 38,273 | 323
60307 | KRNV-DT | 955,490 | 792,543 | 6,681
65526 | KRON-TV | 8,573,167 | 8,028,256 | 67,678
53539 | KRPV-DT | 65,943 | 65,943 | 556
48575 | KRQE | 1,135,461 | 1,105,093 | 9,316
57431 | KRSU-TV | 1,000,289 | 998,310 | 8,416
82613 | KRTN-TV | 84,231 | 68,550 | 578
35567 | KRTV | 92,645 | 90,849 | 766
84157 | KRWB-TV | 111,538 | 110,979 | 936
35585 | KRWF | 85,596 | 85,596 | 722
55516 | KRWG-TV | 894,492 | 661,703 | 5,578
48360 | KRXI-TV | 725,391 | 548,865 | 4,627
307 | KSAN-TV | 135,063 | 135,051 | 1,138
11911 | KSAS-TV | 752,513 | 752,504 | 6,344
53118 | KSAT-TV | 2,539,658 | 2,502,246 | 21,094
35584 | KSAX | 365,209 | 365,209 | 3,079
35587 | KSAZ-TV | 4,203,126 | 4,178,448 | 35,224
38214 | KSBI | 1,577,231 | 1,575,865 | 13,285
19653 | KSBW | 5,083,461 | 4,429,165 | 37,338
19654 | KSBY | 535,029 | 495,562 | 4,178
82910 | KSCC | 517,740 | 517,740 | 4,365
10202 | KSCE | 1,015,148 | 1,010,581 | 8,519
35608 | KSCI | 17,446,133 | 16,461,581 | 138,771
72348 | KSCW-DT | 915,691 | 910,511 | 7,676
46981 | KSDK | 2,986,776 | 2,979,047 | 25,113
35594 | KSEE | 1,761,193 | 1,746,282 | 14,721
48658 | KSFY-TV | 670,536 | 607,844 | 5,124
17680 | KSGW-TV | 62,178 | 57,629 | 486
59444 | KSHB-TV | 2,432,205 | 2,431,273 | 20,496
73706 | KSHV-TV | 943,947 | 942,978 | 7,949
29096 | KSIN-TV | 340,143 | 338,811 | 2,856
34846 | KSIX-TV | 74,884 | 74,884 | 631
35606 | KSKN | 731,818 | 643,590 | 5,425
70482 | KSLA | 1,017,556 | 1,016,667 | 8,571
6359 | KSL-TV | 2,390,742 | 2,206,920 | 18,604
71558 | KSMN | 320,813 | 320,808 | 2,704
33336 | KSMO-TV | 2,401,201 | 2,398,686 | 20,221
28510 | KSMQ-TV | 524,391 | 507,983 | 4,282
35611 | KSMS-TV | 1,589,263 | 882,948 | 7,443
21161 | KSNB-TV | 658,560 | 656,650 | 5,536
72359 | KSNC | 174,135 | 173,744 | 1,465
67766 | KSNF | 621,919 | 617,868 | 5,209
72361 | KSNG | 145,058 | 144,822 | 1,221
72362 | KSNK | 48,715 | 45,414 | 383
67335 | KSNT | 622,818 | 594,604 | 5,013
10179 | KSNV | 1,967,781 | 1,919,296 | 16,180
72358 | KSNW | 791,403 | 791,127 | 6,669
61956 | KSPS-TV | 819,101 | 769,852 | 6,490
52953 | KSPX-TV | 7,078,228 | 5,275,946 | 44,476
166546 | KSQA | 382,328 | 374,290 | 3,155
53313 | KSRE | 75,181 | 75,181 | 634
35843 | KSTC-TV | 3,843,788 | 3,835,674 | 32,335
63182 | KSTF | 51,317 | 51,122 | 431
28010 | KSTP-TV | 3,788,898 | 3,782,053 | 31,883
60534 | KSTR-DT | 6,632,577 | 6,629,296 | 55,885
64987 | KSTS | 8,363,473 | 7,264,852 | 61,243
22215 | KSTU | 2,384,996 | 2,201,716 | 18,560
23428 | KSTW | 4,265,956 | 4,186,266 | 35,290
5243 | KSVI | 175,390 | 173,667 | 1,464
58827 | KSWB-TV | 3,677,190 | 3,488,655 | 29,409
60683 | KSWK | 79,012 | 78,784 | 664
35645 | KSWO-TV | 483,132 | 458,057 | 3,861
61350 | KSYS | 519,209 | 443,204 | 3,736
59988 | KTAB-TV | 274,707 | 274,536 | 2,314
999 | KTAJ-TV | 2,343,843 | 2,343,227 | 19,753
35648 | KTAL-TV | 1,094,332 | 1,092,958 | 9,214
12930 | KTAS | 471,882 | 464,149 | 3,913
81458 | KTAZ | 4,182,503 | 4,160,481 | 35,073
35649 | KTBC | 3,242,215 | 2,956,614 | 24,924
67884 | KTBN-TV | 17,795,677 | 16,510,302 | 139,182
67999 | KTBO-TV | 1,585,283 | 1,583,664 | 13,350
35652 | KTBS-TV | 1,163,228 | 1,159,665 | 9,776
28324 | KTBU | 6,035,927 | 6,035,725 | 50,881
67950 | KTBW-TV | 4,202,104 | 4,108,031 | 34,631
35655 | KTBY | 348,080 | 346,562 | 2,922
68594 | KTCA-TV | 3,693,877 | 3,684,081 | 31,057
68597 | KTCI-TV | 3,606,606 | 3,597,183 | 30,324
35187 | KTCW | 103,341 | 89,207 | 752
36916 | KTDO | 1,015,336 | 1,010,771 | 8,521
2769 | KTEJ | 419,750 | 417,368 | 3,518
83707 | KTEL-TV | 52,878 | 52,875 | 446
35666 | KTEN | 602,788 | 599,778 | 5,056
24514 | KTFD-TV | 3,210,669 | 3,172,543 | 26,745
35512 | KTFF-DT | 2,225,169 | 2,203,398 | 18,575
20871 | KTFK-DT | 6,969,307 | 5,211,719 | 43,935
68753 | KTFN | 1,017,335 | 1,013,157 | 8,541
35084 | KTFQ-TV | 1,151,433 | 1,117,061 | 9,417
29232 | KTGM | 159,358 | 159,091 | 1,341
2787 | KTHV | 1,275,053 | 1,246,348 | 10,507
29100 | KTIN | 281,096 | 279,385 | 2,355
66170 | KTIV | 751,089 | 746,274 | 6,291
49397 | KTKA-TV | 759,369 | 746,370 | 6,292
35670 | KTLA | 18,156,910 | 16,870,262 | 142,216
62354 | KTLM | 1,044,526 | 1,044,509 | 8,805
49153 | KTLN-TV | 5,381,955 | 4,740,894 | 39,966
64984 | KTMD | 6,095,741 | 6,095,606 | 51,386
14675 | KTMF | 187,251 | 168,526 | 1,421
10177 | KTMW | 2,261,671 | 2,144,791 | 18,081
21533 | KTNC-TV | 8,270,858 | 7,381,656 | 62,227
47996 | KTNE-TV | 100,341 | 95,324 | 804
60519 | KTNL-TV | 8,642 | 8,642 | 73
74100 | KTNV-TV | 2,094,506 | 1,936,752 | 16,327
71023 | KTNW | 450,926 | 432,398 | 3,645
8651 | KTOO-TV | 31,269 | 31,176 | 263
7078 | KTPX-TV | 1,066,196 | 1,063,754 | 8,967
68541 | KTRE | 441,879 | 421,406 | 3,552
35675 | KTRK-TV | 6,114,259 | 6,112,870 | 51,531
28230 | KTRV-TV | 714,833 | 707,557 | 5,965
69170 | KTSC | 3,124,536 | 2,949,795 | 24,867
61066 | KTSD-TV | 83,645 | 82,828 | 698
37511 | KTSF | 7,959,349 | 7,129,638 | 60,103
67760 | KTSM-TV | 1,015,348 | 1,011,264 | 8,525
35678 | KTTC | 815,213 | 731,919 | 6,170
28501 | KTTM | 76,133 | 73,664 | 621
11908 | KTTU | 1,324,801 | 1,060,613 | 8,941
22208 | KTTV | 17,380,551 | 16,693,085 | 140,723
28521 | KTTW | 329,633 | 326,405 | 2,752
65355 | KTTZ-TV | 380,240 | 380,225 | 3,205
35685 | KTUL | 1,416,959 | 1,388,183 | 11,702
10173 | KTUU-TV | 380,240 | 379,047 | 3,195
77480 | KTUZ-TV | 1,668,531 | 1,666,026 | 14,045
49632 | KTVA | 342,517 | 342,300 | 2,886
34858 | KTVB | 714,865 | 707,882 | 5,967
31437 | KTVC | 137,239 | 100,204 | 845
68581 | KTVD | 3,800,970 | 3,547,607 | 29,906
35692 | KTVE | 641,139 | 640,201 | 5,397
49621 | KTVF | 98,068 | 97,929 | 826
5290 | KTVH-DT | 228,832 | 184,264 | 1,553
35693 | KTVI | 2,995,764 | 2,991,513 | 25,218
40993 | KTVK | 4,184,825 | 4,173,028 | 35,179
22570 | KTVL | 419,849 | 369,469 | 3,115
18066 | KTVM-TV | 260,105 | 217,694 | 1,835
59139 | KTVN | 955,490 | 800,420 | 6,748
21251 | KTVO | 227,128 | 226,616 | 1,910
35694 | KTVQ | 179,797 | 173,271 | 1,461
50592 | KTVR | 147,808 | 54,480 | 459
23422 | KTVT | 6,912,366 | 6,908,715 | 58,240
35703 | KTVU | 8,297,634 | 7,406,751 | 62,439
35705 | KTVW-DT | 4,174,310 | 4,160,877 | 35,076
68889 | KTVX | 2,389,392 | 2,200,520 | 18,550
55907 | KTVZ | 201,828 | 198,558 | 1,674
18286 | KTWO-TV | 80,426 | 79,905 | 674
70938 | KTWU | 1,703,798 | 1,562,305 | 13,170
51517 | KTXA | 6,915,461 | 6,911,822 | 58,267
42359 | KTXD-TV | 6,706,651 | 6,704,781 | 56,521
51569 | KTXH | 6,092,710 | 6,092,525 | 51,360
10205 | KTXL | 8,306,449 | 5,896,320 | 49,706
308 | KTXS-TV | 247,603 | 246,760 | 2,080
69315 | KUAC-TV | 98,717 | 98,189 | 828
51233 | KUAM-TV | 159,358 | 159,358 | 1,343
2722 | KUAS-TV | 994,802 | 977,391 | 8,239
2731 | KUAT-TV | 1,485,024 | 1,253,342 | 10,566
60520 | KUBD | 14,817 | 13,363 | 113
70492 | KUBE-TV | 6,090,970 | 6,090,817 | 51,346
1136 | KUCW | 2,388,889 | 2,199,787 | 18,544
69396 | KUED | 2,388,995 | 2,203,093 | 18,572
69582 | KUEN | 2,364,481 | 2,184,483 | 18,415
82576 | KUES | 30,925 | 25,978 | 219
82585 | KUEW | 132,168 | 120,411 | 1,015
66611 | KUFM-TV | 187,680 | 166,697 | 1,405
169028 | KUGF-TV | 86,622 | 85,986 | 725
68717 | KUHM-TV | 154,836 | 145,241 | 1,224
69269 | KUHT | 6,080,222 | 6,078,866 | 51,245
62382 | KUID-TV | 432,855 | 284,023 | 2,394
169027 | KUKL-TV | 124,505 | 115,844 | 977
35724 | KULR-TV | 177,242 | 170,142 | 1,434
41429 | KUMV-TV | 41,607 | 41,224 | 348
81447 | KUNP | 130,559 | 43,472 | 366
4624 | KUNS-TV | 4,027,849 | 4,015,626 | 33,852
86532 | KUOK | 28,974 | 28,945 | 244
66589 | KUON-TV | 1,375,257 | 1,360,005 | 11,465
86263 | KUPB | 318,914 | 318,914 | 2,688
65535 | KUPK | 149,642 | 148,180 | 1,249
27431 | KUPT | 87,602 | 87,602 | 738
89714 | KUPU | 956,178 | 948,005 | 7,992
57884 | KUPX-TV | 2,374,672 | 2,191,229 | 18,472
23074 | KUSA | 3,802,407 | 3,560,546 | 30,015
61072 | KUSD-TV | 460,480 | 460,277 | 3,880
10238 | KUSI-TV | 3,572,818 | 3,435,670 | 28,963
43567 | KUSM-TV | 122,678 | 109,830 | 926
69694 | KUTF | 1,210,774 | 1,031,870 | 8,699
81451 | KUTH-DT | 2,219,788 | 2,027,174 | 17,089
68886 | KUTP | 4,191,015 | 4,176,014 | 35,204
35823 | KUTV | 2,388,625 | 2,199,731 | 18,544
63927 | KUVE-DT | 1,294,971 | 964,396 | 8,130
7700 | KUVI-DT | 1,204,490 | 1,009,943 | 8,514
35841 | KUVN-DT | 6,680,126 | 6,678,157 | 56,297
58609 | KUVS-DT | 4,043,413 | 4,005,657 | 33,768
49766 | KVAL-TV | 1,016,673 | 866,173 | 7,302
32621 | KVAW | 76,153 | 76,153 | 642
58795 | KVCR-DT | 18,215,524 | 17,467,140 | 147,248
35846 | KVCT | 288,221 | 287,446 | 2,423
10195 | KVCW | 1,967,550 | 1,918,809 | 16,176
64969 | KVDA | 2,566,563 | 2,548,720 | 21,486
19783 | KVEA | 17,538,249 | 16,335,335 | 137,707
12523 | KVEO-TV | 1,244,504 | 1,244,504 | 10,491
2495 | KVEW | 476,720 | 464,347 | 3,914
35852 | KVHP | 747,917 | 747,837 | 6,304
49832 | KVIA-TV | 1,015,350 | 1,011,266 | 8,525
35855 | KVIE | 10,759,440 | 7,467,369 | 62,950
40450 | KVIH-TV | 91,912 | 91,564 | 772
40446 | KVII-TV | 379,042 | 378,218 | 3,188
61961 | KVLY-TV | 350,732 | 350,449 | 2,954
16729 | KVMD | 15,274,297 | 14,512,400 | 122,340
83825 | KVME-TV | 26,711 | 22,802 | 192
25735 | KVOA | 1,317,956 | 1,030,404 | 8,686
35862 | KVOS-TV | 2,202,674 | 2,131,652 | 17,970
69733 | KVPT | 1,744,349 | 1,719,318 | 14,494
55372 | KVRR | 356,645 | 356,645 | 3,007
166331 | KVSN-DT | 2,706,244 | 2,283,409 | 19,249
608 | KVTH-DT | 303,755 | 299,230 | 2,523
2784 | KVTJ-DT | 1,466,426 | 1,465,802 | 12,357
607 | KVTN-DT | 936,328 | 925,884 | 7,805
35867 | KVUE | 2,661,290 | 2,611,314 | 22,013
78910 | KVUI | 257,964 | 251,872 | 2,123
35870 | KVVU-TV | 2,045,255 | 1,935,583 | 16,317
36170 | KVYE | 396,495 | 392,498 | 3,309
35095 | KWBA-TV | 1,129,524 | 1,073,029 | 9,046
78314 | KWBM | 657,822 | 639,560 | 5,391
27425 | KWBN | 953,207 | 840,455 | 7,085
76268 | KWBQ | 1,149,598 | 1,107,211 | 9,334
66413 | KWCH-DT | 883,647 | 881,674 | 7,433
71549 | KWCM-TV | 252,284 | 244,033 | 2,057
35419 | KWDK | 4,194,152 | 4,117,852 | 34,713
42007 | KWES-TV | 424,862 | 423,544 | 3,570
50194 | KWET | 127,976 | 112,750 | 950
35881 | KWEX-DT | 2,376,463 | 2,370,469 | 19,983
35883 | KWGN-TV | 3,706,455 | 3,513,537 | 29,619
37099 | KWHB | 979,393 | 978,719 | 8,251
36846 | KWHE | 952,966 | 834,341 | 7,033
26231 | KWHY-TV | 17,736,497 | 17,695,306 | 149,171
35096 | KWKB | 1,121,676 | 1,111,629 | 9,371
162115 | KWKS | 39,708 | 39,323 | 331
12522 | KWKT-TV | 1,299,675 | 1,298,478 | 10,946
21162 | KWNB-TV | 91,093 | 89,332 | 753
67347 | KWOG | 512,412 | 505,049 | 4,258
56852 | KWPX-TV | 4,220,008 | 4,148,577 | 34,973
6885 | KWQC-TV | 1,063,507 | 1,054,618 | 8,890
29121 | KWSD | 280,675 | 280,672 | 2,366
53318 | KWSE | 54,471 | 53,400 | 450
71024 | KWSU-TV | 725,554 | 468,295 | 3,948
25382 | KWTV-DT | 1,628,106 | 1,627,198 | 13,717
35903 | KWTX-TV | 2,071,023 | 1,972,365 | 16,627
593 | KWWL | 1,089,498 | 1,078,458 | 9,091
84410 | KWWT | 293,291 | 293,291 | 2,472
14674 | KWYB | 86,495 | 69,598 | 587
10032 | KWYP-DT | 128,874 | 126,992 | 1,071
35920 | KXAN-TV | 2,678,666 | 2,624,648 | 22,126
49330 | KXAS-TV | 6,774,295 | 6,771,827 | 57,087
24287 | KXGN-TV | 14,217 | 13,883 | 117
35954 | KXII | 2,323,974 | 2,264,951 | 19,094
55083 | KXLA | 17,929,100 | 16,794,896 | 141,581
35959 | KXLF-TV | 258,100 | 217,808 | 1,836
53847 | KXLN-DT | 6,085,891 | 6,085,712 | 51,303
35906 | KXLT-TV | 348,025 | 347,296 | 2,928
61978 | KXLY-TV | 772,116 | 740,960 | 6,246
55684 | KXMA-TV | 32,005 | 31,909 | 269
55686 | KXMB-TV | 142,755 | 138,506 | 1,168
55685 | KXMC-TV | 97,569 | 89,483 | 754
55683 | KXMD-TV | 37,962 | 37,917 | 320
47995 | KXNE-TV | 305,839 | 304,682 | 2,568
81593 | KXNW | 602,168 | 597,747 | 5,039
35991 | KXRM-TV | 1,843,363 | 1,500,689 | 12,651
1255 | KXTF | 140,746 | 140,312 | 1,183
25048 | KXTV | 10,759,864 | 7,477,140 | 63,032
35994 | KXTX-TV | 6,721,578 | 6,718,616 | 56,638
62293 | KXVA | 185,478 | 185,276 | 1,562
23277 | KXVO | 1,404,703 | 1,403,380 | 11,830
9781 | KXXV | 1,771,620 | 1,748,287 | 14,738
31870 | KYAZ | 6,038,257 | 6,038,071 | 50,901
29086 | KYIN | 581,748 | 574,691 | 4,845
60384 | KYLE-TV | 323,330 | 323,225 | 2,725
33639 | KYMA-DT | 396,278 | 391,619 | 3,301
47974 | KYNE-TV | 980,094 | 979,887 | 8,260
53820 | KYOU-TV | 651,334 | 640,935 | 5,403
36003 | KYTV | 1,095,904 | 1,083,524 | 9,134
55644 | KYTX | 927,327 | 925,550 | 7,802
13815 | KYUR | 379,943 | 379,027 | 3,195
5237 | KYUS-TV | 12,496 | 12,356 | 104
33752 | KYVE | 301,951 | 259,559 | 2,188
55762 | KYVV-TV | 67,201 | 67,201 | 567
25453 | KYW-TV | 11,212,189 | 11,008,413 | 92,801
69531 | KZJL | 6,037,458 | 6,037,272 | 50,894
69571 | KZJO | 4,147,016 | 4,097,776 | 34,544
61062 | KZSD-TV | 41,207 | 35,825 | 302
33079 | KZTV | 567,635 | 564,464 | 4,758
57292 | WAAY-TV | 1,498,006 | 1,428,197 | 12,040
1328 | WABC-TV | 20,948,273 | 20,560,001 | 173,321
4190 | WABE-TV | 5,308,575 | 5,291,523 | 44,608
43203 | WABG-TV | 393,020 | 392,348 | 3,307
17005 | WABI-TV | 530,773 | 510,729 | 4,305
16820 | WABM | 1,772,367 | 1,742,240 | 14,687
23917 | WABW-TV | 1,097,560 | 1,096,376 | 9,242
19199 | WACH | 1,403,222 | 1,400,385 | 11,805
189358 | WACP | 9,415,263 | 9,301,049 | 78,408
23930 | WACS-TV | 786,536 | 783,207 | 6,602
60018 | WACX | 4,292,829 | 4,288,149 | 36,149
361 | WACY-TV | 946,580 | 946,071 | 7,975
455 | WADL | 4,610,065 | 4,606,521 | 38,833
589 | WAFB | 1,857,882 | 1,857,418 | 15,658
591 | WAFF | 1,527,517 | 1,456,436 | 12,278
70689 | WAGA-TV | 6,000,355 | 5,923,191 | 49,933
48305 | WAGM-TV | 64,721 | 63,331 | 534
37809 | WAGV | 1,313,257 | 1,159,076 | 9,771
706 | WAIQ | 611,733 | 609,794 | 5,141
701 | WAKA | 799,637 | 793,645 | 6,690
4143 | WALA-TV | 1,320,419 | 1,318,127 | 11,112
70713 | WALB | 773,899 | 772,467 | 6,512
60536 | WAMI-DT | 5,449,193 | 5,449,193 | 45,937
70852 | WAND | 1,388,118 | 1,386,074 | 11,685
39270 | WANE-TV | 1,146,442 | 1,146,442 | 9,665
52280 | WAOE | 2,963,253 | 2,907,224 | 24,508
64546 | WAOW | 636,957 | 629,068 | 5,303
52073 | WAPA-TV ² ⁷ | 3,764,742 | 2,794,738 | 23,560
49712 | WAPT | 793,621 | 791,620 | 6,673
67792 | WAQP | 2,135,670 | 2,131,399 | 17,968
13206 | WATC-DT | 5,732,204 | 5,705,819 | 48,100
71082 | WATE-TV | 1,874,433 | 1,638,059 | 13,809
22819 | WATL | 5,882,837 | 5,819,099 | 49,055
20287 | WATM-TV | 893,989 | 749,183 | 6,316
11907 | WATN-TV | 1,787,595 | 1,784,560 | 15,044
13989 | WAVE | 1,891,797 | 1,880,563 | 15,853
71127 | WAVY-TV | 2,080,708 | 2,080,691 | 17,540
54938 | WAWD | 579,079 | 579,023 | 4,881
65247 | WAWV-TV | 705,790 | 700,361 | 5,904
12793 | WAXN-TV | 2,677,951 | 2,669,224 | 22,502
65696 | WBAL-TV | 9,743,335 | 9,344,875 | 78,777
74417 | WBAY-TV | 1,225,928 | 1,225,335 | 10,330
71085 | WBBH-TV | 2,017,267 | 2,017,267 | 17,006
65204 | WBBJ-TV | 662,148 | 658,839 | 5,554
9617 | WBBM-TV | 9,914,233 | 9,907,806 | 83,523
9088 | WBBZ-TV | 1,269,256 | 1,260,686 | 10,628
70138 | WBDT | 3,831,757 | 3,819,550 | 32,199
51349 | WBEC-TV | 5,421,355 | 5,421,355 | 45,702
10758 | WBFF | 8,523,983 | 8,381,042 | 70,652
12497 | WBFS-TV | 5,349,613 | 5,349,613 | 45,097
6568 | WBGU-TV | 1,343,816 | 1,343,816 | 11,328
81594 | WBIF | 309,707 | 309,707 | 2,611
84802 | WBIH | 718,439 | 706,994 | 5,960
717 | WBIQ | 1,563,080 | 1,532,266 | 12,917
46984 | WBIR-TV | 1,978,347 | 1,701,857 | 14,347
67048 | WBKB-TV | 136,823 | 130,625 | 1,101
34167 | WBKI | 2,104,090 | 2,085,393 | 17,580
4692 | WBKO | 963,413 | 862,651 | 7,272
76001 | WBKP | 55,655 | 55,305 | 466
68427 | WBMM | 562,284 | 562,123 | 4,739
73692 | WBNA | 1,699,683 | 1,666,248 | 14,046
23337 | WBNG-TV | 1,435,634 | 1,051,932 | 8,868
71217 | WBNS-TV | 2,847,721 | 2,784,795 | 23,476
72958 | WBNX-TV | 3,639,256 | 3,630,531 | 30,605
71218 | WBOC-TV | 813,888 | 813,888 | 6,861
71220 | WBOY-TV | 711,302 | 621,367 | 5,238
60850 | WBPH-TV | 10,613,847 | 9,474,797 | 79,873
7692 | WBPX-TV | 6,833,712 | 6,761,949 | 57,003
5981 | WBRA-TV | 1,726,408 | 1,677,204 | 14,139
71221 | WBRC | 1,884,007 | 1,849,135 | 15,588
71225 | WBRE-TV | 2,879,196 | 2,244,735 | 18,923
38616 | WBRZ-TV | 2,223,336 | 2,222,309 | 18,734
82627 | WBSF | 1,836,543 | 1,832,446 | 15,448
30826 | WBTV | 4,433,795 | 4,296,893 | 36,223
66407 | WBTW | 1,975,457 | 1,959,172 | 16,516
16363 | WBUI | 981,884 | 981,868 | 8,277
59281 | WBUP | 126,472 | 112,603 | 949
60830 | WBUY-TV | 1,569,254 | 1,567,815 | 13,217
72971 | WBXX-TV | 2,142,759 | 1,984,544 | 16,730
25456 | WBZ-TV | 7,960,556 | 7,730,847 | 65,171
63153 | WCAU | 11,269,831 | 11,098,540 | 93,561
363 | WCAV | 1,032,270 | 874,886 | 7,375
46728 | WCAX-TV | 784,748 | 665,685 | 5,612
39659 | WCBB | 964,079 | 910,222 | 7,673
10587 | WCBD-TV | 1,149,489 | 1,149,489 | 9,690
12477 | WCBI-TV | 680,511 | 678,424 | 5,719
9610 | WCBS-TV | 22,087,789 | 21,511,236 | 181,340
49157 | WCCB | 3,642,232 | 3,574,928 | 30,137
9629 | WCCO-TV | 3,837,442 | 3,829,714 | 32,284
14050 | WCCT-TV | 5,818,471 | 5,307,612 | 44,743
69544 | WCCU | 694,550 | 693,317 | 5,845
3001 | WCCV-TV | 3,391,703 | 2,062,994 | 17,391
23937 | WCES-TV | 1,098,868 | 1,097,706 | 9,254
65666 | WCET | 3,123,290 | 3,110,519 | 26,222
46755 | WCFE-TV | 459,417 | 419,756 | 3,539
71280 | WCHS-TV | 1,352,824 | 1,274,766 | 10,746
42124 | WCIA | 834,084 | 833,547 | 7,027
711 | WCIQ | 3,186,320 | 3,016,907 | 25,433
71428 | WCIU-TV | 10,052,136 | 10,049,244 | 84,715
9015 | WCIV | 1,152,800 | 1,152,800 | 9,718
42116 | WCIX | 554,002 | 549,911 | 4,636
16993 | WCJB-TV | 977,492 | 977,492 | 8,240
11125 | WCLF | 4,097,389 | 4,096,624 | 34,535
68007 | WCLJ-TV | 2,305,723 | 2,303,534 | 19,419
50781 | WCMH-TV | 2,756,260 | 2,712,989 | 22,870
9917 | WCML | 233,439 | 224,255 | 1,890
9908 | WCMU-TV | 707,702 | 699,551 | 5,897
9922 | WCMV | 425,499 | 411,288 | 3,467
9913 | WCMW | 106,975 | 104,859 | 884
32326 | WCNC-TV | 3,883,049 | 3,809,706 | 32,116
53734 | WCNY-TV | 1,342,821 | 1,279,429 | 10,786
73642 | WCOV-TV | 889,102 | 884,417 | 7,456
40618 | WCPB | 560,426 | 560,426 | 4,724
59438 | WCPO-TV | 3,330,885 | 3,313,654 | 27,934
10981 | WCPX-TV | 9,753,235 | 9,751,916 | 82,209
71297 | WCSC-TV | 1,028,018 | 1,028,018 | 8,666
39664 | WCSH | 1,755,325 | 1,548,824 | 13,057
69479 | WCTE | 612,760 | 541,314 | 4,563
18334 | WCTI-TV | 1,688,065 | 1,685,638 | 14,210
31590 | WCTV | 1,065,524 | 1,065,464 | 8,982
33081 | WCTX | 7,844,936 | 7,332,431 | 61,812
65684 | WCVB-TV | 7,780,868 | 7,618,496 | 64,224
9987 | WCVE-TV | 1,721,004 | 1,712,249 | 14,434
83304 | WCVI-TV | 50,601 | 50,495 | 426
34204 | WCVN-TV | 2,129,816 | 2,120,349 | 17,875
9989 | WCVW | 1,505,484 | 1,505,330 | 12,690
73042 | WCWF | 1,077,314 | 1,077,194 | 9,081
35385 | WCWG | 3,630,551 | 3,299,114 | 27,812
29712 | WCWJ | 1,661,270 | 1,661,132 | 14,003
73264 | WCWN | 1,909,223 | 1,621,751 | 13,671
2455 | WCYB-TV | 2,363,002 | 2,057,404 | 17,344
11291 | WDAF-TV | 2,539,581 | 2,537,411 | 21,390
21250 | WDAM-TV | 512,594 | 500,343 | 4,218
22129 | WDAY-TV | 339,239 | 338,856 | 2,857
22124 | WDAZ-TV | 151,720 | 151,659 | 1,278
71325 | WDBB | 1,792,728 | 1,762,643 | 14,859
71326 | WDBD | 940,665 | 939,489 | 7,920
71329 | WDBJ | 1,626,017 | 1,435,762 | 12,103
51567 | WDCA | 8,101,358 | 8,049,329 | 67,856
16530 | WDCQ-TV | 1,269,199 | 1,269,199 | 10,699
30576 | WDCW | 8,155,998 | 8,114,847 | 68,408
54385 | WDEF-TV | 1,730,762 | 1,530,403 | 12,901
32851 | WDFX-TV | 271,499 | 270,942 | 2,284
43846 | WDHN | 452,377 | 451,978 | 3,810
71338 | WDIO-DT | 341,506 | 327,469 | 2,761
714 | WDIQ | 663,062 | 620,124 | 5,228
53114 | WDIV-TV | 5,450,318 | 5,450,174 | 45,945
71427 | WDJT-TV | 3,267,652 | 3,256,507 | 27,452
39561 | WDKA | 658,699 | 658,277 | 5,549
64017 | WDKY-TV | 1,204,817 | 1,173,579 | 9,893
67893 | WDLI-TV | 4,147,298 | 4,114,920 | 34,689
72335 | WDPB | 596,888 | 596,888 | 5,032
83740 | WDPM-DT | 1,365,977 | 1,364,744 | 11,505
1283 | WDPN-TV | 11,594,463 | 11,467,616 | 96,672
6476 | WDPX-TV | 6,833,712 | 6,761,949 | 57,003
28476 | WDRB | 2,054,813 | 2,037,086 | 17,173
12171 | WDSC-TV | 3,389,559 | 3,389,559 | 28,574
17726 | WDSE | 330,994 | 316,643 | 2,669
71353 | WDSI-TV | 1,100,302 | 1,042,191 | 8,786
71357 | WDSU | 1,649,083 | 1,649,083 | 13,902
7908 | WDTI | 2,092,242 | 2,091,941 | 17,635
65690 | WDTN | 3,831,757 | 3,819,550 | 32,199
70592 | WDTV | 962,532 | 850,394 | 7,169
25045 | WDVM-TV | 3,074,837 | 2,646,508 | 22,310
4110 | WDWL | 2,638,361 | 1,977,410 | 16,670
49421 | WEAO | 3,960,217 | 3,945,408 | 33,260
71363 | WEAR-TV | 1,520,973 | 1,520,386 | 12,817
7893 | WEAU | 1,006,393 | 971,050 | 8,186
61003 | WEBA-TV | 641,354 | 632,282 | 5,330
19561 | WECN | 2,886,669 | 2,157,288 | 18,186
48666 | WECT | 1,156,807 | 1,156,807 | 9,752
13602 | WEDH | 5,328,800 | 4,724,167 | 39,825
13607 | WEDN | 3,451,170 | 2,643,344 | 22,283
69338 | WEDQ | 5,379,887 | 5,365,612 | 45,232
21808 | WEDU | 5,379,887 | 5,365,612 | 45,232
13594 | WEDW | 5,996,408 | 5,544,708 | 46,742
13595 | WEDY | 5,328,800 | 4,724,167 | 39,825
24801 | WEEK-TV | 752,596 | 752,539 | 6,344
6744 | WEFS | 3,380,743 | 3,380,743 | 28,500
24215 | WEHT | 857,558 | 844,070 | 7,116
721 | WEIQ | 1,055,632 | 1,055,193 | 8,895
18301 | WEIU-TV | 458,480 | 458,416 | 3,864
69271 | WEKW-TV | 1,263,049 | 773,108 | 6,517
60825 | WELF-TV | 1,477,691 | 1,387,044 | 11,693
26602 | WELU | 2,248,146 | 1,678,682 | 14,151
40761 | WEMT | 1,726,085 | 1,186,706 | 10,004
69237 | WENH-TV | 4,500,498 | 4,328,222 | 36,487
71508 | WENY-TV | 656,240 | 517,754 | 4,365
83946 | WEPH | 604,105 | 602,833 | 5,082
81508 | WEPX-TV | 950,012 | 950,012 | 8,009
25738 | WESH | 4,063,973 | 4,053,252 | 34,169
65670 | WETA-TV | 8,315,499 | 8,258,807 | 69,622
69944 | WETK | 670,087 | 558,842 | 4,711
60653 | WETM-TV | 870,206 | 770,731 | 6,497
18252 | WETP-TV | 2,167,383 | 1,888,574 | 15,921
2709 | WEUX | 380,569 | 373,680 | 3,150
72041 | WEVV-TV | 752,417 | 751,094 | 6,332
59441 | WEWS-TV | 4,112,984 | 4,078,299 | 34,380
72052 | WEYI-TV | 3,715,686 | 3,652,991 | 30,795
72054 | WFAA | 6,917,502 | 6,907,616 | 58,231
81669 | WFBD | 817,914 | 817,389 | 6,891
69532 | WFDC-DT | 8,155,998 | 8,114,847 | 68,408
10132 | WFFF-TV | 633,649 | 552,182 | 4,655
25040 | WFFT-TV | 1,095,429 | 1,095,411 | 9,234
11123 | WFGC | 3,018,351 | 3,018,351 | 25,445
6554 | WFGX | 1,493,866 | 1,493,319 | 12,589
13991 | WFIE | 743,079 | 740,909 | 6,246
715 | WFIQ | 546,563 | 544,258 | 4,588
64592 | WFLA-TV | 5,583,544 | 5,576,649 | 47,011
22211 | WFLD | 9,957,301 | 9,954,828 | 83,919
72060 | WFLI-TV | 1,294,209 | 1,189,897 | 10,031
39736 | WFLX | 5,740,086 | 5,740,086 | 48,389
72062 | WFMJ-TV | 4,328,477 | 3,822,691 | 32,225
72064 | WFMY-TV | 4,772,783 | 4,746,167 | 40,010
39884 | WFMZ-TV | 10,613,847 | 9,474,797 | 79,873
83943 | WFNA | 1,391,519 | 1,390,447 | 11,721
47902 | WFOR-TV | 5,398,266 | 5,398,266 | 45,507
11909 | WFOX-TV | 1,603,324 | 1,603,324 | 13,516
40626 | WFPT | 5,829,153 | 5,442,279 | 45,878
21245 | WFPX-TV | 2,637,949 | 2,634,141 | 22,206
25396 | WFQX-TV | 537,340 | 534,314 | 4,504
9635 | WFRV-TV | 1,263,353 | 1,256,376 | 10,591
53115 | WFSB | 4,752,788 | 4,370,519 | 36,843
6093 | WFSG | 364,961 | 364,796 | 3,075
21801 | WFSU-TV | 576,105 | 576,093 | 4,856
11913 | WFTC | 3,787,177 | 3,770,207 | 31,783
64588 | WFTS-TV | 5,236,379 | 5,236,287 | 44,142
16788 | WFTT-TV | 4,523,828 | 4,521,879 | 38,119
72076 | WFTV | 3,882,888 | 3,882,888 | 32,733
70649 | WFTX-TV | 1,758,172 | 1,758,172 | 14,821
60553 | WFTY-DT | 5,678,755 | 5,560,460 | 46,875
25395 | WFUP | 234,863 | 234,436 | 1,976
60555 | WFUT-DT | 20,362,721 | 19,974,644 | 168,386
22108 | WFWA | 1,035,114 | 1,034,862 | 8,724
9054 | WFXB | 1,393,865 | 1,393,510 | 11,747
3228 | WFXG | 1,070,032 | 1,057,760 | 8,917
70815 | WFXL | 793,637 | 785,106 | 6,618
19707 | WFXP | 583,315 | 562,500 | 4,742
24813 | WFXR | 1,426,061 | 1,286,450 | 10,845
6463 | WFXT | 7,494,070 | 7,400,830 | 62,389
22245 | WFXU | 218,273 | 218,273 | 1,840
43424 | WFXV | 702,682 | 612,494 | 5,163
25236 | WFXW | 274,078 | 270,967 | 2,284
41397 | WFYI | 2,389,627 | 2,388,970 | 20,139
53930 | WGAL | 6,287,688 | 5,610,833 | 47,299
2708 | WGBA-TV | 1,170,375 | 1,170,127 | 9,864
24314 | WGBC | 249,415 | 249,235 | 2,101
72099 | WGBH-TV | 7,711,842 | 7,601,732 | 64,083
12498 | WGBO-DT | 9,828,737 | 9,826,530 | 82,838
11113 | WGBP-TV | 1,820,589 | 1,812,232 | 15,277
72098 | WGBX-TV | 7,803,280 | 7,636,641 | 64,377
72096 | WGBY-TV | 4,470,009 | 3,739,675 | 31,525
72120 | WGCL-TV | 6,027,276 | 5,961,471 | 50,255
62388 | WGCU | 1,510,671 | 1,510,671 | 12,735
54275 | WGEM-TV | 361,598 | 356,682 | 3,007
27387 | WGEN-TV | 43,037 | 43,037 | 363
7727 | WGFL | 877,163 | 877,163 | 7,394
25682 | WGGB-TV | 3,443,386 | 3,053,436 | 25,740
11027 | WGGN-TV | 4,002,841 | 3,981,382 | 33,563
9064 | WGGS-TV | 2,759,326 | 2,705,067 | 22,804
72106 | WGHP | 4,174,964 | 4,123,106 | 34,758
710 | WGIQ | 363,849 | 363,806 | 3,067
12520 | WGMB-TV | 1,742,708 | 1,742,659 | 14,691
25683 | WGME-TV | 1,495,724 | 1,325,465 | 11,174
24618 | WGNM | 742,458 | 741,502 | 6,251
72119 | WGNO | 1,641,765 | 1,641,765 | 13,840
9762 | WGNT | 2,128,079 | 2,127,891 | 17,938
72115 | WGN-TV | 9,942,959 | 9,941,552 | 83,807
40619 | WGPT | 578,294 | 344,300 | 2,902
65074 | WGPX-TV | 2,765,350 | 2,754,743 | 23,222
64547 | WGRZ | 1,878,725 | 1,812,309 | 15,278
63329 | WGTA | 1,061,654 | 1,030,538 | 8,687
66285 | WGTE-TV | 2,210,496 | 2,208,927 | 18,621
59279 | WGTQ | 95,618 | 92,019 | 776
59280 | WGTU | 358,543 | 353,477 | 2,980
23948 | WGTV | 5,989,342 | 5,917,966 | 49,888
7623 | WGTW-TV | 807,797 | 807,797 | 6,810
24783 | WGVK | 2,439,225 | 2,437,526 | 20,548
24784 | WGVU-TV | 1,825,744 | 1,784,264 | 15,041
21536 | WGWG | 986,963 | 986,963 | 8,320
56642 | WGWW | 1,677,166 | 1,647,976 | 13,892
58262 | WGXA | 779,955 | 779,087 | 6,568
73371 | WHAM-TV | 1,381,564 | 1,334,653 | 11,251
32327 | WHAS-TV | 1,955,983 | 1,925,901 | 16,235
6096 | WHA-TV | 1,635,777 | 1,628,950 | 13,732
13950 | WHBF-TV | 1,712,339 | 1,704,072 | 14,365
12521 | WHBQ-TV | 1,736,335 | 1,708,345 | 14,401
10894 | WHBR | 1,302,764 | 1,302,041 | 10,976
65128 | WHDF | 1,553,469 | 1,502,852 | 12,669
72145 | WHDH | 7,441,208 | 7,343,735 | 61,908
83929 | WHDT | 5,768,239 | 5,768,239 | 48,626
70041 | WHEC-TV | 1,322,243 | 1,279,606 | 10,787
67971 | WHFT-TV | 5,417,409 | 5,417,409 | 45,669
41458 | WHIO-TV | 3,877,520 | 3,868,597 | 32,612
713 | WHIQ | 1,278,174 | 1,225,940 | 10,335
61216 | WHIZ-TV | 911,245 | 840,696 | 7,087
65919 | WHKY-TV | 3,358,493 | 3,294,261 | 27,771
18780 | WHLA-TV | 554,446 | 515,561 | 4,346
48668 | WHLT | 484,432 | 483,532 | 4,076
24582 | WHLV-TV | 3,906,201 | 3,906,201 | 32,929
37102 | WHMB-TV | 2,959,585 | 2,889,145 | 24,355
61004 | WHMC | 774,921 | 774,921 | 6,533
36117 | WHME-TV | 1,455,358 | 1,455,110 | 12,267
37106 | WHNO | 1,499,653 | 1,499,653 | 12,642
72300 | WHNS | 2,549,610 | 2,270,868 | 19,143
48693 | WHNT-TV | 1,569,885 | 1,487,578 | 12,540
66221 | WHO-DT | 1,120,480 | 1,099,818 | 9,271
6866 | WHOI | 736,125 | 736,047 | 6,205
72313 | WHP-TV | 4,030,693 | 3,538,096 | 29,826
51980 | WHPX-TV | 5,579,464 | 5,114,336 | 43,114
73036 | WHRM-TV | 535,778 | 532,820 | 4,492
25932 | WHRO-TV | 2,169,238 | 2,169,237 | 18,287
68058 | WHSG-TV | 5,870,314 | 5,808,605 | 48,967
4688 | WHSV-TV | 845,013 | 711,912 | 6,001
9990 | WHTJ | 807,960 | 690,381 | 5,820
72326 | WHTM-TV | 2,829,585 | 2,367,000 | 19,954
11117 | WHTN | 1,914,755 | 1,905,733 | 16,065
27772 | WHUT-TV | 7,649,763 | 7,617,337 | 64,214
18793 | WHWC-TV | 1,123,941 | 1,091,281 | 9,199
72338 | WHYY-TV | 10,448,829 | 10,049,700 | 84,719
5360 | WIAT | 1,837,072 | 1,802,810 | 15,198
63160 | WIBW-TV | 1,234,347 | 1,181,009 | 9,956
25684 | WICD | 1,238,332 | 1,237,046 | 10,428
25686 | WICS | 1,149,358 | 1,147,264 | 9,671
24970 | WICU-TV | 740,115 | 683,435 | 5,761
62210 | WICZ-TV | 1,249,974 | 965,416 | 8,138
18410 | WIDP | 2,559,306 | 1,899,768 | 16,015
26025 | WIFS | 1,583,693 | 1,578,870 | 13,310
720 | WIIQ | 353,241 | 347,685 | 2,931
68939 | WILL-TV | 1,178,545 | 1,158,147 | 9,763
6863 | WILX-TV | 3,378,644 | 3,218,221 | 27,130
22093 | WINK-TV | 1,851,105 | 1,851,105 | 15,605
67787 | WINM | 1,001,485 | 971,031 | 8,186
41314 | WINP-TV | 2,935,057 | 2,883,944 | 24,312
3646 | WIPB | 1,965,353 | 1,965,174 | 16,566
48408 | WIPL | 850,656 | 799,165 | 6,737
53863 | WIPM-TV ¹ | 2,196,157 | 1,554,017 | 2,435
53859 | WIPR-TV ¹ | 3,596,802 | 2,811,148 | 23,698
10253 | WIPX-TV | 2,305,723 | 2,303,534 | 19,419
39887 | WIRS¹² | 1,091,825 | 757,978 | 5,056
71336 | WIRT-DT | 127,001 | 126,300 | 1,065
13990 | WIS | 2,644,715 | 2,600,887 | 21,925
65143 | WISC-TV | 1,734,112 | 1,697,537 | 14,310
13960 | WISE-TV | 1,070,155 | 1,070,155 | 9,021
39269 | WISH-TV | 2,912,963 | 2,855,253 | 24,070
65680 | WISN-TV | 3,003,636 | 2,997,695 | 25,271
73083 | WITF-TV | 2,412,561 | 2,191,501 | 18,474
73107 | WITI | 3,111,641 | 3,102,097 | 26,151
594 | WITN-TV | 1,861,458 | 1,836,905 | 15,485
61005 | WITV | 871,783 | 871,783 | 7,349
7780 | WIVB-TV | 1,900,503 | 1,820,106 | 15,343
11260 | WIVT | 855,138 | 613,934 | 5,175
60571 | WIWN | 3,338,845 | 3,323,941 | 28,021
62207 | WIYC | 639,641 | 637,499 | 5,374
73120 | WJAC-TV | 2,219,529 | 1,897,986 | 16,000
10259 | WJAL | 8,750,706 | 8,446,074 | 71,200
50780 | WJAR | 7,108,180 | 6,976,099 | 58,809
35576 | WJAX-TV | 1,630,782 | 1,630,782 | 13,747
27140 | WJBF | 1,601,088 | 1,588,444 | 13,391
73123 | WJBK | 5,748,623 | 5,711,224 | 48,146
37174 | WJCL | 938,086 | 938,086 | 7,908
73130 | WJCT | 1,618,817 | 1,617,292 | 13,634
29719 | WJEB-TV | 1,607,603 | 1,607,603 | 13,552
65749 | WJET-TV | 747,431 | 717,721 | 6,050
7651 | WJFB | 2,310,517 | 2,302,217 | 19,408
49699 | WJFW-TV | 277,530 | 268,295 | 2,262
73136 | WJHG-TV | 864,121 | 859,823 | 7,248
57826 | WJHL-TV | 2,034,663 | 1,462,129 | 12,326
68519 | WJKT | 655,780 | 655,373 | 5,525
1051 | WJLA-TV | 8,750,706 | 8,447,643 | 71,214
86537 | WJLP | 21,384,863 | 21,119,366 | 178,036
9630 | WJMN-TV | 160,991 | 154,424 | 1,302
61008 | WJPM-TV | 623,939 | 623,787 | 5,259
58340 | WJPX ⁶ ¹⁰ ¹² | 3,254,481 | 2,500,195 | 21,077
21735 | WJRT-TV | 2,788,684 | 2,543,446 | 21,441
23918 | WJSP-TV | 4,225,860 | 4,188,428 | 35,308
41210 | WJTC | 1,381,529 | 1,379,283 | 11,627
48667 | WJTV | 987,206 | 980,717 | 8,267
73150 | WJW | 3,977,148 | 3,905,325 | 32,922
61007 | WJWJ-TV | 1,034,555 | 1,034,555 | 8,721
58342 | WJWN-TV ⁶ | 2,063,156 | 1,461,497 | 5,056
53116 | WJXT | 1,622,616 | 1,622,616 | 13,679
11893 | WJXX | 1,618,191 | 1,617,272 | 13,634
32334 | WJYS | 9,667,341 | 9,667,317 | 81,495
25455 | WJZ-TV | 9,743,335 | 9,350,346 | 78,823
73152 | WJZY | 4,432,745 | 4,301,117 | 36,258
64983 | WKAQ-TV ³ | 3,697,088 | 2,731,588 | 2,843
6104 | WKAR-TV | 1,693,373 | 1,689,830 | 14,245
34171 | WKAS | 542,308 | 512,994 | 4,325
51570 | WKBD-TV | 5,065,617 | 5,065,350 | 42,701
73153 | WKBN-TV | 4,898,622 | 4,535,576 | 38,235
13929 | WKBS-TV | 1,082,894 | 937,847 | 7,906
74424 | WKBT-DT | 866,325 | 824,795 | 6,953
54176 | WKBW-TV | 2,247,191 | 2,161,366 | 18,220
53465 | WKCF | 4,241,181 | 4,240,354 | 35,746
73155 | WKEF | 3,730,595 | 3,716,127 | 31,327
34177 | WKGB-TV | 413,268 | 411,587 | 3,470
34196 | WKHA | 511,281 | 400,721 | 3,378
34207 | WKLE | 856,237 | 846,630 | 7,137
34212 | WKMA-TV | 524,617 | 524,035 | 4,418
71293 | WKMG-TV | 3,817,673 | 3,817,673 | 32,183
34195 | WKMJ-TV | 1,477,906 | 1,470,645 | 12,398
34202 | WKMR | 463,316 | 428,462 | 3,612
34174 | WKMU | 344,430 | 344,050 | 2,900
42061 | WKNO | 1,645,867 | 1,642,092 | 13,843
83931 | WKNX-TV | 1,684,178 | 1,459,493 | 12,304
34205 | WKOH | 584,645 | 579,258 | 4,883
67869 | WKOI-TV | 3,831,757 | 3,819,550 | 32,199
34211 | WKON | 1,080,274 | 1,072,320 | 9,040
18267 | WKOP-TV | 1,555,654 | 1,382,098 | 11,651
64545 | WKOW | 1,918,224 | 1,899,746 | 16,015
21432 | WKPC-TV | 1,525,919 | 1,517,701 | 12,794
65758 | WKPD | 283,454 | 282,250 | 2,379
34200 | WKPI-TV | 606,666 | 481,220 | 4,057
27504 | WKPT-TV | 1,131,213 | 887,806 | 7,484
58341 | WKPV ¹⁰ | 1,132,932 | 731,199 | 5,056
11289 | WKRC-TV | 3,281,914 | 3,229,223 | 27,222
73187 | WKRG-TV | 1,526,600 | 1,526,075 | 12,865
73188 | WKRN-TV | 2,409,767 | 2,388,588 | 20,136
34222 | WKSO-TV | 658,441 | 642,090 | 5,413
40902 | WKTC | 1,387,229 | 1,386,779 | 11,691
60654 | WKTV | 1,573,503 | 1,342,387 | 11,316
73195 | WKYC | 4,180,327 | 4,124,135 | 34,766
24914 | WKYT-TV | 1,174,615 | 1,156,978 | 9,753
71861 | WKYU-TV | 411,448 | 409,310 | 3,450
34181 | WKZT-TV | 1,044,532 | 1,020,878 | 8,606
18819 | WLAE-TV | 1,397,967 | 1,397,967 | 11,785
36533 | WLAJ | 4,100,475 | 4,063,963 | 34,259
2710 | WLAX | 469,017 | 447,381 | 3,771
68542 | WLBT | 948,671 | 947,857 | 7,990
39644 | WLBZ | 373,129 | 364,346 | 3,071
69328 | WLED-TV | 332,718 | 174,998 | 1,475
63046 | WLEF-TV | 200,517 | 199,188 | 1,679
73203 | WLEX-TV | 969,481 | 964,735 | 8,133
37806 | WLFB | 798,916 | 688,519 | 5,804
37808 | WLFG | 1,614,321 | 1,282,063 | 10,808
73204 | WLFI-TV | 2,243,009 | 2,221,313 | 18,726
73205 | WLFL | 3,747,583 | 3,743,960 | 31,562
19777 | WLII-DT ⁴ ⁸ | 2,801,102 | 2,153,564 | 18,155
37503 | WLIO | 1,067,232 | 1,050,170 | 8,853
38336 | WLIW | 20,027,920 | 19,717,729 | 166,220
27696 | WLJC-TV | 1,401,072 | 1,281,256 | 10,801
71645 | WLJT-DT | 385,493 | 385,380 | 3,249
53939 | WLKY | 1,927,997 | 1,919,810 | 16,184
11033 | WLLA | 2,081,693 | 2,081,436 | 17,547
17076 | WLMB | 2,754,484 | 2,747,490 | 23,161
68518 | WLMT | 1,736,552 | 1,733,496 | 14,613
22591 | WLNE-TV | 6,429,522 | 6,381,825 | 53,799
74420 | WLNS-TV | 4,100,475 | 4,063,963 | 34,259
73206 | WLNY-TV | 7,501,199 | 7,415,578 | 62,513
84253 | WLOO | 913,960 | 912,674 | 7,694
56537 | WLOS | 3,086,751 | 2,544,360 | 21,449
37732 | WLOV-TV | 609,526 | 607,780 | 5,124
13995 | WLOX | 1,182,149 | 1,170,659 | 9,869
38586 | WLPB-TV | 1,219,624 | 1,219,407 | 10,280
73189 | WLPX-TV | 1,066,912 | 1,022,543 | 8,620
66358 | WLRN-TV | 5,447,399 | 5,447,399 | 45,922
73226 | WLS-TV | 10,174,464 | 10,170,757 | 85,739
73230 | WLTV-DT | 5,427,398 | 5,427,398 | 45,753
37176 | WLTX | 1,580,677 | 1,578,645 | 13,308
37179 | WLTZ | 689,521 | 685,358 | 5,778
21259 | WLUC-TV | 92,246 | 85,393 | 720
4150 | WLUK-TV | 1,251,563 | 1,247,414 | 10,516
73238 | WLVI | 7,441,208 | 7,343,735 | 61,908
36989 | WLVT-TV | 10,613,847 | 9,474,797 | 79,873
3978 | WLWC | 3,281,532 | 3,150,875 | 26,562
46979 | WLWT | 3,367,381 | 3,355,009 | 28,283
54452 | WLXI | 4,184,851 | 4,166,318 | 35,122
55350 | WLYH | 2,829,585 | 2,367,000 | 19,954
43192 | WMAB-TV | 405,483 | 399,560 | 3,368
43170 | WMAE-TV | 686,076 | 653,173 | 5,506
43197 | WMAH-TV | 1,257,393 | 1,256,995 | 10,596
43176 | WMAO-TV | 369,696 | 369,343 | 3,114
47905 | WMAQ-TV | 9,914,395 | 9,913,272 | 83,569
59442 | WMAR-TV | 9,198,495 | 9,072,076 | 76,478
43184 | WMAU-TV | 642,328 | 636,504 | 5,366
43193 | WMAV-TV | 1,008,339 | 1,008,208 | 8,499
43169 | WMAW-TV | 726,173 | 715,450 | 6,031
46991 | WMAZ-TV | 1,185,678 | 1,136,616 | 9,582
66398 | WMBB | 935,027 | 914,607 | 7,710
43952 | WMBC-TV | 18,706,132 | 18,458,331 | 155,604
42121 | WMBD-TV | 742,729 | 742,660 | 6,261
83969 | WMBF-TV | 445,363 | 445,363 | 3,754
60829 | WMCF-TV | 612,942 | 609,635 | 5,139
9739 | WMCN-TV | 10,448,829 | 10,049,700 | 84,719
19184 | WMC-TV | 2,047,403 | 2,043,125 | 17,224
189357 | WMDE | 6,384,827 | 6,257,910 | 52,754
73255 | WMDN | 278,227 | 278,018 | 2,344
16455 | WMDT | 731,868 | 731,868 | 6,170
39656 | WMEA-TV | 902,755 | 853,857 | 7,198
39648 | WMEB-TV | 511,761 | 494,574 | 4,169
70537 | WMEC | 218,027 | 217,839 | 1,836
39649 | WMED-TV | 30,488 | 29,577 | 249
39662 | WMEM-TV | 71,700 | 69,981 | 590
41893 | WMFD-TV | 1,561,367 | 1,324,244 | 11,163
41436 | WMFP | 5,792,048 | 5,564,295 | 46,907
61111 | WMGM-TV | 807,797 | 807,797 | 6,810
43847 | WMGT-TV | 601,894 | 601,309 | 5,069
73263 | WMHT | 1,719,949 | 1,550,977 | 13,075
68545 | WMLW-TV | 1,843,933 | 1,843,663 | 15,542
53819 | WMOR-TV | 5,394,541 | 5,394,541 | 45,476
81503 | WMOW | 121,150 | 105,957 | 893
65944 | WMPB | 7,279,563 | 7,190,696 | 60,618
43168 | WMPN-TV | 856,237 | 854,089 | 7,200
65942 | WMPT | 8,637,742 | 8,584,398 | 72,366
60827 | WMPV-TV | 1,423,052 | 1,422,411 | 11,991
10221 | WMSN-TV | 1,947,942 | 1,927,158 | 16,246
2174 | WMTJ ¹¹ | 3,143,148 | 2,365,308 | 19,940
6870 | WMTV | 1,548,616 | 1,545,459 | 13,028
73288 | WMTW | 1,940,292 | 1,658,816 | 13,984
23935 | WMUM-TV | 925,814 | 920,835 | 7,763
73292 | WMUR-TV | 5,242,334 | 5,057,770 | 42,637
42663 | WMVS | 3,172,534 | 3,112,231 | 26,236
42665 | WMVT | 3,172,534 | 3,112,231 | 26,236
81946 | WMWC-TV | 946,858 | 916,989 | 7,730
56548 | WMYA-TV | 1,650,798 | 1,571,594 | 13,249
74211 | WMYD | 5,750,989 | 5,750,873 | 48,480
20624 | WMYT-TV | 4,432,745 | 4,301,117 | 36,258
25544 | WMYV | 3,901,915 | 3,875,210 | 32,668
73310 | WNAB | 2,176,984 | 2,166,809 | 18,266
73311 | WNAC-TV | 7,310,183 | 6,959,064 | 58,665
47535 | WNBC | 21,952,082 | 21,399,204 | 180,395
83965 | WNBW-DT | 1,400,631 | 1,396,012 | 11,768
72307 | WNCF | 667,683 | 665,950 | 5,614
50782 | WNCN | 3,795,494 | 3,783,131 | 31,892
57838 | WNCT-TV | 1,935,414 | 1,887,929 | 15,915
41674 | WNDU-TV | 1,863,764 | 1,835,398 | 15,472
28462 | WNDY-TV | 2,912,963 | 2,855,253 | 24,070
71928 | WNED-TV | 1,387,961 | 1,370,480 | 11,553
60931 | WNEH | 1,261,482 | 1,255,218 | 10,581
41221 | WNEM-TV | 1,475,094 | 1,471,908 | 12,408
49439 | WNEO | 3,353,869 | 3,271,369 | 27,578
73318 | WNEP-TV | 3,429,213 | 2,838,000 | 23,924
18795 | WNET | 21,113,760 | 20,615,190 | 173,786
51864 | WNEU | 7,135,190 | 7,067,520 | 59,579
23942 | WNGH-TV | 5,744,856 | 5,595,366 | 47,169
67802 | WNIN | 908,275 | 891,946 | 7,519
41671 | WNIT | 1,305,447 | 1,305,447 | 11,005
48457 | WNJB | 20,787,272 | 20,036,393 | 168,907
48477 | WNJN | 20,787,272 | 20,036,393 | 168,907
48481 | WNJS | 7,383,483 | 7,343,269 | 61,904
48465 | WNJT | 7,383,483 | 7,343,269 | 61,904
73333 | WNJU | 21,952,082 | 21,399,204 | 180,395
73336 | WNJX-TV ² | 1,628,732 | 1,170,083 | 2,573
61217 | WNKY | 379,002 | 377,357 | 3,181
71905 | WNLO | 1,900,503 | 1,820,106 | 15,343
4318 | WNMU | 181,736 | 179,662 | 1,515
73344 | WNNE | 792,551 | 676,539 | 5,703
54280 | WNOL-TV | 1,632,389 | 1,632,389 | 13,761
71676 | WNPB-TV | 2,130,047 | 1,941,707 | 16,369
62137 | WNPI-DT | 167,931 | 161,748 | 1,364
41398 | WNPT | 2,266,543 | 2,235,316 | 18,844
28468 | WNPX-TV | 2,084,890 | 2,071,017 | 17,459
61009 | WNSC-TV | 2,431,154 | 2,425,044 | 20,443
61010 | WNTV | 2,419,841 | 2,211,019 | 18,639
16539 | WNTZ-TV | 344,704 | 343,849 | 2,899
7933 | WNUV | 9,098,694 | 8,906,508 | 75,082
9999 | WNVC | 807,960 | 690,381 | 5,820
10019 | WNVT | 1,721,004 | 1,712,249 | 14,434
73354 | WNWO-TV | 2,872,428 | 2,872,250 | 24,213
136751 | WNYA | 1,923,118 | 1,651,777 | 13,924
30303 | WNYB | 1,785,269 | 1,756,096 | 14,804
6048 | WNYE-TV | 19,414,613 | 19,180,858 | 161,695
34329 | WNYI | 1,627,542 | 1,338,811 | 11,286
67784 | WNYO-TV | 1,430,491 | 1,409,756 | 11,884
73363 | WNYT | 1,679,494 | 1,516,775 | 12,786
22206 | WNYW | 20,075,874 | 19,753,060 | 166,518
69618 | WOAI-TV | 2,525,811 | 2,513,887 | 21,192
66804 | WOAY-TV | 581,486 | 443,210 | 3,736
41225 | WOFL | 4,048,104 | 4,043,672 | 34,088
70651 | WOGX | 1,112,408 | 1,112,408 | 9,378
8661 | WOI-DT | 1,173,757 | 1,170,432 | 9,867
39746 | WOIO | 3,821,233 | 3,745,335 | 31,573
71725 | WOLE-DT ⁴ | 1,784,094 | 1,312,984 | 7,978
73375 | WOLF-TV | 2,990,646 | 2,522,858 | 21,268
60963 | WOLO-TV | 2,635,715 | 2,594,980 | 21,876
36838 | WOOD-TV | 2,507,053 | 2,501,084 | 21,084
67602 | WOPX-TV | 3,877,863 | 3,877,805 | 32,690
64865 | WORA-TV ³ ¹³ | 3,594,115 | 2,762,755 | 23,290
73901 | WORO-DT | 3,243,301 | 2,511,742 | 21,174
60357 | WOST | 1,193,381 | 853,762 | 7,197
66185 | WOSU-TV | 2,843,651 | 2,776,901 | 23,409
131 | WOTF-TV | 3,451,383 | 3,451,383 | 29,095
10212 | WOTV | 2,368,797 | 2,368,397 | 19,966
50147 | WOUB-TV | 756,762 | 734,988 | 6,196
50141 | WOUC-TV | 1,713,515 | 1,649,853 | 13,908
23342 | WOWK-TV | 1,159,175 | 1,083,663 | 9,135
65528 | WOWT | 1,380,979 | 1,377,287 | 11,611
31570 | WPAN | 1,254,821 | 1,254,636 | 10,577
51988 | WPBF | 3,190,307 | 3,186,405 | 26,861
21253 | WPBN-TV | 442,005 | 430,953 | 3,633
62136 | WPBS-TV | 338,448 | 301,692 | 2,543
13456 | WPBT | 5,416,604 | 5,416,604 | 45,662
13924 | WPCB-TV | 2,934,614 | 2,800,516 | 23,608
64033 | WPCH-TV | 5,948,778 | 5,874,163 | 49,519
4354 | WPCT | 195,270 | 194,869 | 1,643
69880 | WPCW | 3,393,365 | 3,188,441 | 26,879
17012 | WPDE-TV | 1,772,233 | 1,769,553 | 14,917
52527 | WPEC | 5,764,571 | 5,764,571 | 48,595
84088 | WPFO | 1,329,690 | 1,209,873 | 10,199
54728 | WPGA-TV | 559,495 | 559,025 | 4,713
60820 | WPGD-TV | 2,355,629 | 2,343,715 | 19,758
73875 | WPGH-TV | 3,236,098 | 3,121,767 | 26,316
2942 | WPGX | 425,098 | 422,872 | 3,565
73879 | WPHL-TV | 10,421,216 | 10,246,856 | 86,381
73881 | WPIX | 20,638,932 | 20,213,158 | 170,397
53113 | WPLG | 5,587,129 | 5,587,129 | 47,099
11906 | WPMI-TV | 1,468,001 | 1,467,594 | 12,372
10213 | WPMT | 2,412,561 | 2,191,501 | 18,474
18798 | WPNE-TV | 1,161,295 | 1,160,631 | 9,784
73907 | WPNT | 3,172,170 | 3,064,423 | 25,833
28480 | WPPT | 10,613,847 | 9,474,797 | 79,873
51984 | WPPX-TV | 8,206,117 | 7,995,941 | 67,406
47404 | WPRI-TV | 7,254,721 | 6,990,606 | 58,931
51991 | WPSD-TV | 883,814 | 879,213 | 7,412
12499 | WPSG | 10,798,264 | 10,529,460 | 88,763
66219 | WPSU-TV | 1,055,133 | 868,013 | 7,317
73905 | WPTA | 1,099,180 | 1,099,180 | 9,266
25067 | WPTD | 3,423,417 | 3,411,727 | 28,761
25065 | WPTO | 2,961,254 | 2,951,883 | 24,884
59443 | WPTV-TV | 5,840,102 | 5,840,102 | 49,232
57476 | WPTZ | 792,551 | 676,539 | 5,703
8616 | WPVI-TV | 11,491,587 | 11,302,701 | 95,282
48772 | WPWR-TV | 9,957,301 | 9,954,828 | 83,919
51969 | WPXA-TV | 6,587,205 | 6,458,510 | 54,445
71236 | WPXC-TV | 1,561,014 | 1,561,014 | 13,159
5800 | WPXD-TV | 5,249,447 | 5,249,447 | 44,253
37104 | WPXE-TV | 3,067,071 | 3,057,388 | 25,774
48406 | WPXG-TV | 2,577,848 | 2,512,150 | 21,177
73312 | WPXH-TV | 1,471,601 | 1,451,634 | 12,237
73910 | WPXI | 3,300,896 | 3,197,864 | 26,958
2325 | WPXJ-TV | 2,357,870 | 2,289,706 | 19,302
52628 | WPXK-TV | 1,801,997 | 1,577,806 | 13,301
21729 | WPXL-TV | 1,639,180 | 1,639,180 | 13,818
48608 | WPXM-TV | 5,153,621 | 5,153,621 | 43,445
73356 | WPXN-TV | 20,878,066 | 20,454,468 | 172,431
27290 | WPXP-TV | 5,565,072 | 5,565,072 | 46,914
50063 | WPXQ-TV | 3,281,532 | 3,150,875 | 26,562
70251 | WPXR-TV | 1,375,640 | 1,200,331 | 10,119
40861 | WPXS | 2,339,305 | 2,251,498 | 18,980
53065 | WPXT | 1,002,128 | 952,535 | 8,030
37971 | WPXU-TV | 700,488 | 700,488 | 5,905
67077 | WPXV-TV | 1,919,794 | 1,919,794 | 16,184
74091 | WPXW-TV | 8,075,268 | 8,024,342 | 67,645
21726 | WPXX-TV | 1,562,675 | 1,560,834 | 13,158
73319 | WQAD-TV | 1,101,012 | 1,089,523 | 9,185
65130 | WQCW | 1,307,345 | 1,236,020 | 10,420
71561 | WQEC | 183,969 | 183,690 | 1,549
41315 | WQED | 3,529,305 | 3,426,684 | 28,887
3255 | WQHA | 3,229,803 | 1,875,347 | 15,809
60556 | WQHS-DT | 3,996,567 | 3,952,672 | 33,321
53716 | WQLN | 602,232 | 577,633 | 4,869
52075 | WQMY | 410,269 | 254,586 | 2,146
64550 | WQOW | 369,066 | 358,576 | 3,023
5468 | WQPT-TV | 941,381 | 933,107 | 7,866
64690 | WQPX-TV | 1,644,283 | 1,212,587 | 10,222
52408 | WQRF-TV | 1,375,774 | 1,354,979 | 11,422
2175 | WQTO ¹¹ | 2,864,201 | 1,598,365 | 6,193
8688 | WRAL-TV | 3,852,675 | 3,848,801 | 32,445
10133 | WRAY-TV | 4,184,851 | 4,166,318 | 35,122
64611 | WRAZ | 3,800,594 | 3,797,515 | 32,013
136749 | WRBJ-TV | 1,030,831 | 1,028,010 | 8,666
3359 | WRBL | 1,493,140 | 1,461,459 | 12,320
57221 | WRBU | 2,933,497 | 2,929,776 | 24,698
54940 | WRBW | 4,080,267 | 4,077,341 | 34,372
59137 | WRCB | 1,587,742 | 1,363,582 | 11,495
47904 | WRC-TV | 8,188,601 | 8,146,696 | 68,677
54963 | WRDC | 3,972,477 | 3,966,864 | 33,441
55454 | WRDQ | 3,930,315 | 3,930,315 | 33,133
73937 | WRDW-TV | 1,564,584 | 1,533,682 | 12,929
66174 | WREG-TV | 1,642,307 | 1,638,585 | 13,813
61011 | WRET-TV | 2,419,841 | 2,211,019 | 18,639
73940 | WREX | 2,303,027 | 2,047,951 | 17,264
54443 | WRFB ¹³ | 2,674,527 | 1,975,375 | 2,843
73942 | WRGB | 1,757,575 | 1,645,483 | 13,871
411 | WRGT-TV | 3,451,036 | 3,416,078 | 28,798
74416 | WRIC-TV | 2,059,152 | 1,996,075 | 16,827
61012 | WRJA-TV | 1,204,291 | 1,201,900 | 10,132
412 | WRLH-TV | 2,017,508 | 1,959,111 | 16,515
61013 | WRLK-TV | 1,229,094 | 1,228,616 | 10,357
43870 | WRLM | 3,960,217 | 3,945,408 | 33,260
74156 | WRNN-TV | 19,853,836 | 19,615,370 | 165,358
73964 | WROC-TV | 1,203,412 | 1,185,203 | 9,991
159007 | WRPT | 110,009 | 109,937 | 927
20590 | WRPX-TV | 2,637,949 | 2,634,141 | 22,206
62009 | WRSP-TV | 1,156,134 | 1,154,040 | 9,729
40877 | WRTV | 2,919,683 | 2,895,164 | 24,406
15320 | WRUA | 2,905,193 | 2,121,362 | 17,883
71580 | WRXY-TV | 1,784,000 | 1,784,000 | 15,039
48662 | WSAV-TV | 1,000,315 | 1,000,309 | 8,433
6867 | WSAW-TV | 652,442 | 646,386 | 5,449
36912 | WSAZ-TV | 1,239,187 | 1,168,954 | 9,854
56092 | WSBE-TV | 7,535,710 | 7,266,304 | 61,255
73982 | WSBK-TV | 7,290,901 | 7,225,463 | 60,911
72053 | WSBS-TV | 42,952 | 42,952 | 362
73983 | WSBT-TV | 1,763,215 | 1,752,698 | 14,775
23960 | WSB-TV | 5,897,425 | 5,828,269 | 49,132
69446 | WSCG | 867,516 | 867,490 | 7,313
64971 | WSCV | 5,465,435 | 5,465,435 | 46,074
70536 | WSEC | 538,090 | 536,891 | 4,526
49711 | WSEE-TV | 613,176 | 595,476 | 5,020
21258 | WSES | 1,829,499 | 1,796,561 | 15,145
73988 | WSET-TV | 1,575,886 | 1,340,273 | 11,299
13993 | WSFA | 1,166,744 | 1,132,826 | 9,550
11118 | WSFJ-TV | 1,675,987 | 1,667,150 | 14,054
10203 | WSFL-TV | 5,344,129 | 5,344,129 | 45,051
72871 | WSFX-TV | 970,833 | 970,833 | 8,184
73999 | WSIL-TV | 672,560 | 669,176 | 5,641
4297 | WSIU-TV | 1,019,939 | 937,070 | 7,900
74007 | WSJV | 1,651,178 | 1,644,683 | 13,865
78908 | WSKA | 546,588 | 431,354 | 3,636
74034 | WSKG-TV | 892,402 | 633,163 | 5,338
76324 | WSKY-TV | 1,934,585 | 1,934,519 | 16,308
57840 | WSLS-TV | 1,447,286 | 1,277,753 | 10,771
21737 | WSMH | 2,339,224 | 2,327,660 | 19,622
41232 | WSMV-TV | 2,447,769 | 2,404,766 | 20,272
70119 | WSNS-TV | 9,914,395 | 9,913,272 | 83,569
74070 | WSOC-TV | 3,706,808 | 3,638,832 | 30,675
66391 | WSPA-TV | 3,388,945 | 3,227,025 | 27,204
64352 | WSPX-TV | 1,298,295 | 1,174,763 | 9,903
17611 | WSRE | 1,354,495 | 1,353,634 | 11,411
63867 | WSST-TV | 331,907 | 331,601 | 2,795
60341 | WSTE-DT | 3,723,967 | 3,033,272 | 25,570
21252 | WSTM-TV | 1,455,586 | 1,379,393 | 11,628
11204 | WSTR-TV | 3,297,280 | 3,286,795 | 27,708
19776 | WSUR-DT ⁸ | 3,714,790 | 3,015,529 | 7,978
2370 | WSVI | 50,601 | 50,601 | 427
63840 | WSVN | 5,588,748 | 5,588,748 | 47,113
73374 | WSWB | 1,530,002 | 1,102,316 | 9,293
28155 | WSWG | 381,004 | 380,910 | 3,211
71680 | WSWP-TV | 902,592 | 694,697 | 5,856
74094 | WSYM-TV | 1,498,905 | 1,498,671 | 12,634
73113 | WSYR-TV | 1,329,977 | 1,243,098 | 10,479
40758 | WSYT | 1,970,721 | 1,739,071 | 14,660
56549 | WSYX | 2,635,937 | 2,592,420 | 21,854
65681 | WTAE-TV | 2,995,755 | 2,860,979 | 24,118
23341 | WTAJ-TV | 1,187,718 | 948,598 | 7,997
4685 | WTAP-TV | 512,358 | 494,914 | 4,172
416 | WTAT-TV | 1,111,476 | 1,111,476 | 9,370
67993 | WTBY-TV | 15,858,470 | 15,766,438 | 132,911
29715 | WTCE-TV | 2,620,599 | 2,620,599 | 22,092
65667 | WTCI | 1,216,209 | 1,104,698 | 9,313
67786 | WTCT | 608,457 | 607,620 | 5,122
28954 | WTCV ⁵ ⁹ | 3,254,481 | 2,500,195 | 21,077
74422 | WTEN | 1,902,431 | 1,613,747 | 13,604
9881 | WTGL | 3,707,507 | 3,707,507 | 31,254
27245 | WTGS | 966,519 | 966,357 | 8,146
70655 | WTHI-TV | 928,934 | 886,846 | 7,476
70162 | WTHR | 2,949,339 | 2,901,633 | 24,461
147 | WTIC-TV | 5,318,753 | 4,707,697 | 39,686
26681 | WTIN-TV ⁷ | 3,714,547 | 2,898,224 | 2,573
66536 | WTIU | 1,570,257 | 1,569,135 | 13,228
1002 | WTJP-TV | 1,947,743 | 1,907,300 | 16,079
4593 | WTJR | 334,527 | 334,221 | 2,817
70287 | WTJX-TV | 135,017 | 121,498 | 1,024
47401 | WTKR | 2,149,376 | 2,149,375 | 18,119
82735 | WTLF | 349,696 | 349,691 | 2,948
23486 | WTLH | 1,065,127 | 1,065,105 | 8,979
67781 | WTLJ | 1,622,365 | 1,621,227 | 13,667
65046 | WTLV | 1,757,600 | 1,739,021 | 14,660
1222 | WTLW | 1,646,714 | 1,644,206 | 13,861
74098 | WTMJ-TV | 3,096,406 | 3,085,983 | 26,015
74109 | WTNH | 7,845,782 | 7,332,431 | 61,812
19200 | WTNZ | 1,699,427 | 1,513,754 | 12,761
590 | WTOC-TV | 993,098 | 992,658 | 8,368
74112 | WTOG | 5,268,364 | 5,267,177 | 44,402
4686 | WTOK-TV | 417,919 | 412,276 | 3,475
13992 | WTOL | 4,184,020 | 4,174,198 | 35,188
21254 | WTOM-TV | 120,369 | 117,121 | 987
74122 | WTOV-TV | 3,892,886 | 3,619,899 | 30,516
82574 | WTPC-TV | 2,049,246 | 2,042,851 | 17,221
86496 | WTPX-TV | 255,972 | 255,791 | 2,156
6869 | WTRF-TV | 2,941,511 | 2,565,375 | 21,626
67798 | WTSF | 922,441 | 851,465 | 7,178
11290 | WTSP | 5,506,869 | 5,489,954 | 46,280
4108 | WTTA | 5,583,544 | 5,576,649 | 47,011
74137 | WTTE | 2,690,341 | 2,650,354 | 22,342
22207 | WTTG | 8,101,358 | 8,049,329 | 67,856
56526 | WTTK | 2,844,384 | 2,825,807 | 23,822
74138 | WTTO | 1,877,570 | 1,844,214 | 15,547
56523 | WTTV | 2,522,077 | 2,518,133 | 21,228
10802 | WTTW | 9,729,982 | 9,729,634 | 82,021
74148 | WTVA | 823,492 | 810,123 | 6,829
22590 | WTVC | 1,579,628 | 1,366,976 | 11,524
8617 | WTVD | 3,790,354 | 3,775,757 | 31,830
55305 | WTVE | 5,156,905 | 5,152,997 | 43,440
36504 | WTVF | 2,384,622 | 2,367,601 | 19,959
74150 | WTVG | 4,405,350 | 4,397,113 | 37,068
74151 | WTVH | 1,390,502 | 1,327,319 | 11,189
10645 | WTVI | 2,856,703 | 2,829,960 | 23,857
63154 | WTVJ | 5,458,451 | 5,458,451 | 46,015
595 | WTVM | 1,498,667 | 1,405,957 | 11,852
72945 | WTVO | 1,409,708 | 1,398,825 | 11,792
28311 | WTVP | 678,884 | 678,539 | 5,720
51597 | WTVQ-DT | 989,786 | 983,552 | 8,291
57832 | WTVR-TV | 1,816,197 | 1,809,035 | 15,250
16817 | WTVS | 5,511,091 | 5,510,837 | 46,456
68569 | WTVT | 5,473,148 | 5,460,179 | 46,029
3661 | WTVW | 839,003 | 834,187 | 7,032
35575 | WTVX | 3,157,609 | 3,157,609 | 26,619
4152 | WTVY | 974,532 | 971,173 | 8,187
40759 | WTVZ-TV | 2,156,534 | 2,156,346 | 18,178
66908 | WTWC-TV | 1,061,101 | 1,061,079 | 8,945
20426 | WTWO | 737,341 | 731,294 | 6,165
81692 | WTWV | 1,527,511 | 1,526,625 | 12,869
51568 | WTXF-TV | 10,784,256 | 10,492,549 | 88,452
41065 | WTXL-TV | 1,054,514 | 1,054,322 | 8,888
8532 | WUAB | 3,821,233 | 3,745,335 | 31,573
12855 | WUCF-TV | 3,707,507 | 3,707,507 | 31,254
36395 | WUCW | 3,664,480 | 3,657,236 | 30,830
69440 | WUFT | 1,372,142 | 1,372,142 | 11,567
413 | WUHF | 1,152,580 | 1,147,972 | 9,677
8156 | WUJA | 2,638,361 | 1,977,410 | 16,670
69080 | WUNC-TV | 4,184,851 | 4,166,318 | 35,122
69292 | WUND-TV | 1,504,532 | 1,504,532 | 12,683
69114 | WUNE-TV | 3,146,865 | 2,625,942 | 22,137
69300 | WUNF-TV | 2,625,583 | 2,331,723 | 19,656
69124 | WUNG-TV | 3,605,143 | 3,588,220 | 30,249
60551 | WUNI | 7,209,571 | 7,084,349 | 59,721
69332 | WUNJ-TV | 1,116,458 | 1,116,458 | 9,412
69149 | WUNK-TV | 1,991,039 | 1,985,696 | 16,739
69360 | WUNL-TV | 3,055,263 | 2,834,274 | 23,893
69444 | WUNM-TV | 1,357,346 | 1,357,346 | 11,442
69397 | WUNP-TV | 1,402,186 | 1,393,524 | 11,747
69416 | WUNU | 1,202,495 | 1,201,481 | 10,128
83822 | WUNW | 1,109,237 | 570,072 | 4,806
6900 | WUPA | 5,966,454 | 5,888,379 | 49,639
13938 | WUPL | 1,721,320 | 1,721,320 | 14,511
10897 | WUPV | 1,933,664 | 1,914,643 | 16,140
19190 | WUPW | 2,100,914 | 2,099,572 | 17,699
23128 | WUPX-TV | 1,102,435 | 1,089,118 | 9,181
65593 | WUSA | 8,750,706 | 8,446,074 | 71,200
4301 | WUSI-TV | 339,507 | 339,507 | 2,862
60552 | WUTB | 8,523,983 | 8,381,042 | 70,652
30577 | WUTF-TV | 7,918,927 | 7,709,189 | 64,988
57837 | WUTR | 526,114 | 481,957 | 4,063
415 | WUTV | 1,589,376 | 1,557,474 | 13,130
16517 | WUVC-DT | 3,768,817 | 3,748,841 | 31,603
48813 | WUVG-DT | 6,029,495 | 5,965,975 | 50,293
3072 | WUVN | 1,233,568 | 1,157,140 | 9,755
60560 | WUVP-DT | 10,421,216 | 10,246,856 | 86,381
9971 | WUXP-TV | 2,316,872 | 2,305,293 | 19,434
417 | WVAH-TV | 1,373,555 | 1,295,383 | 10,920
23947 | WVAN-TV | 1,026,862 | 1,025,950 | 8,649
65387 | WVBT | 1,885,169 | 1,885,169 | 15,892
72342 | WVCY-TV | 3,111,641 | 3,102,097 | 26,151
60559 | WVEA-TV | 4,553,004 | 4,552,113 | 38,374
74167 | WVEC | 2,098,679 | 2,092,868 | 17,643
5802 | WVEN-TV | 3,921,016 | 3,919,361 | 33,040
61573 | WVEO ⁵ | 1,091,825 | 757,978 | 5,056
69946 | WVER | 888,756 | 758,441 | 6,394
10976 | WVFX | 731,193 | 609,763 | 5,140
47929 | WVIA-TV | 3,429,213 | 2,838,000 | 23,924
3667 | WVII-TV | 368,022 | 346,874 | 2,924
70309 | WVIR-TV | 1,945,637 | 1,908,395 | 16,088
74170 | WVIT | 5,846,093 | 5,357,639 | 45,165
18753 | WVIZ | 3,695,223 | 3,689,173 | 31,100
70021 | WVLA-TV | 1,897,179 | 1,897,007 | 15,992
81750 | WVLR | 1,412,728 | 1,300,554 | 10,964
35908 | WVLT-TV | 1,888,607 | 1,633,633 | 13,772
74169 | WVNS-TV | 916,451 | 588,963 | 4,965
11259 | WVNY | 742,579 | 659,270 | 5,558
29000 | WVOZ-TV ⁹ | 1,132,932 | 731,199 | 5,056
71657 | WVPB-TV | 992,798 | 959,526 | 8,089
60111 | WVPT | 767,268 | 642,173 | 5,414
70491 | WVPX-TV | 4,147,298 | 4,114,920 | 34,689
66378 | WVPY | 756,696 | 632,649 | 5,333
67190 | WVSN | 2,948,832 | 2,137,333 | 18,018
69943 | WVTA | 888,756 | 758,441 | 6,394
69940 | WVTB | 455,880 | 257,445 | 2,170
74173 | WVTM-TV | 2,009,346 | 1,940,153 | 16,355
74174 | WVTV | 3,091,132 | 3,083,108 | 25,991
77496 | WVUA | 2,209,921 | 2,160,101 | 18,210
4149 | WVUE-DT | 1,658,125 | 1,658,125 | 13,978
4329 | WVUT | 273,293 | 273,215 | 2,303
74176 | WVVA | 1,037,632 | 722,666 | 6,092
3113 | WVXF | 85,191 | 78,556 | 662
12033 | WWAY | 1,208,625 | 1,208,625 | 10,189
30833 | WWBT | 1,924,502 | 1,892,842 | 15,957
20295 | WWCP-TV | 2,811,278 | 2,548,691 | 21,485
24812 | WWCW | 1,390,985 | 1,212,308 | 10,220
23671 | WWDP | 5,792,048 | 5,564,295 | 46,907
21158 | WWHO | 2,762,344 | 2,721,504 | 22,942
14682 | WWJE-DT | 7,209,571 | 7,084,349 | 59,721
72123 | WWJ-TV | 5,562,031 | 5,561,777 | 46,886
166512 | WWJX | 518,866 | 518,846 | 4,374
6868 | WWLP | 3,838,272 | 3,077,800 | 25,946
74192 | WWL-TV | 1,788,624 | 1,788,624 | 15,078
3133 | WWMB | 1,547,974 | 1,544,778 | 13,022
74195 | WWMT | 2,538,485 | 2,531,309 | 21,339
68851 | WWNY-TV | 375,600 | 346,623 | 2,922
74197 | WWOR-TV | 19,853,836 | 19,615,370 | 165,358
65943 | WWPB | 3,197,858 | 2,775,966 | 23,401
23264 | WWPX-TV | 2,299,441 | 2,231,612 | 18,812
68547 | WWRS-TV | 2,324,155 | 2,321,066 | 19,567
61251 | WWSB | 3,340,133 | 3,340,133 | 28,157
23142 | WWSI | 11,269,831 | 11,098,540 | 93,561
16747 | WWTI | 196,531 | 190,097 | 1,603
998 | WWTO-TV | 5,613,737 | 5,613,737 | 47,324
26994 | WWTV | 1,034,174 | 1,022,322 | 8,618
84214 | WWTW | 1,527,511 | 1,526,625 | 12,869
26993 | WWUP-TV | 116,638 | 110,592 | 932
23338 | WXBU | 4,030,693 | 3,538,096 | 29,826
61504 | WXCW | 1,749,847 | 1,749,847 | 14,751
61084 | WXEL-TV | 5,416,604 | 5,416,604 | 45,662
60539 | WXFT-DT | 10,174,464 | 10,170,757 | 85,739
23929 | WXGA-TV | 608,494 | 606,849 | 5,116
51163 | WXIA-TV | 6,179,680 | 6,035,625 | 50,880
53921 | WXII-TV | 3,630,551 | 3,299,114 | 27,812
146 | WXIN | 2,836,532 | 2,814,815 | 23,729
39738 | WXIX-TV | 2,911,054 | 2,900,875 | 24,454
414 | WXLV-TV | 4,364,244 | 4,334,365 | 36,539
68433 | WXMI | 1,988,970 | 1,988,589 | 16,764
64549 | WXOW | 425,378 | 413,264 | 3,484
6601 | WXPX-TV | 4,594,588 | 4,592,639 | 38,716
74215 | WXTV-DT | 20,362,721 | 19,974,644 | 168,386
12472 | WXTX | 699,095 | 694,837 | 5,857
11970 | WXXA-TV | 1,680,670 | 1,537,868 | 12,964
57274 | WXXI-TV | 1,184,860 | 1,168,696 | 9,852
53517 | WXXV-TV | 1,191,123 | 1,189,584 | 10,028
10267 | WXYZ-TV | 5,622,543 | 5,622,140 | 47,395
12279 | WYCC | 9,729,982 | 9,729,634 | 82,021
77515 | WYCI | 35,873 | 26,508 | 223
70149 | WYCW | 3,388,945 | 3,227,025 | 27,204
62219 | WYDC | 560,266 | 449,486 | 3,789
18783 | WYDN | 2,577,848 | 2,512,150 | 21,177
35582 | WYDO | 1,330,728 | 1,330,728 | 11,218
25090 | WYES-TV | 1,872,245 | 1,872,059 | 15,781
53905 | WYFF | 2,626,363 | 2,416,551 | 20,372
49803 | WYIN | 6,956,141 | 6,956,141 | 58,640
24915 | WYMT-TV | 1,180,276 | 863,881 | 7,283
17010 | WYOU | 2,879,196 | 2,226,883 | 18,773
77789 | WYOW | 91,839 | 91,311 | 770
13933 | WYPX-TV | 1,529,500 | 1,413,583 | 11,917
4693 | WYTV | 4,898,622 | 4,535,576 | 38,235
5875 | WYZZ-TV | 1,042,140 | 1,036,721 | 8,740
15507 | WZBJ | 1,626,017 | 1,435,762 | 12,103
28119 | WZDX | 1,596,771 | 1,514,654 | 12,769
70493 | WZME | 5,996,408 | 5,544,708 | 46,742
81448 | WZMQ | 73,423 | 72,945 | 615
71871 | WZPX-TV | 2,039,157 | 2,039,157 | 17,190
136750 | WZRB | 952,279 | 951,693 | 8,023
418 | WZTV | 2,312,658 | 2,301,187 | 19,399
83270 | WZVI | 76,992 | 75,863 | 640
19183 | WZVN-TV | 1,981,488 | 1,981,488 | 16,704
49713 | WZZM | 1,574,546 | 1,548,835 | 13,057
¹ Call signs WIPM and WIPR are stations in Puerto Rico that are linked together with a total fee of $26,133.
² Call signs WNJX and WAPA are stations in Puerto Rico that are linked together with a total fee of $26,133.
³ Call signs WKAQ and WORA are stations in Puerto Rico that are linked together with a total fee of $26,133.
⁴ Call signs WOLE and WLII are stations in Puerto Rico that are linked together with a total fee of $26,133.
⁵ Call signs WVEO and WTCV are stations in Puerto Rico that are linked together with a total fee of $26,133.
⁶ Call signs WJPX and WJWN are stations in Puerto Rico that are linked together with a total fee of $26,133.
⁷ Call signs WAPA and WTIN are stations in Puerto Rico that are linked together with a total fee of $26,133.
⁸ Call signs WSUR and WLII are stations in Puerto Rico that are linked together with a total fee of $26,133.
⁹ Call signs WVOZ and WTCV are stations in Puerto Rico that are linked together with a total fee of $26,133.
¹⁰ Call signs WJPX and WKPV are stations in Puerto Rico that are linked together with a total fee of $26,133.
¹¹ Call signs WMTJ and WQTO are stations in Puerto Rico that are linked together with a total fee of $26,133.
¹² Call signs WIRS and WJPX are stations in Puerto Rico that are linked together with a total fee of $26,133.
¹³ Call signs WRFB and WORA are stations in Puerto Rico that are linked together with a total fee of $26,133.

Table 10—FY 2021 Schedule of Regulatory Fees
[Regulatory fees for the categories shaded in gray are collected by the Commission in advance to cover the term of the license and are submitted at the time the application is filed.]
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) (Includes Non-Geographic telephone numbers) | .15.
CMRS Messaging Services (per unit) (47 CFR parts 20, 22, 24 and 90) | .08.
Broadband Radio Service (formerly MMDS/MDS) (per license) (47 CFR part 27) | 605.
Local Multipoint Distribution Service (per call sign) (47 CFR, part 101) | 605.
AM Radio Construction Permits | 610.
FM Radio Construction Permits | 1,070.
AM and FM Broadcast Radio Station Fees | See Table Below.
Digital TV (47 CFR part 73) VHF and UHF Commercial Fee Factor | $.007793. See Appendix G for fee amounts due, also available at https://www.fcc.gov/licensing-databases/fees/regulatory-fees.
Digital TV Construction Permits | 5,100.
Low Power TV, Class A TV, TV/FM Translators and FM Boosters (47 CFR part 74) | 320.
CARS (47 CFR part 78) | 1,555.
Cable Television Systems (per subscriber) (47 CFR part 76), Including IPTV (per subscriber) and Direct Broadcast Satellite (DBS) (per subscriber) | .98.
Interstate Telecommunication Service Providers (per revenue dollar) | .00400.
Toll Free (per toll free subscriber) (47 CFR section 52.101 (f) of the rules) | .12.
Earth Stations (47 CFR part 25) | 595.
Space Stations (per operational station in geostationary orbit) (47 CFR part 25) also includes DBS Service (per operational station) (47 CFR part 100) | 116,855.
Space Stations (per operational system in non-geostationary orbit) (47 CFR part 25) (Other) | 343,555
Space Stations (per operational system in non-geostationary orbit) (47 CFR part 25) (Less Complex) | 122,695.
International Bearer Circuits—Terrestrial/Satellites (per Gbps circuit) | $43.
Submarine Cable Landing Licenses Fee (per cable system) | See Table Below.

FY 2021 Radio Station Regulatory Fees
Population served | AM Class A | AM Class B | AM Class C | AM Class D | FM Classes A, B1 & C3 | FM Classes B, C, C0, C1 & C2
≤25,000 | $975 | $700 | $610 | $670 | $1,070 | $1,220
25,001-75,000 | 1,465 | 1,050 | 915 | 1,000 | 1,605 | 1,830
75,001-150,000 | 2,195 | 1,575 | 1,375 | 1,510 | 2,410 | 2,745
150,001-500,000 | 3,295 | 2,365 | 2,060 | 2,265 | 3,615 | 4,125
500,001-1,200,000 | 4,935 | 3,540 | 3,085 | 3,390 | 5,415 | 6,175
1,200,001-3,000,000 | 7,410 | 5,320 | 4,635 | 5,090 | 8,130 | 9,270
3,000,001-6,000,000 | 11,105 | 7,975 | 6,950 | 7,630 | 12,185 | 13,895
>6,000,000 | 16,665 | 11,965 | 10,425 | 11,450 | 18,285 | 20,850

FY 2021 International Bearer Circuits—Submarine Cable Systems
Submarine cable systems (capacity as of December 31, 2020) | Fee ratio (units) | FY 2021 regulatory fees
Less than 50 Gbps | .0625 | $9,495
50 Gbps or greater, but less than 250 Gbps | .125 | 18,990
250 Gbps or greater, but less than 1,500 Gbps | .25 | 37,980
1,500 Gbps or greater, but less than 3,500 Gbps | .5 | 75,955
3,500 Gbps or greater, but less than 6,500 Gbps | 1.0 | 151,910
6,500 Gbps or greater | 2.0 | 303,820

V. Final Regulatory Flexibility Analysis

1. As required by the Regulatory Flexibility Act of 1980, as amended (RFA), an Initial Regulatory Flexibility Analysis (IRFA) was included in the Notice of Proposed Rulemaking for fiscal year (FY) 2022 (FY 2022 NPRM) released in June 2022. The Commission sought written public comment on the proposals in the FY 2022 NPRM, including comment on the IRFA. No comments were filed addressing the IRFA. This present Final Regulatory Flexibility Analysis (FRFA) conforms to the RFA.

A. Need for, and Objectives of, the Report and Order

2. In the Report and Order, we adopt a regulatory fee schedule to collect $381,950,000 in congressionally mandated regulatory fees for FY 2022. Under section 9 of the Communications Act of 1934, as amended, (Act or Communications Act), regulatory fees are mandated by Congress and collected to recover the regulatory costs associated with the Commission's oversight and regulatory activities in an amount that can be reasonably expected to equal the amount of the Commission's annual appropriation. The objective in adopting the regulatory fee schedule is to comply with the Congressional mandate to recover the total amount of the Commission's annual appropriation, from the various industries for which the Commission provides oversight and/or regulation, with a fair, administrable and sustainable fee framework based on the number of full-time equivalents (FTEs) involved in such oversight and regulation in the licensing bureaus.

3. In the FY 2022 NPRM, we sought comment on the methodology for assessing regulatory fees and the FY 2022 regulatory fee schedule, as well as on other issues related to the collection of regulatory fees including: (i) space station regulatory fees, including new regulatory fees for small satellites; (ii) continuing to use our methodology for calculating television broadcaster regulatory fees based on population; (iii) calculating the cost of collection of regulatory fees in establishing the annual de minimis threshold; (iv) reclassification of certain FTEs; (v) adopting new regulatory fee categories and (vi) how our proposals may promote or inhibit advances in diversity, equity, inclusion, and accessibility. For FY 2022, we adopt the regulatory fee schedule set forth in Appendices B and C to the Report and Order.

B. Summary of the Significant Issues Raised by the Public Comments in Response to the IRFA

4. None.

C. Response to Comments by the Chief Counsel for Advocacy of the Small Business Administration

5. No comments were filed by the Chief Counsel for Advocacy of the Small Business Administration.

D. Description and Estimate of the Number of Small Entities to Which the Rules Will Apply

6. The RFA directs agencies to provide a description of and, where feasible, an estimate of the number of small entities that may be affected by the rules adopted herein. The RFA generally defines the term “small entity” as having the same meaning as the terms “small business,” “small organization,” and “small governmental jurisdiction.” In addition, the term “small business” has the same meaning as the term “small-business concern” under the Small Business Act. A “small-business concern” is one which: (1) is independently owned and operated; (2) is not dominant in its field of operation; and (3) satisfies any additional criteria established by the SBA.

7. Small Businesses, Small Organizations, Small Governmental Jurisdictions. Our actions, over time, may affect small entities that are not easily categorized at present. We therefore describe here, at the outset, three broad groups of small entities that could be directly affected herein. First, there are industry-specific size standards for small businesses that are used in the regulatory context. These types of small businesses represent 99.9% of all businesses in the United States, which translates to flexibility analysis, according to data from the Small Business Administration's (SBA) Office of Advocacy. In general, a small business is an independent business having fewer than 500 employees. There are 32.5 million such businesses.

8. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2020, there were approximately 447,689 small exempt organizations in the U.S. reporting revenues of $50,000 or less according to the registration and tax data for exempt organizations available from the IRS.

9. Finally, the small entity described as a “small governmental jurisdiction” is defined generally as “governments of cities, counties, towns, townships, villages, school districts, or special districts, with a population of less than fifty thousand.” U.S. Census Bureau data from the 2017 Census of Governments indicate that there were 90,075 local governmental jurisdictions consisting of general purpose governments and special purpose governments in the United States. Of this number there were 36,931 general purpose governments (county, municipal, and town or township) with populations of less than 50,000 and 12,040 special purpose governments—independent school districts with enrollment populations of less than 50,000. Accordingly, based on the 2017 U.S. Census of Governments data, we estimate that at least 48,971 entities fall into the category of “small governmental jurisdictions.”

10. Incumbent Local Exchange Carriers (Incumbent LECs). Neither the Commission nor the SBA have developed a small business size standard specifically for incumbent local exchange carriers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2021 Universal Service Monitoring Report, as of December 31, 2020, there were 1,227 providers that reported they were incumbent local exchange service providers. Of these providers, the Commission estimates that 929 providers have 1,500 or fewer employees. Consequently, using the SBA's small business size standard, the Commission estimates that the majority of incumbent local exchange carriers can be considered small entities.

11. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

12. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 5,183 providers that reported they were engaged in the provision of fixed local services. Of these providers, the Commission estimates that 4,737 providers have 1,500 or fewer employees. Consequently, using the SBA's small business size standard, most of these providers can be considered small entities.

13. Competitive Local Exchange Carriers (LECs). Neither the Commission nor the SBA has developed a size standard for small businesses specifically applicable to local exchange services. Providers of these services include several types of competitive local exchange service providers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 3,956 providers that reported they were competitive local exchange service providers. Of these providers, the Commission estimates that 3,808 providers have 1,500 or fewer employees. Consequently, using the SBA's small business size standard, most of these providers can be considered small entities.

14. Interexchange Carriers (IXCs). Neither the Commission nor the SBA have developed a small business size standard specifically for Interexchange Carriers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 151 providers that reported they were engaged in the provision of interexchange services. Of these providers, the Commission estimates that 131 providers have 1,500 or fewer employees. Consequently, using the SBA's small business size standard, the Commission estimates that the majority of providers in this industry can be considered small entities.

15. Operator Service Providers (“OSPs”). Neither the Commission nor the SBA has developed a small business size standard specifically for operator service providers. The closest applicable industry with a SBA small business size standard is Wired Telecommunications Carriers. The SBA small business size standard classifies a business as small if it has 1,500 or fewer employees. U.S. Census Bureau data for 2017 show that there were 3,054 firms in this industry that operated for the entire year. Of this number, 2,964 firms operated with fewer than 250 employees. Additionally, based on Commission data in the 2021 Universal Service Monitoring Report, as of December 31, 2020, there were 32 providers that reported they were engaged in the provision of operator services. Of these providers, the Commission estimates that all 32 providers have 1,500 or fewer employees. Consequently, using the SBA's small business size standard, all of these providers can be considered small entities.

16. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 293 providers that reported they were engaged in the provision of local resale services. Of these providers, the Commission estimates that 289 providers have 1,500 or fewer employees. Consequently, using the SBA's small business size standard, most of these providers can be considered small entities.

17. Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 518 providers that reported they were engaged in the provision of toll services. Of these providers, the Commission estimates that 495 providers have 1,500 or fewer employees. Consequently, using the SBA's small business size standard, most of these providers can be considered small entities.

18. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2021 Universal Service Monitoring Report, as of December 31, 2020, there were 797 providers that reported they were engaged in the provision of wireless services. Of these providers, the Commission estimates that 715 providers have 1,500 or fewer employees. Consequently, using the SBA's small business size standard, most of these providers can be considered small entities.

19. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $35 million or less in annual receipts as small. U.S. Census Bureau data for 2017 show that 275 firms in this industry operated for the entire year. Of this number, 242 firms had revenue of less than $25 million. Additionally, based on Commission data in the 2021 Universal Service Monitoring Report, as of December 31, 2020, there were 71 providers that reported they were engaged in the provision of satellite telecommunications services. Of these providers, the Commission estimates that approximately 48 providers have 1,500 or fewer employees. Consequently using the SBA's small business size standard, a little more than of these providers can be considered small entities.

20. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g., dial-up ISPs) or voice over internet protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

21. Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $41.5 million or less in annual receipts as small. 2017 U.S. Census Bureau data indicate that 744 firms in this industry operated for the entire year. Of that number, 657 firms had revenue of less than $25,000,000. Based on this data we estimate that the majority of television broadcasters are small entities under the SBA small business size standard.

22. The Commission estimates that as of March 31, 2022, there were 1,373 licensed commercial television stations. Of this total, 1,280 stations (or 93.2%) had revenues of $41.5 million or less in 2021, according to Commission staff review of the BIA Kelsey Inc. Media Access Pro Television Database (BIA) on June 1, 2022, and therefore these licensees qualify as small entities under the SBA definition. In addition, the Commission estimates as of March 31, 2022, there were 384 licensed noncommercial educational (NCE) television stations, 383 Class A TV stations, 1,840 LPTV stations and 3,231 TV translator stations. The Commission however does not compile, and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

23. Radio Stations. This industry is comprised of “establishments primarily engaged in broadcasting aural programs by radio to the public.” Programming may originate in their own studio, from an affiliated network, or from external sources. The SBA small business size standard for this industry classifies firms having $41.5 million or less in annual receipts as small. U.S. Census Bureau data for 2017 show that 2,963 firms operated in this industry during that year. Of this number, 1,879 firms operated with revenue of less than $25 million per year. Based on this data and the SBA's small business size standard, we estimate a majority of such entities are small entities.

24. The Commission estimates that as of March 2022, there were 4,508 licensed commercial AM radio stations and 6,763 licensed commercial FM radio stations, for a combined total of 11,271 commercial radio stations. Of this total, 11,269 stations (or 99.98%) had revenues of $41.5 million or less in 2021, according to Commission staff review of the BIA Kelsey Inc. Media Access Pro Database (BIA) on June 1, 2022, and therefore these licensees qualify as small entities under the SBA definition. In addition, the Commission estimates that as of March 31, 2022, there were 4,119 licensed noncommercial (NCE) FM radio stations, 2,049 low power FM (LPFM) stations, and 8,919 FM translators and boosters. The Commission however does not compile, and otherwise does not have access to financial information for these radio stations that would permit it to determine how many of these stations qualify as small entities under the SBA small business size standard. Nevertheless, given the SBA's large annual receipts threshold for this industry and the nature of these radio station licensees, we presume that all of these entities qualify as small entities under the above SBA small business size standard.

25. Cable Companies and Systems (Rate Regulation). The Commission has developed its own small business size standard for the purpose of cable rate regulation. Under the Commission's rules, a “small cable company” is one serving 400,000 or fewer subscribers nationwide. Based on industry data, there are about 420 cable companies in the U.S. Of these, only five have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

26. Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 677,000 subscribers, either directly or through affiliates, will meet the definition of a small cable operator based on the cable subscriber count established in a 2001 Public Notice. Based on industry data, only four cable system operators have more than 677,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

27. Direct Broadcast Satellite (DBS) Service. DBS service is a nationally distributed subscription service that delivers video and audio programming via satellite to a small parabolic “dish” antenna at the subscriber's location. DBS is included in the Wired Telecommunications Carriers industry which comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VoIP services, wired (cable) audio and video programming distribution; and wired broadband internet services. By exception, establishments providing satellite television distribution services using facilities and infrastructure that they operate are included in this industry.

28. The SBA small business size standard for Wired Telecommunications Carriers classifies firms having 1,500 or fewer employees as small. U.S. Census Bureau data for 2017 show that 3,054 firms operated in this industry for the entire year. Of this number, 2,964 firms operated with fewer than 250 employees. Based on this data, the majority of firms in this industry can be considered small under the SBA small business size standard. According to Commission data however, only two entities provide DBS service—DIRECTV (owned by AT&T) and DISH Network, which require a great deal of capital for operation. DIRECTV and DISH Network both exceed the SBA size standard for classification as a small business. Therefore, we must conclude based on internally developed Commission data, in general DBS service is provided only by large firms.

29. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g., dial-up ISPs) or voice over internet protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

30. RespOrgs. Responsible Organizations, or RespOrgs (also referred to as Toll-Free Number (TFN) providers), are entities chosen by toll free subscribers to manage and administer the appropriate records in the toll-free Service Management System for the toll-free subscriber. Based on information on the website of SOMOS, the entity that maintains a registry of Toll-Free Number providers (SMS/800 TFN Registry) for the more than 42 million Toll-Free numbers in North America, and the TSS Registry, a centralized registry for the use of Toll-Free Numbers in text messaging and multimedia services, there were approximately 446 registered RespOrgs/Toll-Free Number providers in July 2021. RespOrgs are often wireline carriers, however they can be include non-carrier entities. Accordingly, the description below for RespOrgs include both Carrier RespOrgs and Non-Carrier RespOrgs.

31. Carrier RespOrgs. Neither the Commission nor the SBA have developed a small business size standard for Carrier RespOrgs. Wired Telecommunications Carriers, and Wireless Telecommunications Carriers (except Satellite) are the closest industries with a SBA small business size applicable to Carrier RespOrgs.

32. Wired Telecommunications Carriers are establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. The SBA small business size standard for this industry classifies a business as small if it has 1,500 or fewer employees. U.S. Census Bureau data for 2017 show that there were 3,054 firms that operated for the entire year. Of this number, 2,964 firms operated with fewer than 250 employees. Based on that data, we conclude that the majority of Carrier RespOrgs that operated with wireline-based technology are small.

33. Wireless Telecommunications Carriers (except Satellite) engage in operating and maintaining switching and transmission facilities to provide communications via the airwaves. Establishments in this industry have spectrum licenses and provide services using that spectrum, such as cellular services, paging services, wireless internet access, and wireless video services. The SBA small business size standard for this industry classifies a business as small if it has 1,500 or fewer employees. For this industry, U.S. Census Bureau data for 2017 show that there were 2,893 firms that operated for the entire year. Of this number, 2,837 firms employed fewer than 250 employees. Based on this data, we conclude that the majority of Carrier RespOrgs that operated with wireless-based technology are small.

34. Non-Carrier RespOrgs. Neither the Commission, nor the SBA have developed a small business size standard Non-Carrier RespOrgs. Other Services Related to Advertising and Other Management Consulting Services” are the closest industries with a SBA small business size applicable to Non-Carrier RespOrgs.

35. The Other Services Related to Advertising industry contains establishments primarily engaged in providing advertising services (except advertising agency services, public relations agency services, media buying agency services, media representative services, display advertising services, direct mail advertising services, advertising material distribution services, and marketing consulting services). The SBA small business size standard for this industry classifies a business as small that has annual receipts of $16.5 million or less. U.S. Census Bureau data for 2017 show that 5,650 firms operated in this industry for the entire year. Of that number, 3,693 firms operated with revenue of less than $10 million. Based on this data, we conclude that a majority of non-carrier RespOrgs who provide TFN-related management consulting services are small.

36. Other Management Consulting Services. This industry comprises establishments primarily engaged in providing operating advice and assistance to businesses and other organizations on marketing issues, such as developing marketing objectives and policies, sales forecasting, new product developing and pricing, licensing and franchise planning, and marketing planning and strategy. The SBA small business size standard for this industry classifies firms with annual receipts of $16.5 million or less as small. U.S. Census Bureau data for 2017 show that 4,696 firms operated in this industry for the entire year. Of this number, 3,700 firms had revenue of less than $10 million. Based on this data, we conclude that a majority of firms that operate in this industry are small.

E. Description of Projected Reporting, Recordkeeping and Other Compliance Requirements

37. The Report and Order does not adopt any new reporting, recordkeeping, or other compliance requirements. Small and other regulated entities are required to pay regulatory fees on an annual basis. The cost of compliance with the annual regulatory fee assessment for small entities is the amount assessed for their the regulatory fee category and should not require small entities to hire professionals in order to comply. Small entities that qualify can take advantage of the exemption from payment of regulatory fees allowed under the de minimis threshold discussed below in Section F. Small entities can also reduce their cost of compliance by availing themselves of the flexibility options for regulatory payees that the Commission made available in FYs 2020 and 2021 as a result of the COVID-19 pandemic. Pursuant to those options, small entities may request a waiver, reduction, deferral and/or installment payment of their FY 2022 regulatory fees.

F. Steps Taken To Minimize the Significant Economic Impact on Small Entities, and Significant Alternatives Considered

38. The RFA requires an agency to provide, “a description of the steps the agency has taken to minimize the significant economic impact on small entities . . . including a statement of the factual, policy, and legal reasons for selecting the alternative adopted in the final rule and why each one of the other significant alternatives to the rule considered by the agency which affect the impact on small entities was rejected.

39. The Report and Order for FY 2022 maintains several approaches from the FY 2021 regulatory fee framework which will minimize the significant economic impact for some small entities. Specifically, the FY 2022 regulatory fee framework maintains: (1) the methodology adopted using the population-based calculations for TV broadcasters that was initially adopted because it is a fairer methodology for smaller broadcasters; and (2) the flexibility for regulatory payees to request a waiver, reduction, deferral and/or installment payments of their regulatory fees adopted for FYs 2020 and 2021 as a result of the financial hardships produced by the COVID-19 pandemic. The waiver process is an easier filing process for smaller entities that may not be familiar with our procedural filing rules and (3) the application of the Commission's de minimis threshold rule adopted pursuant to section 9(e)(2) of the Act, which exempts a regulatee from paying regulatory fees if the sum total of all of its annual regulatory fee liabilities is $1,000 or less for the fiscal year. The de minimis threshold applies only to filers of annual regulatory fees and provides relief to small and other entities with lower annual regulatory fees.

40. There were alternative proposals on various elements of the methodology for assessing regulatory fees and the FY 2022 regulatory fee schedule that the Commission proposed in the FY 2022 NPRM, as well as other issues related to the collection of regulatory fees. Below we discuss a number of these proposals and why they were not adopted.

41. Allocating Full-time Equivalents. Several commenters questioned the Commission's allocation methodology, including proposing that we create an additional allocation category for the apportionment of regulatory fees. In the Report and Order, we decline to modify the allocation methodology explaining that the Commission's regulatory fees must cover the entire appropriation, including those FTEs who may work on issues for which we do not have regulatory fee categories. As a result, we continue to find that, consistent with section 9 of the Act, regulatory fees are not based on a precise allocation of specific employees with certain work assignments each fiscal year and instead are based on a higher-level approach.

42. Space Station and Submarine Cable Regulatory Fees. Fee modification alternatives involved three areas for this category—Non-Geostationary Orbit System (NGSO) Regulatory Fees, Spacecraft Performing On-Orbit Servicing (OOS) and Rendezvous and Proximity Operations (RPO) and Submarine Cable Regulatory Fees. We decline to make any fee modifications or to create additional regulatory fee categories for FY 2022 and adopt fee rates for NGSO space stations for FY 2022 for the reasons discussed below.

43. NGSO Space Station Regulatory Fees. We adopt the fee rates for NGSO space stations for FY 2022. We decline to change the methodology for calculating the regulatory fee for small satellites and small spacecraft (together, small satellites) that we adopted in the Report and Order attached to the FY 2022 NPRM. We also decline to create additional regulatory fee categories for FY 2022. The NGSO fee allocation maintained was adopted to ensure that regulatory fees more closely reflected the FTE oversight and regulation for each space station category, and no new arguments have been raised to warrant changes to the NSGO fee categories. We further decline to modify the definition of “small satellites” for the purposes of regulatory fee assessment. Only space stations licensed pursuant to the streamlined small satellite licensing process under sections 25.122 and 25.123 of our rules are eligible to be assessed the small satellite regulatory fee. As the Commission noted in the FY 2022 NPRM, the streamlined small satellite rules are designed to lower the regulatory burden and reduce staff resources required for licensing, but the rules also restrict the benefits received by these licensees.

44. OOS and RPO. In the FY 2022 NPRM, we sought comment on adopting regulatory fee categories for spacecraft performing OOS and RPO. Proposals from commenters included creating a new fee category and how to define services in the new category, and having an interim regulatory fee that is the same amount as the small satellite fee. Commenters recognize, however, that in-space servicing is a relatively new industry. We decline to adopt a new regulatory fee for both OOS and RPO, and more generally for in-space servicing operations for FY 2022, because the Commission is required to notify Congress at least 90 days prior to creating such a change to the regulatory fee schedule. Further, even absent the notice requirement, we find that the record does not support such action at this time. We do not currently have the experience or the robust record needed to establish definitions and methodologies for a new fee category for these operations that would fairly recover any costs that might be associated with such services. Similarly, in light of the Commission's lack of experience and information, we decline to adopt an interim regulatory fee. We will gain a better understanding how to recover any regulatory costs and benefits that might be associated with these operations as we gain more experience in oversight and regulation of this industry. In addition, the Commission expects to gain more insight into this industry through the record associated with its Notice of Inquiry regarding commercial and other non-governmental In-space Servicing, Assembly, and Manufacturing (ISAM) activities.

45. Submarine Cable Regulatory Fees. We reject a request to revise its regulatory fee methodology for submarine cable operators. The request contended that the “regulatory fee structure based upon cable system capacity is contrary to the mandate of the Communications Act, is overly burdensome, and is disconnected from the Commission's responsibilities for regulatory oversight of the submarine cable industry” and our methodology “fails to take into consideration that the size of a system is not tied to the number of customers, nor the amount of revenue that it will generate.” We are not persuaded that our assessment of these regulatory fees based on capacity is contrary to the Act and is not reasonably related to the benefits provided. Additionally, the arguments proffered in this proceeding were the same arguments rejected by the Commission in the FY 2020 and FY 2021 proceedings.

46. Broadcaster Regulatory Fees for FY 2022. The Commission received proposals to reduce broadcasters regulatory fees associated with the Broadband DATA Act, UHF/VHF Stations and the Methodology for Full-Service TV Regulatory Fees. We decline to adopt any of the alternative proposals for the reasons discussed below.

47. Broadband DATA Act. In the FY 2022 NPRM, broadcasters' regulatory fees are not exempt from the costs associated with work done by the Commission relating to broadband as they had been in FY 2021. Commenters contended that they should continue to be exempt from Commission work associated with broadband. We disagree. In FY 2021, the Commission adjusted its regulatory fees assessment approach for broadcasters to account for the unusual circumstances associated with the Broadband DATA Act. Broadcasters or “Media Services” licensees were excluded from part of their share of indirect costs as a result of the one-time nature and magnitude of the earmark, the statutory text, the legislative history, and the record in the proceeding. In doing so, all other regulatory fee payors within the core bureaus, including cable, direct broadcast satellite (DBS), and Internet Protocol television (IPTV) providers regulated by the Media Bureau, had to absorb these indirect costs to ensure that the Commission collected the full annual appropriation as required by law. We decline to continue to exempt broadcasters because the Congressional mandate which was the impetus for the methodology change in FY 2021 is not present for FY 2022.

48. UHF/VHF Stations. Modification of the FY 2022 regulatory fees for VHF stations was proposed based on the contention that UHF stations should be assessed greater regulatory fees than VHF stations because of the ability of UHF stations to offer a wider array of services and thereby obtain greater revenues while VHF stations that cannot. As the Commission did in FY 2020, we decline to categorically lower FY 2022 regulatory fees for VHF stations to account for signal limitations.

49. Methodology for Full-Service TV Regulatory Fees. In the FY 2022 NPRM, the Commission rejected a request to revise the population-based methodology used for regulatory fee assessments for full-service television broadcasters proposed. Finding a population-based methodology to be more equitable, the Commission completed the transition to a population-based full-power broadcast television regulatory fee in FY 2020. In the FY 2022 NPRM, we addressed this specific issue stating that it we are not reopening the FY 2020 decision to use the population-based methodology to determine these regulatory fees. We recognize that the population-based methodology increases fees for some licensees and reduces fees for others, but in the end the population-based metric better conforms with the actual service authorized here—broadcasting television to the American people. Small and other entities can seek a waiver, reduction, or deferment of the fee, interest charge, or penalty on a case-by-case basis, “in any specific instance for good cause shown, where such action would promote the public interest.”

50. De Minimis Threshold. The Commission previously retained the de minimis threshold amount of $1,000 for determining whether a party is exempt from paying regulatory fees because the average cost for the Commission to collect regulatory fees did not exceed $1,000. In the Report and Order, we decline to increase this threshold or redefine the “cost of collection” to provide relief to small broadcasters, as proposed by some commenters. We acknowledge that the de minimis threshold has the collateral effect of providing financial relief to some regulatory fee payors, however, we do not interpret the language of section 9(e)(2) of the Act to allow providing relief for financial hardship as a factor that can be considered in setting this threshold. Moreover, nothing in the text of the statute supports using policy factors outside of the cost of collection in establishing the de minimis threshold. Further, we determine that raising the threshold on such a basis would result in exempting classes or categories of fee payors in a manner contrary to the limited waiver provisions for regulatory fees.

51. Nevertheless, we conducted a review of the de minimis threshold and calculated the average cost of collecting FY 2021 regulatory fees and included the cost of collecting payor fee data and the cost of processing waiver and installment plan requests, as suggested by some commenters. In the final analysis, the inclusion of these costs did not increase the Commission's average cost of collection above the $1,000 de minimis threshold. Therefore, we determined that the current costs for the Commission to collect regulatory fees including the costs of collecting payor fee data and processing waiver and installment requests, does not justify an increase to the existing $1,000 de minimis threshold.

52. Regarding the definition of the “cost of collection,” we do not agree that the cost of collecting a regulatory fee should be expanded to include all of the Commission's costs to administer the regulatory fee program each year. Rather, we believe a sensible interpretation of the language of section 9(e)(2) of the Act includes only those costs incurred by the Commission once the Commission has established the annual fees. This occurs when the Commission's regulatory fee report and order is released. Our belief in part, relies on the Debt Collection Improvement Act of 1996, as amended, 31 U.S.C. 3701 et seq. (DCIA), which governs the federal administrative debt collection process for most federal agencies, including the Commission, and indicates that the collection of debt begins after an agency has determined that the debt is due.

53. Reclassification of FTEs from Direct to Indirect. In the FY 2022 NPRM, the Commission sought comment generally on whether prior reclassifications of FTEs from direct to indirect produce a more accurate regulatory fee assessment. Comments relating to the 38 FTEs in the Wireline Competition Bureau who work on non-high-cost programs of the Universal Service Fund that were allocated as indirect FTEs for regulatory fee purposes by the Commission in 2017, and the Commission's 2019 reassignment of 95 FTEs (of which 64 were not auctions-funded) as indirect FTEs when the Commission created the Office of Economics and Analytics (OEA), contended that such allocations severely departed from the statutory requirement that regulatory fees be adjusted to reflect the benefits received by the payor by the Commission's activities, and should not be apportioned to regulatory payees that do not benefit from work by the FTEs. Based on these contentions, commenters request that Commission make changes associated with these allocations.

54. As we explain in the Report and Order, indirect FTEs work on a variety of issues and their time in many instances does not directly address oversight and regulation of a particular regulated entity or regulatory fee category. Moreover, pursuant to section 9 of the Act, regulatory fees must reflect the “full-time equivalent number of employees within the bureaus and offices of the Commission, adjusted to take into account factors that are reasonably related to the benefits provided to the payor of the fee by the Commission's activities.” However, while we continue to find that the Commission was supported in its decision in 2017 to reassign the 38 FTEs in the Wireline Competition Bureau who work on non-high cost programs of the Universal Service Fund as indirect, we agree with broadcast commenters that the method for calculating the fees associated with these indirect FTEs should be corrected given the record in this proceeding, as well as the Commission's prior findings. Therefore, we exclude “Media Services” licensees from recovery of the funds associated with the 38 indirect FTEs who work on non-high cost Universal Service Fund issues. While we acknowledge that other commenters have raised arguments about the Commission's allocation of indirect FTEs more generally, we find that the record currently before us is not sufficiently developed to support affording similar relief to other regulatory fee payors based upon indirect FTE areas of work at this time. We believe that these issues would benefit from additional comment, as set forth in the accompanying Notice of Inquiry.

55. We are not persuaded that changes are required for the OEA FTE allocation, at this time, and expressly rejected the changes proposed in comments. First, an FTE is a full-time equivalent, not an employee, and is based on the hours of work devoted to the regulation and oversight of the fee categories and not a particular job title. Second, FTE time working on auctions issues is not included in the Commission's regulatory fee calculations and is funded separately. Also, OEA FTE numbers attributed to non-auction work stem from FTE levels in OEA's Data Division, Economic Analysis Division, Industry Analysis Division, and its Front Office. The OEA staff participates in the review of all Commission-level items, from all of the Commission's bureaus and offices, and provides economic and other data analysis to the Commission.

56. Proposals for New Regulatory Fee Categories. The Commission previously requested comments in the FY 2021 proceeding on adopting new regulatory fee categories and on ways to improve its regulatory fee process for any and all categories of service. In response to our request for additional comments on these issues in the FY 2022 NPRM, we received new regulatory fee category proposals for: Holders of Experimental Licenses, Broadband Internet Access Service, Holders of Equipment Authorizations, Operators of Databases of Spectrum Used on an Unlicensed Basis, and Users of Spectrum on an Unlicensed Basis. We decline to adopt any new regulatory fee categories in the Report and Order because, at this time, there is not a sufficient basis to warrant adding the new proposed regulatory fees. Further, there is a lack of evidence and information in the record which would allow us to create these new fee categories and establish a fair, administrable and sustainable system for assessing the fees.

G. Report to Congress

57. The Commission will send a copy of the Report and Order and Notice of Inquiry, including this FRFA, in a report to Congress pursuant to the Congressional Review Act. In addition, the Commission will send a copy of the Report and Order and Notice of Inquiry, including this FRFA, to the Chief Counsel for Advocacy of the SBA. A copy of the Report and Order, and FRFA (or summaries thereof) will also be published in the Federal Register.

VI. Ordering Clauses

58. Accordingly, it is ordered that, pursuant to the authority found in sections 4(i) and (j), 9, 9A, and 303(r) of the Communications Act of 1934, as amended, 47 U.S.C. 154(i), 154(j), 159, 159A, and 303(r), this Report and Order is hereby adopted.

59. It is further ordered that the FY 2022 section 9 and 9A regulatory fees assessment requirements and the rules set forth in the Final Rules are adopted as specified herein.

60. It is further ordered that the Report and Order shall be effective upon publication in the Federal Register.

61. It is further ordered that the Commission's Consumer and Governmental Affairs Bureau, Reference Information Center, shall send a copy of this Report and Order, including the Final Regulatory Flexibility Analysis in this document, to the Chief Counsel for Advocacy of the Small Business Administration.

List of Subjects in 47 CFR Part 1

Administrative practice and procedure, Broadband, Reporting and recordkeeping requirements, Telecommunications.

Federal Communications Commission.
Marlene H. Dortch,
Secretary.

Final Rules

Part 1 of Title 47 of the Code of Federal Regulations is amended as follows:

PART 1—PRACTICE AND PROCEDURE

1. The authority citation for part 1 continues to read as follows:

Authority: 47 U.S.C. chs. 2, 5, 9, 13; 28 U.S.C. 2461 note, unless otherwise noted.

2. Section 1.1151 is revised to read as follows:

§ 1.1151 Authority to prescribe and collect regulatory fees.

Authority to impose and collect regulatory fees is contained in section 9 of the Communications Act, as amended by sections 101-103 of title I of the Consolidated Appropriations Act of 2018 (Pub. L. 115-141, 132 Stat. 1084), 47 U.S.C. 159, which directs the Commission to prescribe and collect annual regulatory fees to recover the cost of carrying out the functions of the Commission.

3. Section 1.1152 is revised to read as follows:

§ 1.1152 Schedule of annual regulatory fees for wireless radio services.

Table 1 to § 1.1152
Exclusive use services (per license) | Fee amount
1. Land Mobile (Above 470 MHz and 220 MHz Local, Base Station & SMRS) (47 CFR part 90):
(a) New, Renew/Mod (FCC 601 & 159) | $25.00
(b) New, Renew/Mod (Electronic Filing) (FCC 601 & 159) | 25.00
(c) Renewal Only (FCC 601 & 159) | 25.00
(d) Renewal Only (Electronic Filing) (FCC 601 & 159) | 25.00
220 MHz Nationwide:
(a) New, Renew/Mod (FCC 601 & 159) | 25.00
(b) New, Renew/Mod (Electronic Filing) (FCC 601 & 159) | 25.00
(c) Renewal Only (FCC 601 & 159) | 25.00
(d) Renewal Only (Electronic Filing) (FCC 601 & 159) | 25.00
2. Microwave (47 CFR part 101) (Private):
(a) New, Renew/Mod (FCC 601 & 159) | 25.00
(b) New, Renew/Mod (Electronic Filing) (FCC 601 & 159) | 25.00
(c) Renewal Only (FCC 601 & 159) | 25.00
(d) Renewal Only (Electronic Filing) (FCC 601 & 159) | 25.00
3. Shared Use Services Land Mobile (Frequencies Below 470 MHz—except 220 MHz):
(a) New, Renew/Mod (FCC 601 & 159) | 10.00
(b) New, Renew/Mod (Electronic Filing) (FCC 601 & 159) | 10.00
(c) Renewal Only (FCC 601 & 159) | 10.00
(d) Renewal Only (Electronic Filing) (FCC 601 & 159) | 10.00
Rural Radio (47 CFR part 22):
(a) New, Additional Facility, Major Renew/Mod (Electronic Filing) (FCC 601 & 159) | 10.00
(b) Renewal, Minor Renew/Mod (Electronic Filing) | 10.00
4. Marine Coast:
(a) New Renewal/Mod (FCC 601 & 159) | 40.00
(b) New, Renewal/Mod (Electronic Filing) (FCC 601 & 159) | 40.00
(c) Renewal Only (FCC 601 & 159) | 40.00
(d) Renewal Only (Electronic Filing) (FCC 601 & 159) | 40.00
5. Aviation Ground:
(a) New, Renewal/Mod (FCC 601 & 159) | 20.00
(b) New, Renewal/Mod (Electronic Filing) (FCC 601 & 159) | 20.00
(c) Renewal Only (FCC 601 & 159) | 20.00
(d) Renewal Only (Electronic Only) (FCC 601 & 159) | 20.00
6. Marine Ship:
(a) New, Renewal/Mod (FCC 605 & 159) | 15.00
(b) New, Renewal/Mod (Electronic Filing) (FCC 605 & 159) | 15.00
(c) Renewal Only (FCC 605 & 159) | 15.00
(d) Renewal Only (Electronic Filing) (FCC 605 & 159) | 15.00
7. Aviation Aircraft:
(a) New, Renew/Mod (FCC 605 & 159) | 10.00
(b) New, Renew/Mod (Electronic Filing) (FCC 605 & 159) | 10.00
(c) Renewal Only (FCC 605 & 159) | 10.00
(d) Renewal Only (Electronic Filing) (FCC 605 & 159) | 10.00
8. CMRS Cellular/Mobile Services (per unit) (FCC 159) | ¹.14
9. CMRS Messaging Services (per unit) (FCC 159) | ².08
10. Broadband Radio Service (formerly MMDS and MDS) | 590
11. Local Multipoint Distribution Service | 590
¹ These are standard fees that are to be paid in accordance with § 1.1157(b) of this chapter.
² These are standard fees that are to be paid in accordance with § 1.1157(b) of this chapter.

4. Section 1.1153 is revised to read as follows:

§ 1.1153 Schedule of annual regulatory fees and filing locations for mass media services.

Table 1 to § 1.1153
Radio [AM and FM] (47 CFR part 73) | Fee amount
1. AM Class A:
<=25,000 population | $1,050.
25,001-75,000 population | 1,575.
75,001-150,000 population | 2,365.
150,001-500,000 population | 3,550.
500,001-1,200,000 population | 5,315.
1,200,001-3,000,000 population | 7,980.
3,000,001-6,000,000 population | 11,960.
>6,000,000 population | 17,945.
2. AM Class B:
≤25,000 population | 755.
25,001-75,000 population | 1,135.
75,001-150,000 population | 1,700.
150,001-500,000 population | 2,550.
500,001-1,200,000 population | 3,820.
1,200,001-3,000,000 population | 5,740.
3,000,001-6,000,000 population | 8,600.
>6,000,000 population | 12,905.
3. AM Class C:
≤25,000 population | 655.
25,001-75,000 population | 985.
75,001-150,000 population | 1,475.
150,001-500,000 population | 2,215.
500,001-1,200,000 population | 3,315.
1,200,001-3,000,000 population | 4,980.
3,000,001-6,000,000 population | 7,460.
>6,000,000 population | 11,195.
4. AM Class D:
≤25,000 population | 720.
25,001-75,000 population | 1,080.
75,001-150,000 population | 1,620.
150,001-500,000 population | 2,435.
500,001-1,200,000 population | 3,645.
1,200,001-3,000,000 population | 5,470.
3,000,001-6,000,000 population | 8,200.
>6,000,000 population | 12,305.
5. AM Construction Permit | 655.
6. FM Classes A, B1 and C3:
≤25,000 population | 1,145.
25,001-75,000 population | 1,720.
75,001-150,000 population | 2,575.
150,001-500,000 population | 3,870.
500,001-1,200,000 population | 5,795.
1,200,001-3,000,000 population | 8,700.
3,000,001-6,000,000 population | 13,040.
>6,000,000 population | 19,570.
7. FM Classes B, C, C0, C1 and C2:
≤25,000 population | 1,310.
25,001-75,000 population | 1,965.
75,001-150,000 population | 2,950.
150,001-500,000 population | 4,430.
500,001-1,200,000 population | 6,630.
1,200,001-3,000,000 population | 9,955.
3,000,001-6,000,000 population | 14,920.
>6,000,000 population | 22,390.
8. FM Construction Permits | 1,145.
TV (47 CFR part 73)
9. Digital TV (UHF and VHF Commercial Stations):
1. Digital TV Construction Permits | 5,200.
2. Television Fee Factor | .008430 per population count.
10. Low Power TV, Class A TV, FM Translator, & TV/FM Booster (47 CFR part 74) | 330.

5. Section 1.1154 is revised to read as follows:

§ 1.1154 Schedule of annual regulatory charges for common carrier services.

Table 1 to § 1.1154
Radio facilities | Fee amount
1. Microwave (Domestic Public Fixed) (Electronic Filing) (FCC Form 601 & 159) | $25.00.
Carriers
1. Interstate Telephone Service Providers (per interstate and international end-user revenues (see FCC Form 499-A) | .00452.
2. Toll Free Number Fee | .12 per Toll Free Number.

6. Section 1.1155 is revised to read as follows:

§ 1.1155 Schedule of regulatory fees for cable television services.

Table 1 to § 1.1155
| Fee amount
1. Cable Television Relay Service | $1,715
2. Cable TV System, Including IPTV (per subscriber), and DBS (per subscriber) | 1.16

6. Section 1.1156 is revised to read as follows:

§ 1.1156 Schedule of regulatory fees for international services.

(a) Geostationary orbit (GSO) and non-geostationary orbit (NGSO) space stations. The following schedule applies for the listed services:

Table 1 to Paragraph (a)
Fee category | Fee amount
Space Stations (Geostationary Orbit) | $124,060
Space Stations (Non-Geostationary Orbit)—Other | 340,005
Space Stations (Non-Geostationary Orbit)—Less Complex | 141,670
Space Stations (per license/call sign in non-geostationary orbit) (47 CFR part 25) (Small Satellite) | 12,215
Earth Stations: Transmit/Receive & Transmit only (per authorization or registration) | 620

(b) International terrestrial and satellite Bearer Circuits. (1) Regulatory fees for International Bearer Circuits are to be paid by facilities-based common carriers that have active (used or leased) international bearer circuits as of December 31 of the prior year in any terrestrial or satellite transmission facility for the provision of service to an end user or resale carrier, which includes active circuits to themselves or to their affiliates. In addition, non-common carrier terrestrial and satellite operators must pay a fee for each active circuit sold or leased to any customer, including themselves or their affiliates, other than an international common carrier authorized by the Commission to provide U.S. international common carrier services. “Active circuits” for purposes of this paragraph (b) include backup and redundant circuits. In addition, whether circuits are used specifically for voice or data is not relevant in determining that they are active circuits.

(2) The fee amount, per active Gbps circuit will be determined for each fiscal year.

Table 2 to Paragraph (b)(2)
International terrestrial and satellite (capacity as of December 31, 2021) | Fee amount
Terrestrial Common Carrier and Non-Common Carrier; Satellite Common Carrier and Non-Common Carrier | $39 per Gbps circuit.

(c) Submarine cable. Regulatory fees for submarine cable systems will be paid annually, per cable landing license, for all submarine cable systems operating based on their lit capacity as of December 31 of the prior year. The fee amount will be determined by the Commission for each fiscal year.

Table 3 to Paragraph (c)—FY 2021 International Bearer Circuits—Submarine Cable Systems
Submarine cable systems (lit capacity as of December 31, 2021) | Fee ratio (units) | FY 2022 regulatory fees
Less than 50 Gbps | .0625 | $8,610
50 Gbps or greater, but less than 250 Gbps | .125 | 17,215
250 Gbps or greater, but less than 1,500 Gbps | .25 | 34,430
1,500 Gbps or greater, but less than 3,500 Gbps | .5 | 68,860
3,500 Gbps or greater, but less than 6,500 Gbps | 1.0 | 137,715
6,500 Gbps or greater | 2.0 | 275,430

[FR Doc. 2022-19743 Filed 9-13-22; 8:45 am]

BILLING CODE 6712-01-P